ENVIRONMENTAL PROTECTION AGENCY

40 CFR Part 302

[EPA-HQ-OLEM-2022-0299; FRL-9335-01-OLEM]

Addition of 1-Bromopropane to the List of CERCLA Hazardous Substances; List of Hazardous Substances; Technical Corrections

AGENCY: Environmental Protection Agency (EPA).

ACTION: Final rule.

SUMMARY: The U.S. Environmental Protection Agency (EPA or the Agency) is issuing a technical amendment to modify the Comprehensive Environmental Response, Compensation, and Liability Act (CERCLA) list of hazardous substances, to be consistent with the statutory provisions that currently comprise this list. These modifications include adding the Clean Air Act (CAA) HAP 1-Bromopropane and removing the Resource Conservation and Recovery Act (RCRA) vacated K-Code Wastes: K064, K065, K066, K090, and K091. The Agency is also adding clarifying language, correcting a Chemical Abstract Service Registry Number (CASRN), and modifying the formatting of hazardous substance isomers and homologs that are listed with parent substances.

DATES: This final rule is effective on April 8, 2022.

FOR FURTHER INFORMATION CONTACT: Jennifer Barre, U.S. Environmental Protection Agency, Office of Emergency Management, (MC: 5104A), 1200 Pennsylvania Avenue NW, Washington, DC 20460; 202-564-9026; Barre.Jennifer@epa.gov.

SUPPLEMENTARY INFORMATION:

I. General Information

Entities that may be affected by this action include: (a) Industry: Manufacturers, handlers, transporters, and other users of Comprehensive Environmental Response, Compensation, and Liability Act (CERCLA) hazardous substances, (b) State, local, or Tribal governments: State Emergency Response Commissions (SERCs), Tribal Emergency Response Commissions (TERCs), Local Emergency Planning Committees (LEPCs), Tribal Emergency Planning Committees (TEPCs), (c) First responders: fire departments, (d) Federal government: National Response Center, any federal agency that has regulations based on the CERCLA regulation, and any federal agency that may release or respond to releases of these substances.

This technical amendment is modifying 40 CFR 302.4 and Table 302.4 “List of Hazardous Substances and Reportable Quantities.” Table 302.4 provides a list of hazardous substances as defined by the statute [CERCLA section 101(14); 42 U.S.C. 9601(14)] to include the following substances: (1) Clean Water Act (CWA) Hazardous Substances per section 311(b)(2) of the CWA [40 CFR 116.4; 33 U.S.C. 1321(b)(2)(A)], (2) CWA Toxic Pollutants per section 307(a) of the CWA [40 CFR 401.15, 40 CFR part 423 Appendix A, and 40 CFR 131.36; 33 U.S.C. 1317(a)], (3) Clean Air Act (CAA) Hazardous Air Pollutants (HAPs) per section 112(b) of the CAA [42 U.S.C. 7412(b); Pub. L. 101-549 November 15, 1990] ¹, and (4) Resource Conservation and Recovery Act (RCRA) Hazardous Wastes per section 3001 of the RCRA [40 CFR part 261 Subpart D—Lists of Hazardous Wastes; 42 U.S.C. 6921].

¹ The original list of HAPs has been modified by the EPA in the following Federal Register Notices: 70 FR 75047, December 19, 2005; 69 FR 69320, November 29, 2004; 61 FR 30816, June 18, 1996; 65 FR 47342, August 2, 2000, and 87 FR 393, January 5, 2022.

II. What does this amendment do?

This technical amendment is revising the list of CERCLA hazardous substances in 40 CFR part 302, Table 302.4 to be consistent with the statutory provisions that currently comprised this list (CWA Hazardous Substances, CWA Toxic Pollutants, CAA HAPs, and RCRA Hazardous Wastes). As further described below, the EPA is updating various CASRNs in this action so that they are consistent with the hazardous substance listing authorities and align with the Chemical Abstract Service, which is a division of the American Chemical Society and is the authoritative source for CASRNs. The entire Table 302.4 is being reprinted in this FR notice due to the complexity of transcribing the technical changes. The following is a list of the technical amendments that are being made within Table 302.4:

(a) Adding the CAA HAP 1-Bromopropane (1-BP) (CASRN 106-94-5) and its synonym n-Propyl bromide (nPB), pursuant to CERCLA section 101(14) and the establishment of a one-pound reportable quantity (RQ), per the statutory default set in CERCLA section 102(b). Also, adding the statutory code “3” indicating that this is a CAA HAP. This technical amendment is due to 1-Bromopropane being added as a CAA HAP. [87 FR 393, January 5, 2022]

(b) Deleting the RCRA Hazardous Waste vacated K-Code substances: K064, K065, K066, K090, and K091. This technical amendment is due to removal of these five waste codes from the list of RCRA Hazardous Wastes. [75 FR 12993, March 18, 2010; 64 FR 56470, October 20, 1999; 63 FR 28599, May 26, 1998]

(c) Removing the CWA Toxic Pollutants Statutory Code “2” for Dichloromethyl ether (CASRN 542-88-1) and its synonyms: Methane, oxybis(chloro- and Bis(chloromethyl) ether. This technical correction is being made due to a clerical error; Dichloromethyl ether is not and has not been listed as a CWA Toxic Pollutant. [40 CFR 401.15, 40 CFR part 423 Appendix A, and 40 CFR 131.36]

(d) Removing the CWA Toxic Pollutants Statutory Code “2” for “4,6-Dinitro-o-cresol, and salts” and its synonym “Phenol, 2-methyl-4,6-dinitro-, & salts” (CASRN 534-52-1). And, adding the CWA Priority Toxic Pollutant “4,6-Dinitro-o-cresol” and its synonym “Phenol, 2-methyl-4,6-dinitro-.” These technical corrections are being made due to a clerical error; the words “, & salts” do not and have not appeared in the CWA Toxic Pollutants lists. [40 CFR 401.15, 40 CFR part 423 Appendix A, and 40 CFR 131.36]

(e) Adding the CWA Toxic Pollutants Statutory Code “2” for the CWA Toxic Pollutants: Dichlorobenzene (25321-22-6), Dichloropropane (CASRN 26638-19-7), Dichloropropene (CASRN 26952-23-8), and Trichlorophenol (CASRN 25167-82-2). This technical correction is due to a clerical error; these substances are CWA Toxic Pollutants. [44 FR 44503, July 30, 1979; 40 CFR 401.15, 40 CFR part 423 Appendix A, and 40 CFR 131.36]

(f) Removing the CAA HAP statutory Code “3” for Methyl ethyl ketone (CASRN 78-93-3), its entry under F005, and its synonyms: 2-Butanone and MEK. This technical correction is being made because Methyl ethyl ketone was removed from the list of HAPs. [70 FR 75047, December 19, 2005]

(g) Removing the RCRA Hazardous Waste Code “4” and the RCRA waste number “U204” from Selenium oxide (CASRN 12640-89-0). These technical corrections are due to a technical error. Selenium oxide is not considered a RCRA Hazardous Waste. [40 CFR part 261 subpart D]

(h) Adding the RCRA Hazardous Waste Code “4” for “4,4′-DDE” (72-55-9) and its synonym “DDE.” This technical correction is due to a clerical error. 4,4-DDE is a RCRA Hazardous Waste. [40 CFR part 261 subpart D]

(i) Adding CASRNs for “Chlordane, alpha & gamma isomers” (5103-71-9) and (5103-74-2), Dichlorobenzidine (1331-47-1), Diphenylhydrazine (38622-18-3), and Nitrophenols (25154-55-6). These CASRNs are provided in Table 302.4 and Appendix A to Table 302.4 to facilitate identification of substances.

(j) Correcting CASRNs for the following substances: Updating “Arsenic disulfide” 1303-32-8 to 12044-79-0; removing “Chromic acid” 11115-74-5 as it has been replaced with 7738-94-5, which is already listed; updating “Cupric oxalate” 5893-66-3 to 55671-32-4; and removing “Lead stearate” 52652-59-2 as it has been replaced with 56189-09-4, which is already listed. These technical corrections align Table 302.4 with the current CASRNs for these substances.

(k) Reordering the following hazardous substances, that are names of categories of chemicals, prior to the names of hazardous substances that fit into these broader categories: “ANTIMONY AND COMPOUNDS”, “Antimony Compounds”, “Aroclors”, “ARSENIC AND COMPOUNDS”, “Arsenic Compounds (inorganic including arsenic)”, “BERYLLIUM AND COMPOUNDS”, “CADMIUM AND COMPOUNDS”, “CHLORDANE (TECHNICAL MIXTURE AND METABOLITES)”, “CHROMIUM AND COMPOUNDS”, “Chromium Compounds”, “COPPER AND COMPOUNDS”, “CYANIDES”, “ENDOSULFAN AND METABOLITES”, “ENDRIN AND METABOLITES”, “HEPTACHLOR AND METABOLITES”, “LEAD AND COMPOUNDS”, “MERCURY AND COMPOUNDS”, “Mercury Compounds”, “NICKEL AND COMPOUNDS”, “NITROPHENOLS”, “SELENIUM AND COMPOUNDS”, “Selenium Compounds”, “SILVER AND COMPOUNDS”, “THALLIUM AND COMPOUNDS”, “Xylene (mixed)”, “Xylenes (isomers and mixture)”, and “ZINC AND COMPOUNDS”. These technical corrections make the list easier to read.

(l) Reordering the following hazardous substances grouped as isomers and homologs to be in alphabetical and numerical order: 1,2-Dichloropropane, 1,3-Dichloropropene, 2,4-Dinitrophenol, and 3,4-Dinitrotoluene. These technical corrections make the list easier to read.

(m) Indenting hazardous substances that are isomers, homologs, or formulations under their parent compounds, where they were not already indented [Aroclors 1016, 1221, 1232, 1242, 1248, 1254, and 1260; Cresols m-, o-, and p-; Dichlorobenzenes 1,2- (o-), 1,3- (m-), and 1,4- (p-); 3,3-Dichlorobenzidine; Dichloropropanes 1,1- and 1,3-; 3-Dichloropropene; 2,4-Dinitrophenol; Dinitrotoluenes 2,4- and 2,6-; Endosulfans alpha- and beta; Nitrophenols 2- (o-) and 4- (p-); Trichlorophenols 2,4,5- and 2,4,6-; and m-Xylenes m-, o-, and p-]. These technical corrections make the list easier to read.

(n) Providing isomers that were already indented with the statutory codes, RCRA waste numbers, and the reportable quantity values of their parent hazardous substance (Amyl acetates iso-, sec-, and tert-; Butyl acetates iso-, sec-, and tert-; Butylamines iso-, sec-, and tert-; iso-Butyric acid, 2,3-Dichloropropene; Dinitrobenzenes m-, o-, and p-; Dinitrophenols 2,5- and 2,6-; 3,4-Dinitrotoluene; m-Nitrophenol; Nitrotoluenes m-, o-, and p-; and Trichlorophenols 2,3,4-, 2,3,5-, 2,3,6-, and 3,4,5-). These technical corrections make the list easier to read.

(o) Reformatting the CASRNs to add hyphens where they are missing. Hyphens were added to the hazardous substances in Table 302.4 on July 9, 2002 (67 FR 45316). On August 16, 2016 (71 FR 47106), 57 hazardous substances were added to Table 302.4 without hyphens. Adding hyphens to the CASRNs for those 57 hazardous substances as follows: A2213 (30558-43-1); Aldicarb sulfone (1646-88-4); Barban (101-27-9); Bendiocarb (22781-23-3); Bendiocarb phenol (22961-82-6); Benomyl (17804-35-2); 1,3-Benzodioxol-4-ol, 2,2-dimethyl- (22961-82-6); 1,3-Benzodioxol-4-ol, 2,2-dimethyl-, methyl carbamate (22781-23-3); 7-Benzofuranol, 2,3-dihydro-2,2-dimethyl- (1563-38-8); Benzoic acid, 2-hydroxy-, compd. with (3aS-cis)-1,2,3,3a,8,8a-hexahydro-1,3a,8-trimethylpyrrolo[2,3-b]indol-5-yl methylcarbamate ester (1:1) (57-64-7); Carbamic acid, 1H-benzimidazol-2-yl, methyl ester (10605-21-7); Carbamic acid, [1-[(butylamino)carbonyl]-1H-benzimidazol-2-yl]-,methyl ester (17804-35-2); Carbamic acid, (3-chlorophenyl)-, 4-chloro-2-butynyl ester (101-27-9); Carbamic acid, [(dibutylamino)-thio]methyl-, 2,3-dihydro-2,2-dimethyl-7-benzofuranyl ester (55285-14-8); Carbamic acid, dimethyl-,1-[(dimethyl-amino)carbonyl]-5-methyl-1H-pyrazol-3-yl ester (644-64-4); Carbamic acid, dimethyl-, 3-methyl-1-(1-methylethyl)-1H-pyrazol-5-yl ester (119-38-0); Carbamic acid, methyl-, 3-methylphenyl ester (1129-41-5); Carbamic acid, [1,2-phenylenebis(iminocarbonothioyl)]bis-, dimethyl ester (23564-05-8); Carbamic acid, phenyl-, 1-methylethyl ester (122-42-9); Carbamothioic acid, bis(1-methylethyl)-, S-(2,3,3-trichloro-2-propenyl) ester (2303-17-5); Carbamothioic acid, dipropyl-, S-(phenylmethyl) ester (52888-80-9); Carbendazim (10605-21-7); Carbofuran phenol (1563-38-8); Carbosulfan (55285-14-8); m-Cumenyl methylcarbamate (64-00-6); Diethylene glycol, dicarbamate (5952-26-1); Dimetilan (644-64-4); 1,3-Dithiolane-2-carboxaldehyde, 2,4-dimethyl-, O-[(methylamino)-carbonyl]oxime (26419-73-8); Ethanimidothioic acid, 2-(dimethylamino)-N-hydroxy-2-oxo-, methyl ester (30558-43-1); Ethanimidothioic acid, 2-(dimethylamino)-N-[[(methylamino)carbonyl]oxy]-2-oxo-, methyl ester (23135-22-0); Ethanimidothioic acid, N,N′- [thiobis[(methylimino) carbonyloxy]]bis-, dimethyl ester (59669-26-0); Ethanol, 2,2′-oxybis-, dicarbamate (5952-26-1); Formetanate hydrochloride (23422-53-9); Formparanate (17702-57-7); Isolan (119-38-0); 3-Isopropylphenyl N-methylcarbamate (64-00-6); Manganese, bis (dimethylcarbamodithioato-S,S′)- (15339-36-3); Manganese dimethyldithiocarbamate (15339-36-3); Methanimidamide, N,N-dimethyl-N′-[3-[[(methylamino)-carbonyl]oxy]phenyl]-, monohydrochloride (23422-53-9); Methanimidamide, N,N-dimethyl-N′-[2-methyl-4- [[(methylamino) carbonyl]oxy]phenyl]- (17702-57-7); Metolcarb (1129-41-5); Oxamyl (23135-22-0); Phenol, 3-(1-methylethyl)-, methyl carbamate (64-00-6); Phenol, 3-methyl-5-(1-methylethyl)-, methyl carbamate (2631-37-0); Physostigmine (57-47-6); Physostigmine salicylate (57-64-7); Promecarb (2631-37-0); Propanal, 2-methyl-2-(methyl-sulfonyl)-, O-[(methylamino)carbonyl] oxime (1646-88-4); Propham (122-42-9); Prosulfocarb (52888-80-9); Pyrrolo[2,3-b]indol-5-ol, 1,2,3,3a,8,8a- hexahydro-1,3a,8-trimethyl-, methylcarbamate (ester), (3aS-cis)- (57-47-6); Thiodicarb (59669-26-0); Thiophanate-methyl (23564-05-8); Tirpate (26419-73-8); Triallate (2303-17-5); Zinc, bis(dimethylcarbamodithioato-S,S′)- (137-30-4); and Ziram (137-30-4). Also, the EPA is updating the entire Appendix A to Table 302.4 to add the CASRNs throughout the appendix. These technical corrections make the list easier to read.

(p) Removing the duplicate entries for Zinc cyanide (CASRN 557-21-1) and “Phenol, 3-(1-methylethyl)-, methyl carbamate (m-Cumenyl methylcarbamate)” (CASRN 64-00-6) from Appendix A to Table § 302.4. This is a technical correction to make the list easier to read.

(q) Moving the Final RQ for Propionaldehyde (CASRN 123-38-6) “1000 (454)” from the “RCRA waste No.” column to the “Final RQ [pounds (kg)]” column. This technical correction is being made due to a clerical error that placed the value in the wrong column.

(r) Removing “1,2,4” from the Final RQ column in Table 302.4 for Titanium tetrachloride (CASRN 7550-45-0). This technical correction is being made due to a clerical error, these values do not belong in this column, nor are they statutory codes for this hazardous substance.

(s) Correcting the spelling of “Dichloromethoxy ethane” from “Dichloromethoxyethane” to be consistent with the listing for the substance as a RCRA Hazardous Waste. [40 CFR part 261 subpart D]

In addition to these technical amendments, the EPA is making six other technical corrections:

(1) Revising the heading title of 40 CFR 302.4 from “Designation of Hazardous Substances” to “Hazardous Substances and Reportable Quantities.” This technical correction to the title accurately represents the contents of the section; section 302.4 does not designate hazardous substances, but rather provides a list of hazardous substances as defined by the statute [CERCLA 101(14)].

(2) Revising the language in the note preceding Table 302.4 to add guidance on the applicability of the CASRNs that are provided in Table 302.4 and to provide citations to the regulatory lists that comprise the table, in addition to their statutory sources. These technical corrections are being made to provide a clear understanding of the usefulness of CASRNs and to provide a direct reference for users of the lists that comprise Table 302.4.

(3) Deleting one of the duplicate notes with the single dagger note symbol (†). This technical correction is being made due to a clerical error.

(4) Replacing the dagger note symbols (†, ††, and †††) with roman numeric superscripts (II, III, and IV). This technical correction is being made to allow for the addition of notes and to make the notes easier to identify and read.

(5) Revising the language in the note preceding Table 302.4 to provide a clarifying statement regarding CASRN limitations, adding the numeric note reference symbol “I” to the header for “CASRN,” and adding the numeric note reference “II” to the notes at the end of the table. These technical corrections are being made to clarify the limitations of CASRNs.

(6) Revising the header “Final RQ pounds (Kg)” to “Final RQ [pounds (kg)].” This technical correction is being made to add clarity to the table by separating the title of the column from the units of the values within the column.

III. Rulemaking Procedures and Findings of Good Cause

Section 553 of the Administrative Procedure Act (APA), 5 U.S.C. 553(b)(3)(B), provides that, when an agency for good cause finds that notice and public procedure are impracticable, unnecessary, or contrary to the public interest, the agency may issue a final rule without providing notice and an opportunity for public comment. EPA has determined that there is good cause for making this technical amendment final without prior proposal and opportunity for comment, because such notice and opportunity for comment is unnecessary for the following two reasons. First, 40 CFR 302.4 contains substances that are listed or designated as provided in CERCLA section 101(14). [48 FR 23554, May 25, 1983] These statutory provisions are currently (1) CWA Hazardous Substances, (2) CWA Toxic Pollutants, (3) CAA HAPs, and (4) RCRA Hazardous Wastes. Technically, once substances are added to or removed under these four statutory provisions, they are automatically considered or not considered as CERCLA hazardous substances. Of note, no revisions or changes are being made in this action under CERCLA section 9602 listing authority. Therefore, the addition and removal of substances from 40 CFR 302.4 is merely administrative and does not affect any substantive requirements. Secondly, the other modifications in this action are minor and non-substantive technical corrections. EPA finds that this constitutes good cause under 5 U.S.C. 553(b)(3)(B).

IV. Effective Date

Section 553(d)(3) of the APA provides that final rules shall not become effective until 30 days after publication in the Federal Register “except . . . as otherwise provided by the Agency for good cause.” The purpose of this provision is to “give affected parties a reasonable time to adjust their behavior before the final rule takes effect.” Omnipoint Corp. v. Fed. Commc'n Comm'n, 78 F.3d 620, 630 (D.C. Cir. 1996); see also United States v. Gavrilovic, 551 F.2d 1099, 1104 (8th Cir. 1977) (quoting legislative history). Thus, in determining whether good cause exists to waive the 30-day delay, an agency should “balance the necessity for immediate implementation against principles of fundamental fairness which require that all affected persons be afforded a reasonable amount of time to prepare for the effective date of its ruling.” Gavrilovic, 551 F.2d at 1105. EPA has determined that there is good cause for making this final rule effective immediately because it merely modifies 40 CFR 302.4 to be consistent with the list of substances from the statutes it is comprised of, corrects CASRN numbers to be accurate, and adjusts the formatting to make the lists easier to read. For this reason, the Agency finds that good cause exists under APA section 553(d)(3) to make this rule effective immediately upon publication.

V. Do any of the statutory and Executive Order reviews apply to this action?

Under Executive Order 12866 (58 FR 51735, October 4, 1993) and Executive Order 13563 (76 FR 3821, January 21, 2011), this action is not a “significant regulatory action” and is therefore not subject to the Office of Management and Budget (OMB) review. Additionally, this action is not an Executive Order 13771 regulatory action because this action is not significant under Executive Order 12866. Because this action is not subject to notice and comment requirements under the Administrative Procedure Act or any other statute, it is not subject to the Regulatory Flexibility Act (5 U.S.C. 601 et seq.) or Sections 202 and 205 of the Unfunded Mandates Reform Act(2 U.S.C. 1531-1538). In addition, this action does not significantly or uniquely affect small governments. This action does not create new binding legal requirements that substantially and directly affect tribes under Executive Order 13175 (65 FR 67249, November 9, 2000). This action does not have significant Federalism implications under Executive Order 13132 (64 FR 43255, August 10, 1999). Because this final rule is not subject to review under Executive Order 12866, this final rule is not subject to Executive Order 13211, entitled, “Actions Concerning Regulations That Significantly Affect Energy Supply, Distribution, or Use” (66 FR 28355, May 22, 2001) or Executive Order 13045, entitled, “Protection of Children from Environmental Health Risks and Safety Risks” (62 FR 19885, April 23, 1997). Continuous release reporting is covered under OMB Control Number 2050-0086. This final rule does not contain any changes to the information collections subject to OMB approval under the Paperwork Reduction Act (PRA), 44 U.S.C. 3501 et seq., nor does it require any special considerations under Executive Order 12898, entitled, “Federal Actions to Address Environmental Justice in Minority Populations and Low-Income Populations” (59 FR 7629, February 16, 1994). This action does not involve technical standards; thus, the requirements of Section 12(d) of the National Technology Transfer and Advancement Act of 1995 (15 U.S.C. 272 note) do not apply.

This action is subject to the Congressional Review Act (CRA), and the EPA will submit a rule report to each House of Congress and to the Comptroller General of the United States. The CRA allows the issuing agency to make a rule effective sooner than otherwise provided by the CRA if the agency makes a good cause finding that notice and comment rulemaking procedures are impracticable, unnecessary, or contrary to the public interest (5 U.S.C. 808(2)). The EPA has made a good cause finding for this rule as discussed in Section III of the preamble, including the basis for that finding.

List of Subjects for 40 CFR Part 302

Environmental protection, Air Pollution control, Chemicals, Hazardous substances, Hazardous wastes, Water pollution control.

Dated: March 31, 2022.
Barry N. Breen,
Acting Assistant Administrator, Office of Land and Emergency Management.

For the reasons stated in the preamble, the EPA amends title 40, chapter I of the Code of Federal Regulations as follows:

PART 302—DESIGNATION, REPORTABLE QUANTITIES, AND NOTIFICATION

1. The authority citation for Part 302 continues to read as follows:

Authority: 33 U.S.C. 1251 et seq., 42 U.S.C. 9601 et seq., 42 U.S.C. 9602, 42 U.S.C. 9603.

2. Amend § 302.4 by:

a. Revising the section heading;

b. Removing the “note” after Paragraph (b)

c. Adding Notes I and II to Table 302.4;

d. Revising Table 302.4;

e. Revising Appendix A to § 302.4—Sequential CAS Registry Number List of CERCLA Hazardous Substances.

The revisions and additions read as follows:

§ 302.4 Hazardous substances and reportable quantities.

* * * * *

Note I to Table 302.4

The numbers under the column headed “CASRN” are the Chemical Abstracts Service Registry Numbers for each hazardous substance. CASRNs are unique numeric identifiers for specific substances. CASRNs are updated by the Chemical Abstract Service and are sometimes deleted or replaced. This list of CERCLA hazardous substances relies on information provided in the statutory lists that comprise the table. CASRNs are provided for convenience only to aid in the identification of the designated hazardous substance. Some CASRNs are given only for parent compounds. In some cases, a chemical name may have more than one CASRN associated with it due to the chemical's various forms; however, each CAS Registry Number is a unique numeric identifier and designates only one substance. That is, two substances, or two forms of a substance, do not have the same CAS Registry Number. If there is a discrepancy between the hazardous substance name and the listed CAS Registry Number, the hazardous substance names appearing in Table 302.4 should be used as the official means to determine if a given chemical or substance is reportable.

Note II to Table 302.4

Hazardous substances are given a Statutory Code based on their statutory source. The “Statutory Code” column indicates the statutory source for designating each substance as a CERCLA hazardous substance. Statutory Code “1” indicates a Clean Water Act (CWA) Hazardous Substance [40 CFR 116.4; 33 U.S.C. 1321(b)(2)(A)]. Statutory Code “2” indicates a CWA Toxic Pollutant [40 CFR 401.15, 40 CFR part 423 Appendix A, and/or 40 CFR 131.36; 33 U.S.C. 1317(a)]. Statutory Code “3” indicates a CAA HAP [42 U.S.C. 7412(b); Pub. L. 101-549 November 15, 1990; 70 FR 75047 December 19, 2005; 69 FR 69320 November 29, 2004; 61 FR 30816 June 18, 1996; 65 FR 47342 August 2, 2000; 87 FR 393 January 5, 2022]. Statutory Code “4” indicates Resource Conservation and Recovery Act (RCRA) Hazardous Wastes [40 CFR part 261 Subpart D—Lists of Hazardous Wastes; 42 U.S.C. 6921]. The “RCRA waste No.” column provides the waste identification numbers assigned by RCRA regulations. The “Final RQ [pounds (kg)]” column provides the reportable quantity for each hazardous substance in pounds and kilograms.

Table 302.4—List of Hazardous Substances and Reportable Quantities
[All comments/notes are located at the end of the table.]
Hazardous substance | CASRN I | Statutory code II | RCRA waste No. | Final RQ [pounds (kg)]
A2213 | 30558-43-1 | 4 | U394 | 5000 (2270)
Acenaphthene | 83-32-9 | 2 |  | 100 (45.4)
Acenaphthylene | 208-96-8 | 2 |  | 5000 (2270)
Acetaldehyde | 75-07-0 | 1,3,4 | U001 | 1000 (454)
Acetaldehyde, chloro- | 107-20-0 | 4 | P023 | 1000 (454)
Acetaldehyde, trichloro- | 75-87-6 | 4 | U034 | 5000 (2270)
Acetamide | 60-35-5 | 3 |  | 100 (45.4)
Acetamide, N-(aminothioxomethyl)- | 591-08-2 | 4 | P002 | 1000 (454)
Acetamide, N-(4-ethoxyphenyl)- | 62-44-2 | 4 | U187 | 100 (45.4)
Acetamide, N-9H-fluoren-2-yl- | 53-96-3 | 3,4 | U005 | 1 (0.454)
Acetamide, 2-fluoro- | 640-19-7 | 4 | P057 | 100 (45.4)
Acetic acid | 64-19-7 | 1 |  | 5000 (2270)
Acetic acid, (2,4-dichlorophenoxy)-, salts & esters | 94-75-7 | 1,3,4 | U240 | 100 (45.4)
Acetic acid, ethyl ester | 141-78-6 | 4 | U112 | 5000 (2270)
Acetic acid, fluoro-, sodium salt | 62-74-8 | 4 | P058 | 10 (4.54)
Acetic acid, lead(2 +) salt | 301-04-2 | 1,4 | U144 | 10 (4.54)
Acetic acid, thallium(1 +) salt | 563-68-8 | 4 | U214 | 100 (45.4)
Acetic acid, (2,4,5-trichlorophenoxy)- | 93-76-5 | 1,4 | See F027 | 1000 (454)
Acetic anhydride | 108-24-7 | 1 |  | 5000 (2270)
Acetone | 67-64-1 | 4 | U002 | 5000 (2270)
Acetone cyanohydrin | 75-86-5 | 1,4 | P069 | 10 (4.54)
Acetonitrile | 75-05-8 | 3,4 | U003 | 5000 (2270)
Acetophenone | 98-86-2 | 3,4 | U004 | 5000 (2270)
2-Acetylaminofluorene | 53-96-3 | 3,4 | U005 | 1 (0.454)
Acetyl bromide | 506-96-7 | 1 |  | 5000 (2270)
Acetyl chloride | 75-36-5 | 1,4 | U006 | 5000 (2270)
1-Acetyl-2-thiourea | 591-08-2 | 4 | P002 | 1000 (454)
Acrolein | 107-02-8 | 1,2,3,4 | P003 | 1 (0.454)
Acrylamide | 79-06-1 | 3,4 | U007 | 5000 (2270)
Acrylic acid | 79-10-7 | 3,4 | U008 | 5000 (2270)
Acrylonitrile | 107-13-1 | 1,2,3,4 | U009 | 100 (45.4)
Adipic acid | 124-04-9 | 1 |  | 5000 (2270)
Aldicarb | 116-06-3 | 4 | P070 | 1 (0.454)
Aldicarb sulfone | 1646-88-4 | 4 | P203 | 100 (45.4)
Aldrin | 309-00-2 | 1,2,4 | P004 | 1 (0.454)
Allyl alcohol | 107-18-6 | 1,4 | P005 | 100 (45.4)
Allyl chloride | 107-05-1 | 1,3 |  | 1000 (454)
Aluminum phosphide | 20859-73-8 | 4 | P006 | 100 (45.4)
Aluminum sulfate | 10043-01-3 | 1 |  | 5000 (2270)
4-Aminobiphenyl | 92-67-1 | 3 |  | 1 (0.454)
5-(Aminomethyl)-3-isoxazolol | 2763-96-4 | 4 | P007 | 1000 (454)
4-Aminopyridine | 504-24-5 | 4 | P008 | 1000 (454)
Amitrole | 61-82-5 | 4 | U011 | 10 (4.54)
Ammonia | 7664-41-7 | 1 |  | 100 (45.4)
Ammonium acetate | 631-61-8 | 1 |  | 5000 (2270)
Ammonium benzoate | 1863-63-4 | 1 |  | 5000 (2270)
Ammonium bicarbonate | 1066-33-7 | 1 |  | 5000 (2270)
Ammonium bichromate | 7789-09-5 | 1 |  | 10 (4.54)
Ammonium bifluoride | 1341-49-7 | 1 |  | 100 (45.4)
Ammonium bisulfilte | 10192-30-0 | 1 |  | 5000 (2270)
Ammonium carbamate | 1111-78-0 | 1 |  | 5000 (2270)
Ammonium carbonate | 506-87-6 | 1 |  | 5000 (2270)
Ammonium chloride | 12125-02-9 | 1 |  | 5000 (2270)
Ammonium chromate | 7788-98-9 | 1 |  | 10 (4.54)
Ammonium citrate, dibasic | 3012-65-5 | 1 |  | 5000 (2270)
Ammonium fluoborate | 13826-83-0 | 1 |  | 5000 (2270)
Ammonium fluoride | 12125-01-8 | 1 |  | 100 (45.4)
Ammonium hydroxide | 1336-21-6 | 1 |  | 1000 (454)
Ammonium oxalate | 6009-70-7 5972-73-6 14258-49-2 | 1 |  | 5000 (2270)
Ammonium picrate | 131-74-8 | 4 | P009 | 10 (4.54)
Ammonium silicofluoride | 16919-19-0 | 1 |  | 1000 (454)
Ammonium sulfamate | 7773-06-0 | 1 |  | 5000 (2270)
Ammonium sulfide | 12135-76-1 | 1 |  | 100 (45.4)
Ammonium sulfite | 10196-04-0 | 1 |  | 5000 (2270)
Ammonium tartrate | 14307-43-8 3164-29-2 | 1 |  | 5000 (2270)
Ammonium thiocyanate | 1762-95-4 | 1 |  | 5000 (2270)
Ammonium vanadate | 7803-55-6 | 4 | P119 | 1000 (454)
Amyl acetate | 628-63-7 | 1 |  | 5000 (2270)
iso-Amyl acetate | 123-92-2 | 1 |  | 5000 (2270)
sec-Amyl acetate | 626-38-0 | 1 |  | 5000 (2270)
tert-Amyl acetate | 625-16-1 | 1 |  | 5000 (2270)
Aniline | 62-53-3 | 1,3,4 | U012 | 5000 (2270)
o-Anisidine | 90-04-0 | 3 |  | 100 (45.4)
Anthracene | 120-12-7 | 2 |  | 5000 (2270)
ANTIMONY AND COMPOUNDS | N.A. | 2,3 |  | **
Antimony Compounds | N.A. | 2,3 |  | **
Antimony III | 7440-36-0 | 2 |  | 5000 (2270)
Antimony pentachloride | 7647-18-9 | 1 |  | 1000 (454)
Antimony potassium tartrate | 28300-74-5 | 1 |  | 100 (45.4)
Antimony tribromide | 7789-61-9 | 1 |  | 1000 (454)
Antimony trichloride | 10025-91-9 | 1 |  | 1000 (454)
Antimony trifluoride | 7783-56-4 | 1 |  | 1000 (454)
Antimony trioxide | 1309-64-4 | 1 |  | 1000 (454)
Argentate(1-), bis(cyano-C)-, potassium | 506-61-6 | 4 | P099 | 1 (0.454)
Aroclors | 1336-36-3 | 1,2,3 |  | 1 (0.454)
Aroclor 1016 | 12674-11-2 | 1,2,3 |  | 1 (0.454)
Aroclor 1221 | 11104-28-2 | 1,2,3 |  | 1 (0.454)
Aroclor 1232 | 11141-16-5 | 1,2,3 |  | 1 (0.454)
Aroclor 1242 | 53469-21-9 | 1,2,3 |  | 1 (0.454)
Aroclor 1248 | 12672-29-6 | 1,2,3 |  | 1 (0.454)
Aroclor 1254 | 11097-69-1 | 1,2,3 |  | 1 (0.454)
Aroclor 1260 | 11096-82-5 | 1,2,3 |  | 1 (0.454)
ARSENIC AND COMPOUNDS | N.A. | 2,3 |  | **
Arsenic Compounds (inorganic including arsine) | N.A. | 2,3 |  | **
Arsenic III | 7440-38-2 | 2,3 |  | 1 (0.454)
Arsenic acid H3AsO4 | 7778-39-4 | 4 | P010 | 1 (0.454)
Arsenic disulfide | 12044-79-0 | 1 |  | 1 (0.454)
Arsenic oxide As2O3 | 1327-53-3 | 1,4 | P012 | 1 (0.454)
Arsenic oxide As2O5 | 1303-28-2 | 1,4 | P011 | 1 (0.454)
Arsenic pentoxide | 1303-28-2 | 1,4 | P011 | 1 (0.454)
Arsenic trichloride | 7784-34-1 | 1 |  | 1 (0.454)
Arsenic trioxide | 1327-53-3 | 1,4 | P012 | 1 (0.454)
Arsenic trisulfide | 1303-33-9 | 1 |  | 1 (0.454)
Arsine, diethyl- | 692-42-2 | 4 | P038 | 1 (0.454)
Arsinic acid, dimethyl- | 75-60-5 | 4 | U136 | 1 (0.454)
Arsonous dichloride, phenyl- | 696-28-6 | 4 | P036 | 1 (0.454)
Asbestos IV | 1332-21-4 | 2,3 |  | 1 (0.454)
Auramine | 492-80-8 | 4 | U014 | 100 (45.4)
Azaserine | 115-02-6 | 4 | U015 | 1 (0.454)
Aziridine | 151-56-4 | 3,4 | P054 | 1 (0.454)
Aziridine, 2-methyl- | 75-55-8 | 3,4 | P067 | 1 (0.454)
Azirino[2′,3′:3,4]pyrrolo[1,2-a]indole-4,7-dione, 6-amino-8-[[(aminocarbonyl)oxy]methyl]-1,1a,2,8,8a,8b- hexahydro-8a-methoxy-5- methyl-,[1aS- (1aalpha,8beta,8aalpha, 8balpha)]- | 50-07-7 | 4 | U010 | 10 (4.54)
Barban | 101-27-9 | 4 | U280 | 10 (4.54)
Barium cyanide | 542-62-1 | 1,4 | P013 | 10 (4.54)
Bendiocarb | 22781-23-3 | 4 | U278 | 100 (45.4)
Bendiocarb phenol | 22961-82-6 | 4 | U364 | 1000 (454)
Benomyl | 17804-35-2 | 4 | U271 | 10 (4.54)
Benz[j]aceanthrylene, 1,2-dihydro-3-methyl- | 56-49-5 | 4 | U157 | 10 (4.54)
Benz[c]acridine | 225-51-4 | 4 | U016 | 100 (45.4)
Benzal chloride | 98-87-3 | 4 | U017 | 5000 (2270)
Benzamide, 3,5-dichloro-N-(1,1-dimethyl-2propynyl)- | 23950-58-5 | 4 | U192 | 5000 (2270)
Benz[a]anthracene | 56-55-3 | 2,4 | U018 | 10 (4.54)
1,2-Benzanthracene | 56-55-3 | 2,4 | U018 | 10 (4.54)
Benz[a]anthracene, 7,12-dimethyl- | 57-97-6 | 4 | U094 | 1 (0.454)
Benzenamine | 62-53-3 | 1,3,4 | U012 | 5000 (2270)
Benzenamine, 4,4′-carbonimidoylbis (N,N dimethyl- | 492-80-8 | 4 | U014 | 100 (45.4)
Benzenamine, 4-chloro- | 106-47-8 | 4 | P024 | 1000 (454)
Benzenamine, 4-chloro-2-methyl-, hydrochloride | 3165-93-3 | 4 | U049 | 100 (45.4)
Benzenamine, N,N-dimethyl-4-(phenylazo)- | 60-11-7 | 3,4 | U093 | 10 (4.54)
Benzenamine, 2-methyl- | 95-53-4 | 3,4 | U328 | 100 (45.4)
Benzenamine, 4-methyl- | 106-49-0 | 4 | U353 | 100 (45.4)
Benzenamine, 4,4′-methylenebis [2-chloro- | 101-14-4 | 3,4 | U158 | 10 (4.54)
Benzenamine, 2-methyl-,hydrochloride | 636-21-5 | 4 | U222 | 100 (45.4)
Benzenamine, 2-methyl-5-nitro- | 99-55-8 | 4 | U181 | 100 (45.4)
Benzenamine, 4-nitro- | 100-01-6 | 4 | P077 | 5000 (2270)
Benzene ᵃ | 71-43-2 | 1,2,3,4 | U019 | 10 (4.54)
Benzeneacetic acid, 4-chloro-α-(4-chlorophenyl)-α-hydroxy-, ethyl ester | 510-15-6 | 3,4 | U038 | 10 (4.54)
Benzene, 1-bromo-4-phenoxy- | 101-55-3 | 2,4 | U030 | 100 (45.4)
Benzenebutanoic acid, 4-[bis(2- chloroethyl)amino]- | 305-03-3 | 4 | U035 | 10 (4.54)
Benzene, chloro- | 108-90-7 | 1,2,3,4 | U037 | 100 (45.4)
Benzene, (chloromethyl)- | 100-44-7 | 1,3,4 | P028 | 100 (45.4)
Benzenediamine, ar-methyl- | 95-80-7 496-72-0 823-40-5 25376-45-8 | 3,4 | U221 | 10 (4.54)
1,2-Benzenedicarboxylic acid, bis(2-ethylhexyl) ester | 117-81-7 | 2,3,4 | U028 | 100 (45.4)
1,2-Benzenedicarboxylic acid, dibutyl ester | 84-74-2 | 1,2,3,4 | U069 | 10 (4.54)
1,2-Benzenedicarboxylic acid, diethyl ester | 84-66-2 | 2,4 | U088 | 1000 (454)
1,2-Benzenedicarboxylic acid, dimethyl ester | 131-11-3 | 2,3,4 | U102 | 5000 (2270)
1,2-Benzenedicarboxylic acid, dioctyl ester | 117-84-0 | 2,4 | U107 | 5000 (2270)
Benzene, 1,2-dichloro- | 95-50-1 | 1,2,4 | U070 | 100 (45.4)
Benzene, 1,3-dichloro- | 541-73-1 | 2,4 | U071 | 100 (45.4)
Benzene, 1,4-dichloro- | 106-46-7 | 1,2,3,4 | U072 | 100 (45.4)
Benzene, 1,1′-(2,2-dichloroethylidene) bis[4-chloro- | 72-54-8 | 1,2,4 | U060 | 1 (0.454)
Benzene, (dichloromethyl)- | 98-87-3 | 4 | U017 | 5000 (2270)
Benzene, 1,3-diisocyanatomethyl- | 91-08-7 584-84-9 26471-62-5 | 3,4 | U223 | 100 (45.4)
Benzene, dimethyl- | 1330-20-7 | 1,3,4 | U239 | 100 (45.4)
1,3-Benzenediol | 108-46-3 | 1,4 | U201 | 5000 (2270)
1,2-Benzenediol,4-[1-hydroxy-2-(methyl amino)ethyl]- | 51-43-4 | 4 | P042 | 1000 (454)
Benzeneethanamine, alpha,alpha-dimethyl- | 122-09-8 | 4 | P046 | 5000 (2270)
Benzene, hexachloro- | 118-74-1 | 2,3,4 | U127 | 10 (4.54)
Benzene, hexahydro- | 110-82-7 | 1,4 | U056 | 1000 (454)
Benzene, methyl- | 108-88-3 | 1,2,3,4 | U220 | 1000 (454)
Benzene, 1-methyl-2,4-dinitro- | 121-14-2 | 1,2,3,4 | U105 | 10 (4.54)
Benzene, 2-methyl-1,3-dinitro- | 606-20-2 | 1,2,4 | U106 | 100 (45.4)
Benzene, (1-methylethyl)- | 98-82-8 | 3,4 | U055 | 5000 (2270)
Benzene, nitro- | 98-95-3 | 1,2,3,4 | U169 | 1000 (454)
Benzene, pentachloro- | 608-93-5 | 4 | U183 | 10 (4.54)
Benzene, pentachloronitro- | 82-68-8 | 3,4 | U185 | 100 (45.4)
Benzenesulfonic acid chloride | 98-09-9 | 4 | U020 | 100 (45.4)
Benzenesulfonyl chloride | 98-09-9 | 4 | U020 | 100 (45.4)
Benzene,1,2,4,5-tetrachloro- | 95-94-3 | 4 | U207 | 5000 (2270)
Benzenethiol | 108-98-5 | 4 | P014 | 100 (45.4)
Benzene,1,1′-(2,2,2-trichloroethylidene) bis[4-chloro- | 50-29-3 | 1,2,4 | U061 | 1 (0.454)
Benzene,1,1′-(2,2,2-trichloroethylidene) bis[4-methoxy- | 72-43-5 | 1,3,4 | U247 | 1 (0.454)
Benzene, (trichloromethyl)- | 98-07-7 | 3,4 | U023 | 10 (4.54)
Benzene, 1,3,5-trinitro- | 99-35-4 | 4 | U234 | 10 (4.54)
Benzidine | 92-87-5 | 2,3,4 | U021 | 1 (0.454)
Benzo[a]anthracene | 56-55-3 | 2,4 | U018 | 10 (4.54)
1,3-Benzodioxole, 5-(1-propenyl)-1 | 120-58-1 | 4 | U141 | 100 (45.4)
1,3-Benzodioxole, 5-(2-propenyl)- | 94-59-7 | 4 | U203 | 100 (45.4)
1,3-Benzodioxole, 5-propyl- | 94-58-6 | 4 | U090 | 10 (4.54)
1,3-Benzodioxol-4-ol, 2,2-dimethyl- | 22961-82-6 | 4 | U364 | 1000 (454)
1,3-Benzodioxol-4-ol, 2,2-dimethyl-, methyl carbamate | 22781-23-3 | 4 | U278 | 100 (45.4)
Benzo[b]fluoranthene | 205-99-2 | 2 |  | 1 (0.454)
Benzo(k)fluoranthene | 207-08-9 | 2 |  | 5000 (2270)
7-Benzofuranol, 2,3-dihydro-2,2-dimethyl- | 1563-38-8 | 4 | U367 | 10 (4.54)
7-Benzofuranol, 2,3-dihydro-2,2- dimethyl-, methylcarbamate | 1563-66-2 | 1,4 | P127 | 10 (4.54)
Benzoic acid | 65-85-0 | 1 |  | 5000 (2270)
Benzoic acid, 2-hydroxy-, compd. with (3aS-cis)-1,2,3,3a,8,8a-hexahydro-1,3a,8-trimethylpyrrolo[2,3-b]indol-5-yl methylcarbamate ester (1:1) | 57-64-7 | 4 | P188 | 100 (45.4)
Benzonitrile | 100-47-0 | 1 |  | 5000 (2270)
Benzo[rst]pentaphene | 189-55-9 | 4 | U064 | 10 (4.54)
Benzo[ghi]perylene | 191-24-2 | 2 |  | 5000 (2270)
2H-1-Benzopyran-2-one, 4-hydroxy-3-(3-oxo-1-phenylbutyl)-, & salts | 81-81-2 | 4 | P001 U248 | 100 (45.4)
Benzo[a]pyrene | 50-32-8 | 2,4 | U022 | 1 (0.454)
3,4-Benzopyrene | 50-32-8 | 2,4 | U022 | 1 (0.454)
ρ-Benzoquinone | 106-51-4 | 3,4 | U197 | 10 (4.54)
Benzotrichloride | 98-07-7 | 3,4 | U023 | 10 (4.54)
Benzoyl chloride | 98-88-4 | 1 |  | 1000 (454)
Benzyl chloride | 100-44-7 | 1,3,4 | P028 | 100 (45.4)
BERYLLIUM AND COMPOUNDS | N.A. | 2,3 |  | **
Beryllium III | 7440-41-7 | 2,3,4 | P015 | 10 (4.54)
Beryllium chloride | 7787-47-5 | 1 |  | 1 (0.454)
Beryllium compounds | N.A. | 2,3 |  | **
Beryllium fluoride | 7787-49-7 | 1 |  | 1 (0.454)
Beryllium nitrate | 13597-99-4 7787-55-5 | 1 |  | 1 (0.454)
Beryllium powder III | 7440-41-7 | 2,3,4 | P015 | 10 (4.54)
alpha-BHC | 319-84-6 | 2 |  | 10 (4.54)
beta-BHC | 319-85-7 | 2 |  | 1 (0.454)
delta-BHC | 319-86-8 | 2 |  | 1 (0.454)
gamma-BHC | 58-89-9 | 1,2,3,4 | U129 | 1 (0.454)
2,2′-Bioxirane | 1464-53-5 | 4 | U085 | 10 (4.54)
Biphenyl | 92-52-4 | 3 |  | 100 (45.4)
[1,1′-Biphenyl]-4,4′-diamine | 92-87-5 | 2,3,4 | U021 | 1 (0.454)
[1,1′-Biphenyl]-4,4′-diamine,3,3′-dichloro- | 91-94-1 | 2,3,4 | U073 | 1 (0.454)
[1,1′-Biphenyl]-4,4′-diamine,3,3′-dimethoxy- | 119-90-4 | 3,4 | U091 | 100 (45.4)
[1,1′-Biphenyl]-4,4′-diamine,3,3′-dimethyl- | 119-93-7 | 3,4 | U095 | 10 (4.54)
Bis(2-chloroethoxy) methane | 111-91-1 | 2,4 | U024 | 1000 (454)
Bis(2-chloroethyl) ether | 111-44-4 | 2,3,4 | U025 | 10 (4.54)
Bis(chloromethyl) ether | 542-88-1 | 3,4 | P016 | 10 (4.54)
Bis(2-ethylhexyl) phthalate | 117-81-7 | 3,4 | U028 | 100 (45.4)
Bromoacetone | 598-31-2 | 4 | P017 | 1000 (454)
1-Bromopropane (1-BP) | 106-94-5 | 3 |  | 1 (0.454)
Bromoform | 75-25-2 | 2,3,4 | U225 | 100 (45.4)
Bromomethane | 74-83-9 | 2,3,4 | U029 | 1000 (454)
4-Bromophenyl phenyl ether | 101-55-3 | 2,4 | U030 | 100 (45.4)
Brucine | 357-57-3 | 4 | P018 | 100 (45.4)
1,3-Butadiene | 106-99-0 | 3 |  | 10 (4.54)
1,3-Butadiene, 1,1,2,3,4,4-hexachloro- | 87-68-3 | 2,3,4 | U128 | 1 (0.454)
1-Butanamine, N-butyl-N-nitroso- | 924-16-3 | 4 | U172 | 10 (4.54)
1-Butanol | 71-36-3 | 4 | U031 | 5000 (2270)
2-Butanone | 78-93-3 | 4 | U159 | 5000 (2270)
2-Butanone, 3,3-dimethyl-1(methylthio)-, O-[(methylamino)carbonyl] oxime | 39196-18-4 | 4 | P045 | 100 (45.4)
2-Butanone peroxide | 1338-23-4 | 4 | U160 | 10 (4.54)
2-Butenal | 123-73-9 4170-30-3 | 1,4 | U053 | 100 (45.4)
2-Butene, 1,4-dichloro- | 764-41-0 | 4 | U074 | 1 (0.454)
2-Butenoic acid, 2-methyl-, 7-[[2,3-dihydroxy-2-(1-methoxyethyl)-3- methyl-1-oxobutoxy] methyl]-2,3, 5,7a-tetrahydro- 1H-pyrrolizin-1-yl ester, [1S-[1alpha(Z), 7(2S*,3R*),7aalpha]]- | 303-34-4 | 4 | U143 | 10 (4.54)
Butyl acetate | 123-86-4 | 1 |  | 5000 (2270)
iso-Butyl acetate | 110-19-0 | 1 |  | 5000 (2270)
sec-Butyl acetate | 105-46-4 | 1 |  | 5000 (2270)
tert-Butyl acetate | 540-88-5 | 1 |  | 5000 (2270)
n-Butyl alcohol | 71-36-3 | 4 | U031 | 5000 (2270)
Butylamine | 109-73-9 | 1 |  | 1000 (454)
iso-Butylamine | 78-81-9 | 1 |  | 1000 (454)
sec-Butylamine | 513-49-5 13952-84-6 | 1 |  | 1000 (454)
tert-Butylamine | 75-64-9 | 1 |  | 1000 (454)
Butyl benzyl phthalate | 85-68-7 | 2 |  | 100 (45.4)
n-Butyl phthalate | 84-74-2 | 1,2,3,4 | U069 | 10 (4.54)
Butyric acid | 107-92-6 | 1 |  | 5000 (2270)
iso-Butyric acid | 79-31-2 | 1 |  | 5000 (2270)
Cacodylic acid | 75-60-5 | 4 | U136 | 1 (0.454)
CADMIUM AND COMPOUNDS | N.A. | 2,3 |  | **
Cadmium III | 7440-43-9 | 2 |  | 10 (4.54)
Cadmium acetate | 543-90-8 | 1 |  | 10 (4.54)
Cadmium bromide | 7789-42-6 | 1 |  | 10 (4.54)
Cadmium chloride | 10108-64-2 | 1 |  | 10 (4.54)
Cadmium compounds | N.A. | 2,3 |  | **
Calcium arsenate | 7778-44-1 | 1 |  | 1 (0.454)
Calcium arsenite | 52740-16-6 | 1 |  | 1 (0.454)
Calcium carbide | 75-20-7 | 1 |  | 10 (4.54)
Calcium chromate | 13765-19-0 | 1,4 | U032 | 10 (4.54)
Calcium cyanamide | 156-62-7 | 3 |  | 1000 (454)
Calcium cyanide Ca(CN)2 | 592-01-8 | 1,4 | P021 | 10 (4.54)
Calcium dodecylbenzenesulfonate | 26264-06-2 | 1 |  | 1000 (454)
Calcium hypochlorite | 7778-54-3 | 1 |  | 10 (4.54)
Captan | 133-06-2 | 1,3 |  | 10 (4.54)
Carbamic acid, 1H-benzimidazol-2-yl, methyl ester | 10605-21-7 | 4 | U372 | 10 (4.54)
Carbamic acid, [1-[(butylamino)carbonyl]-1H-benzimidazol-2-yl]-,methyl ester | 17804-35-2 | 4 | U271 | 10 (4.54)
Carbamic acid, (3-chlorophenyl)-, 4-chloro-2-butynyl ester | 101-27-9 | 4 | U280 | 10 (4.54)
Carbamic acid, [(dibutylamino)-thio]methyl-, 2,3-dihydro-2,2-dimethyl-7-benzofuranyl ester | 55285-14-8 | 4 | P189 | 1000 (454)
Carbamic acid, dimethyl-,1-[(dimethyl-amino)carbonyl]-5-methyl-1H-pyrazol-3-yl ester | 644-64-4 | 4 | P191 | 1 (0.454)
Carbamic acid, dimethyl-, 3-methyl-1-(1-methylethyl)-1H-pyrazol-5-yl ester | 119-38-0 | 4 | P192 | 100 (45.4)
Carbamic acid, ethyl ester | 51-79-6 | 3,4 | U238 | 100 (45.4)
Carbamic acid, methyl-, 3-methylphenyl ester | 1129-41-5 | 4 | P190 | 1000 (454)
Carbamic acid, methylnitroso-, ethyl ester | 615-53-2 | 4 | U178 | 1 (0.454)
Carbamic acid, [1,2-phenylenebis(iminocarbonothioyl)]bis-, dimethyl ester | 23564-05-8 | 4 | U409 | 10 (4.54)
Carbamic acid, phenyl-, 1-methylethyl ester | 122-42-9 | 4 | U373 | 1000 (454)
Carbamic chloride, dimethyl- | 79-44-7 | 3,4 | U097 | 1 (0.454)
Carbamodithioic acid, 1,2-ethanediylbis-, salts & esters | 111-54-6 | 4 | U114 | 5000 (2270)
Carbamothioic acid, bis(1-methylethyl)-, S-(2,3-dichloro-2- propenyl) ester | 2303-16-4 | 4 | U062 | 100 (45.4)
Carbamothioic acid, bis(1-methylethyl)-, S-(2,3,3-trichloro-2-propenyl) ester | 2303-17-5 | 4 | U389 | 100 (45.4)
Carbamothioic acid, dipropyl-, S-(phenylmethyl) ester | 52888-80-9 | 4 | U387 | 5000 (2270)
Carbaryl | 63-25-2 | 1,3,4 | U279 | 100 (45.4)
Carbendazim | 10605-21-7 | 4 | U372 | 10 (4.54)
Carbofuran | 1563-66-2 | 1,4 | P127 | 10 (4.54)
Carbofuran phenol | 1563-38-8 | 4 | U367 | 10 (4.54)
Carbon disulfide | 75-15-0 | 1,3,4 | P022 | 100 (45.4)
Carbonic acid, dithallium(1 +) salt | 6533-73-9 | 4 | U215 | 100 (45.4)
Carbonic dichloride | 75-44-5 | 1,3,4 | P095 | 10 (4.54)
Carbonic difluoride | 353-50-4 | 4 | U033 | 1000 (454)
Carbonochloridic acid, methyl ester | 79-22-1 | 4 | U156 | 1000 (454)
Carbon oxyfluoride | 353-50-4 | 4 | U033 | 1000 (454)
Carbon tetrachloride | 56-23-5 | 1,2,3,4 | U211 | 10 (4.54)
Carbonyl sulfide | 463-58-1 | 3 |  | 100 (45.4)
Carbosulfan | 55285-14-8 | 4 | P189 | 1000 (454)
Catechol | 120-80-9 | 3 |  | 100 (45.4)
Chloral | 75-87-6 | 4 | U034 | 5000 (2270)
Chloramben | 133-90-4 | 3 |  | 100 (45.4)
Chlorambucil | 305-03-3 | 4 | U035 | 10 (4.54)
CHLORDANE (TECHNICAL MIXTURE AND METABOLITES) | 57-74-9 | 1,2,3,4 | U036 | 1 (0.454)
Chlordane | 57-74-9 | 1,2,3,4 | U036 | 1 (0.454)
Chlordane, alpha & gamma isomers | 57-74-9 5103-71-9 5103-74-2 | 1,2,3,4 | U036 | 1 (0.454)
CHLORINATED BENZENES | N.A. | 2 |  | **
Chlorinated camphene | 8001-35-2 | 1,2,3,4 | P123 | 1 (0.454)
CHLORINATED ETHANES | N.A. | 2 |  | **
CHLORINATED NAPHTHALENE | N.A. | 2 |  | **
CHLORINATED PHENOLS | N.A. | 2 |  | **
Chlorine | 7782-50-5 | 1,3 |  | 10 (4.54)
Chlornaphazine | 494-03-1 | 4 | U026 | 100 (45.4)
Chloroacetaldehyde | 107-20-0 | 4 | P023 | 1000 (454)
Chloroacetic acid | 79-11-8 | 3 |  | 100 (45.4)
2-Chloroacetophenone | 532-27-4 | 3 |  | 100 (45.4)
CHLOROALKYL ETHERS | N.A. | 2 |  | **
p-Chloroaniline | 106-47-8 | 4 | P024 | 1000 (454)
Chlorobenzene | 108-90-7 | 1,2,3,4 | U037 | 100 (45.4)
Chlorobenzilate | 510-15-6 | 3,4 | U038 | 10 (4.54)
p-Chloro-m-cresol | 59-50-7 | 2,4 | U039 | 5000 (2270)
Chlorodibromomethane | 124-48-1 | 2 |  | 100 (45.4)
1-Chloro-2,3-epoxypropane | 106-89-8 | 1,3,4 | U041 | 100 (45.4)
Chloroethane | 75-00-3 | 2,3 |  | 100 (45.4)
2-Chloroethyl vinyl ether | 110-75-8 | 2,4 | U042 | 1000 (454)
Chloroform | 67-66-3 | 1,2,3,4 | U044 | 10 (4.54)
Chloromethane | 74-87-3 | 2,3,4 | U045 | 100 (45.4)
Chloromethyl methyl ether | 107-30-2 | 3,4 | U046 | 10 (4.54)
beta-Chloronaphthalene | 91-58-7 | 2,4 | U047 | 5000 (2270)
2-Chloronaphthalene | 91-58-7 | 2,4 | U047 | 5000 (2270)
2-Chlorophenol | 95-57-8 | 2,4 | U048 | 100 (45.4)
o-Chlorophenol | 95-57-8 | 2,4 | U048 | 100 (45.4)
4-Chlorophenyl phenyl ether | 7005-72-3 | 2 |  | 5000 (2270)
1-(o-Chlorophenyl)thiourea | 5344-82-1 | 4 | P026 | 100 (45.4)
Chloroprene | 126-99-8 | 3 |  | 100 (45.4)
3-Chloropropionitrile | 542-76-7 | 4 | P027 | 1000 (454)
Chlorosulfonic acid | 7790-94-5 | 1 |  | 1000 (454)
4-Chloro-o-toluidine, hydrochloride | 3165-93-3 | 4 | U049 | 100 (45.4)
Chlorpyrifos | 2921-88-2 | 1 |  | 1 (0.454)
Chromic acetate | 1066-30-4 | 1 |  | 1000 (454)
Chromic acid | 7738-94-5 | 1 |  | 10 (4.54)
Chromic acid H2CrO4, calcium salt | 13765-19-0 | 1,4 | U032 | 10 (4.54)
Chromic sulfate | 10101-53-8 | 1 |  | 1000 (454)
CHROMIUM AND COMPOUNDS | N.A. | 2,3 |  | **
Chromium Compounds | N.A. | 2,3 |  | **
Chromium III | 7440-47-3 | 2 |  | 5000 (2270)
Chromous chloride | 10049-05-5 | 1 |  | 1000 (454)
Chrysene | 218-01-9 | 2,4 | U050 | 100 (45.4)
Cobalt Compounds | N.A. | 3 |  | **
Cobaltous bromide | 7789-43-7 | 1 |  | 1000 (454)
Cobaltous formate | 544-18-3 | 1 |  | 1000 (454)
Cobaltous sulfamate | 14017-41-5 | 1 |  | 1000 (454)
Coke Oven Emissions | N.A. | 3 |  | 1 (0.454)
COPPER AND COMPOUNDS | N.A. | 2 |  | **
Copper III | 7440-50-8 | 2 |  | 5000 (2270)
Copper cyanide Cu(CN) | 544-92-3 | 4 | P029 | 10 (4.54)
Coumaphos | 56-72-4 | 1 |  | 10 (4.54)
Creosote | N.A | 4 | U051 | 1 (0.454)
Cresol (cresylic acid) | 1319-77-3 | 1,3,4 | U052 | 100 (45.4)
m-Cresol | 108-39-4 | 3 |  | 100 (45.4)
o-Cresol | 95-48-7 | 3 |  | 100 (45.4)
p-Cresol | 106-44-5 | 3 |  | 100 (45.4)
Cresols (isomers and mixture) | 1319-77-3 | 1,3,4 | U052 | 100 (45.4)
Cresylic acid (isomers and mixture) | 1319-77-3 | 1,3,4 | U052 | 100 (45.4)
Crotonaldehyde | 123-73-9 4170-30-3 | 1,4 | U053 | 100 (45.4)
Cumene | 98-82-8 | 3,4 | U055 | 5000 (2270)
m-Cumenyl methylcarbamate | 64-00-6 | 4 | P202 | 10 (4.54)
Cupric acetate | 142-71-2 | 1 |  | 100 (45.4)
Cupric acetoarsenite | 12002-03-8 | 1 |  | 1 (0.454)
Cupric chloride | 7447-39-4 | 1 |  | 10 (4.54)
Cupric nitrate | 3251-23-8 | 1 |  | 100 (45.4)
Cupric oxalate | 55671-32-4 | 1 |  | 100 (45.4)
Cupric sulfate | 7758-98-7 | 1 |  | 10 (4.54)
Cupric sulfate, ammoniated | 10380-29-7 | 1 |  | 100 (45.4)
Cupric tartrate | 815-82-7 | 1 |  | 100 (45.4)
CYANIDES | N.A. | 2,3 |  | **
Cyanide Compounds | N.A. | 2,3 |  | **
Cyanides (soluble salts and complexes) not otherwise specified | N.A. | 4 | P030 | 10 (4.54)
Cyanogen | 460-19-5 | 4 | P031 | 100 (45.4)
Cyanogen bromide (CN)Br | 506-68-3 | 4 | U246 | 1000 (454)
Cyanogen chloride (CN)Cl | 506-77-4 | 1,4 | P033 | 10 (4.54)
2,5-Cyclohexadiene-1,4-dione | 106-51-4 | 3,4 | U197 | 10 (4.54)
Cyclohexane | 110-82-7 | 1,4 | U056 | 1000 (454)
Cyclohexane, 1,2,3,4,5,6-hexachloro-, (1α, 2α, 3β-, 4α, 5α, 6β) | 58-89-9 | 1,2,3,4 | U129 | 1 (0.454)
Cyclohexanone | 108-94-1 | 4 | U057 | 5000 (2270)
2-Cyclohexyl-4,6-dinitrophenol | 131-89-5 | 4 | P034 | 100 (45.4)
1,3-Cyclopentadiene, 1,2,3,4,5,5-hexachloro- | 77-47-4 | 1,2,3,4 | U130 | 10 (4.54)
Cyclophosphamide | 50-18-0 | 4 | U058 | 10 (4.54)
2,4-D Acid | 94-75-7 | 1,3,4 | U240 | 100 (45.4)
2,4-D Ester | 94-11-1 94-79-1 94-80-4 1320-18-9 1928-38-7 1928-61-6 1929-73-3 2971-38-2 25168-26-7 53467-11-1 | 1 |  | 100 (45.4)
2,4-D, salts and esters | 94-75-7 | 1,3,4 | U240 | 100 (45.4)
Daunomycin | 20830-81-3 | 4 | U059 | 10 (4.54)
DDD | 72-54-8 | 1,2,4 | U060 | 1 (0.454)
4,4′-DDD | 72-54-8 | 1,2,4 | U060 | 1 (0.454)
DDE ᵇ | 72-55-9 | 2,4 |  | 1 (0.454)
DDE ᵇ | 3547-04-4 | 3 |  | 5000 (2270)
4,4′-DDE | 72-55-9 | 2,4 |  | 1 (0.454)
DDT | 50-29-3 | 1,2,4 | U061 | 1 (0.454)
4,4′-DDT | 50-29-3 | 1,2,4 | U061 | 1 (0.454)
DDT AND METABOLITES | N.A. | 2 |  | **
DEHP | 117-81-7 | 2,3,4 | U028 | 100 (45.4)
Diallate | 2303-16-4 | 4 | U062 | 100 (45.4)
Diazinon | 333-41-5 | 1 |  | 1 (0.454)
Diazomethane | 334-88-3 | 3 |  | 100 (45.4)
Dibenz[a,h]anthracene | 53-70-3 | 2,4 | U063 | 1 (0.454)
1,2:5,6-Dibenzanthracene | 53-70-3 | 2,4 | U063 | 1 (0.454)
Dibenzo[a,h]anthracene | 53-70-3 | 2,4 | U063 | 1 (0.454)
Dibenzofuran | 132-64-9 | 3 |  | 100 (45.4)
Dibenzo[a,i]pyrene | 189-55-9 | 4 | U064 | 10 (4.54)
1,2-Dibromo-3-chloropropane | 96-12-8 | 3,4 | U066 | 1 (0.454)
Dibromoethane | 106-93-4 | 1,3,4 | U067 | 1 (0.454)
Dibutyl phthalate | 84-74-2 | 1,2,3,4 | U069 | 10 (4.54)
Di-n-butyl phthalate | 84-74-2 | 1,2,3,4 | U069 | 10 (4.54)
Dicamba | 1918-00-9 | 1 |  | 1000 (454)
Dichlobenil | 1194-65-6 | 1 |  | 100 (45.4)
Dichlone | 117-80-6 | 1 |  | 1 (0.454)
Dichlorobenzene | 25321-22-6 | 1,2 |  | 100 (45.4)
1,2-Dichlorobenzene | 95-50-1 | 1,2,4 | U070 | 100 (45.4)
1,3-Dichlorobenzene | 541-73-1 | 2,4 | U071 | 100 (45.4)
1,4-Dichlorobenzene | 106-46-7 | 1,2,3,4 | U072 | 100 (45.4)
m-Dichlorobenzene | 541-73-1 | 2,4 | U071 | 100 (45.4)
o-Dichlorobenzene | 95-50-1 | 1,2,4 | U070 | 100 (45.4)
p-Dichlorobenzene | 106-46-7 | 1,2,3,4 | U072 | 100 (45.4)
DICHLOROBENZIDINE | 1331-47-1 | 2 |  | **
3,3′-Dichlorobenzidine | 91-94-1 | 2,3,4 | U073 | 1 (0.454)
Dichlorobromomethane | 75-27-4 | 2 |  | 5000 (2270)
1,4-Dichloro-2-butene | 764-41-0 | 4 | U074 | 1 (0.454)
Dichlorodifluoromethane | 75-71-8 | 4 | U075 | 5000 (2270)
1,1-Dichloroethane | 75-34-3 | 2,3,4 | U076 | 1000 (454)
1,2-Dichloroethane | 107-06-2 | 1,2,3,4 | U077 | 100 (45.4)
1,1-Dichloroethylene | 75-35-4 | 1,2,3,4 | U078 | 100 (45.4)
1,2-Dichloroethylene | 156-60-5 | 2,4 | U079 | 1000 (454)
Dichloroethyl ether | 111-44-4 | 2,3,4 | U025 | 10 (4.54)
Dichloroisopropyl ether | 108-60-1 | 2,4 | U027 | 1000 (454)
Dichloromethane | 75-09-2 | 2,3,4 | U080 | 1000 (454)
Dichloromethoxy ethane | 111-91-1 | 2,4 | U024 | 1000 (454)
Dichloromethyl ether | 542-88-1 | 3,4 | P016 | 10 (4.54)
2,4-Dichlorophenol | 120-83-2 | 2,4 | U081 | 100 (45.4)
2,6-Dichlorophenol | 87-65-0 | 4 | U082 | 100 (45.4)
Dichlorophenylarsine | 696-28-6 | 4 | P036 | 1 (0.454)
Dichloropropane | 26638-19-7 | 1,2 |  | 1000 (454)
1,1-Dichloropropane | 78-99-9 | 1,2 |  | 1000 (454)
1,2-Dichloropropane | 78-87-5 | 1,2,3,4 | U083 | 1000 (454)
1,3-Dichloropropane | 142-28-9 | 1,2 |  | 1000 (454)
Dichloropropane—Dichloropropene (mixture) | 8003-19-8 | 1 |  | 100 (45.4)
Dichloropropene | 26952-23-8 | 1,2 |  | 100 (45.4)
1,3-Dichloropropene | 542-75-6 | 1,2,3,4 | U084 | 100 (45.4)
2,3-Dichloropropene | 78-88-6 | 1,2 |  | 100 (45.4)
2,2-Dichloropropionic acid | 75-99-0 | 1 |  | 5000 (2270)
Dichlorvos | 62-73-7 | 1,3 |  | 10 (4.54)
Dicofol | 115-32-2 | 1 |  | 10 (4.54)
Dieldrin | 60-57-1 | 1,2,4 | P037 | 1 (0.454)
1,2:3,4-Diepoxybutane | 1464-53-5 | 4 | U085 | 10 (4.54)
Diethanolamine | 111-42-2 | 3 |  | 100 (45.4)
Diethylamine | 109-89-7 | 1 |  | 100 (45.4)
N,N-Diethylaniline | 91-66-7 | 3 |  | 1000 (454)
Diethylarsine | 692-42-2 | 4 | P038 | 1 (0.454)
1,4-Diethyleneoxide | 123-91-1 | 3,4 | U108 | 100 (45.4)
Diethylene glycol, dicarbamate | 5952-26-1 | 4 | U395 | 5000 (2270)
Diethylhexyl phthalate | 117-81-7 | 2,3,4 | U028 | 100 (45.4)
N,N′-Diethylhydrazine | 1615-80-1 | 4 | U086 | 10 (4.54)
O,O-Diethyl S-methyl dithiophosphate | 3288-58-2 | 4 | U087 | 5000 (2270)
Diethyl-p-nitrophenyl phosphate | 311-45-5 | 4 | P041 | 100 (45.4)
Diethyl phthalate | 84-66-2 | 2,4 | U088 | 1000 (454)
O,O-Diethyl O-pyrazinyl phosphorothioate | 297-97-2 | 4 | P040 | 100 (45.4)
Diethylstilbestrol | 56-53-1 | 4 | U089 | 1 (0.454)
Diethyl sulfate | 64-67-5 | 3 |  | 10 (4.54)
Dihydrosafrole | 94-58-6 | 4 | U090 | 10 (4.54)
Diisopropylfluorophosphate (DFP) | 55-91-4 | 4 | P043 | 100 (45.4)
1,4:5,8-Dimethanonaphthalene, 1,2,3,4,10,10-hexachloro-1,4,4a,5,8,8a-hexahydro-, (1alpha,4alpha,4abeta,5alpha, 8alpha,8abeta)- | 309-00-2 | 1,2,4 | P004 | 1 (0.454)
1,4:5,8-Dimethanonaphthalene, 1,2,3,4,10,10-hexachloro- 1,4,4a,5,8,8a-hexahydro-, (1alpha,4alpha,4abeta, 5beta,8beta,8abeta)- | 465-73-6 | 4 | P060 | 1 (0.454)
2,7:3,6-Dimethanonaphth[2,3- b]oxirene,3,4,5,6,9,9- hexachloro-1a,2,2a,3,6,6a,7,7a- octahydro-,(1aalpha,2beta, 2aalpha,3beta,6beta,6aalpha, 7beta,7aalpha)- | 60-57-1 | 1,2,4 | P037 | 1 (0.454)
2,7:3,6-Dimethanonaphth[2, 3-b]oxirene,3,4,5,6,9,9- hexachloro-1a,2,2a,3,6,6a,7,7a- octahydro-,(1aalpha,2beta, 2abeta,3alpha,6alpha, 6abeta,7beta,7aalpha)-, & metabolites | 72-20-8 | 1,2,4 | P051 | 1 (0.454)
Dimethoate | 60-51-5 | 4 | P044 | 10 (4.54)
3,3′-Dimethoxybenzidine | 119-90-4 | 3,4 | U091 | 100 (45.4)
Dimethylamine | 124-40-3 | 1,4 | U092 | 1000 (454)
Dimethyl aminoazobenzene | 60-11-7 | 3,4 | U093 | 10 (4.54)
p-Dimethylaminoazobenzene | 60-11-7 | 3,4 | U093 | 10 (4.54)
N,N-Dimethylaniline | 121-69-7 | 3 |  | 100 (45.4)
7,12-Dimethylbenz[a]anthracene | 57-97-6 | 4 | U094 | 1 (0.454)
3,3′-Dimethylbenzidine | 119-93-7 | 3,4 | U095 | 10 (4.54)
alpha,alpha-Dimethylbenzylhydroperoxide | 80-15-9 | 4 | U096 | 10 (4.54)
Dimethylcarbamoyl chloride | 79-44-7 | 3,4 | U097 | 1 (0.454)
Dimethylformamide | 68-12-2 | 3 |  | 100 (45.4)
1,1-Dimethylhydrazine | 57-14-7 | 3,4 | U098 | 10 (4.54)
1,2-Dimethylhydrazine | 540-73-8 | 4 | U099 | 1 (0.454)
alpha,alpha-Dimethylphenethylamine | 122-09-8 | 4 | P046 | 5000 (2270)
2,4-Dimethylphenol | 105-67-9 | 2,4 | U101 | 100 (45.4)
Dimethyl phthalate | 131-11-3 | 2,3,4 | U102 | 5000 (2270)
Dimethyl sulfate | 77-78-1 | 3,4 | U103 | 100 (45.4)
Dimetilan | 644-64-4 | 4 | P191 | 1 (0.454)
Dinitrobenzene (mixed) | 25154-54-5 | 1 |  | 100 (45.4)
m-Dinitrobenzene | 99-65-0 | 1 |  | 100 (45.4)
o-Dinitrobenzene | 528-29-0 | 1 |  | 100 (45.4)
p-Dinitrobenzene | 100-25-4 | 1 |  | 100 (45.4)
4,6-Dinitro-o-cresol | 534-52-1 | 2,3,4 | P047 | 10 (4.54)
4,6-Dinitro-o-cresol, and salts | 534-52-1 | 3,4 | P047 | 10 (4.54)
Dinitrophenol | 25550-58-7 | 1 |  | 10 (4.54)
2,4-Dinitrophenol | 51-28-5 | 1,2,3,4 | P048 | 10 (4.54)
2,5-Dinitrophenol | 329-71-5 | 1 |  | 10 (4.54)
2,6-Dinitrophenol | 573-56-8 | 1 |  | 10 (4.54)
Dinitrotoluene | 25321-14-6 | 1,2 |  | 10 (4.54)
2,4-Dinitrotoluene | 121-14-2 | 1,2,3,4 | U105 | 10 (4.54)
2,6-Dinitrotoluene | 606-20-2 | 1,2,4 | U106 | 100 (45.4)
3,4-Dinitrotoluene | 610-39-9 | 1,2 |  | 10 (4.54)
Dinoseb | 88-85-7 | 4 | P020 | 1000 (454)
Di-n-octyl phthalate | 117-84-0 | 2,4 | U107 | 5000 (2270)
1,4-Dioxane | 123-91-1 | 3,4 | U108 | 100 (45.4)
DIPHENYLHYDRAZINE | 38622-18-3 | 2 |  | **
1,2-Diphenylhydrazine | 122-66-7 | 2,3,4 | U109 | 10 (4.54)
Diphosphoramide, octamethyl- | 152-16-9 | 4 | P085 | 100 (45.4)
Diphosphoric acid, tetraethyl ester | 107-49-3 | 1,4 | P111 | 10 (4.54)
Dipropylamine | 142-84-7 | 4 | U110 | 5000 (2270)
Di-n-propylnitrosamine | 621-64-7 | 2,4 | U111 | 10 (4.54)
Diquat | 85-00-7 2764-72-9 | 1 |  | 1000 (454)
Disulfoton | 298-04-4 | 1,4 | P039 | 1 (0.454)
Dithiobiuret | 541-53-7 | 4 | P049 | 100 (45.4)
1,3-Dithiolane-2-carboxaldehyde, 2,4-dimethyl-, O-[(methylamino)-carbonyl]oxime | 26419-73-8 | 4 | P185 | 100 (45.4)
Diuron | 330-54-1 | 1 |  | 100 (45.4)
Dodecylbenzenesulfonic acid | 27176-87-0 | 1 |  | 1000 (454)
ENDOSULFAN AND METABOLITES | N.A. | 2 |  | **
Endosulfan | 115-29-7 | 1,2,4 | P050 | 1 (0.454)
alpha-Endosulfan | 959-98-8 | 2 |  | 1 (0.454)
beta-Endosulfan | 33213-65-9 | 2 |  | 1 (0.454)
Endosulfan sulfate | 1031-07-8 | 2 |  | 1 (0.454)
Endothall | 145-73-3 | 4 | P088 | 1000 (454)
ENDRIN AND METABOLITES | N.A. | 2,4 | P051 | **
Endrin, & metabolites | 72-20-8 | 1,2,4 | P051 | 1 (0.454)
Endrin | 72-20-8 | 1,2,4 | P051 | 1 (0.454)
Endrin aldehyde | 7421-93-4 | 2 |  | 1 (0.454)
Epichlorohydrin | 106-89-8 | 1,3,4 | U041 | 100 (45.4)
Epinephrine | 51-43-4 | 4 | P042 | 1000 (454)
1,2-Epoxybutane | 106-88-7 | 3 |  | 100 (45.4)
Ethanal | 75-07-0 | 1,3,4 | U001 | 1000 (454)
Ethanamine, N,N-diethyl- | 121-44-8 | 1,3,4 | U404 | 5000 (2270)
Ethanamine, N-ethyl-N-nitroso- | 55-18-5 | 4 | U174 | 1 (0.454)
1,2-Ethanediamine, N,N-dimethyl-N′-2- pyridinyl-N′-(2- thienylmethyl)- | 91-80-5 | 4 | U155 | 5000 (2270)
Ethane, 1,2-dibromo- | 106-93-4 | 1,3,4 | U067 | 1 (0.454)
Ethane, 1,1-dichloro- | 75-34-3 | 2,3,4 | U076 | 1000 (454)
Ethane, 1,2-dichloro- | 107-06-2 | 1,2,3,4 | U077 | 100 (45.4)
Ethanedinitrile | 460-19-5 | 4 | P031 | 100 (45.4)
Ethane, hexachloro- | 67-72-1 | 2,3,4 | U131 | 100 (45.4)
Ethane, 1,1′-[methylenebis(oxy)]bis[2- chloro- | 111-91-1 | 2,4 | U024 | 1000 (454)
Ethane, 1,1′-oxybis- | 60-29-7 | 4 | U117 | 100 (45.4)
Ethane, 1,1′-oxybis[2-chloro- | 111-44-4 | 2,3,4 | U025 | 10 (4.54)
Ethane, pentachloro- | 76-01-7 | 4 | U184 | 10 (4.54)
Ethane, 1,1,1,2-tetrachloro- | 630-20-6 | 4 | U208 | 100 (45.4)
Ethane, 1,1,2,2-tetrachloro- | 79-34-5 | 2,3,4 | U209 | 100 (45.4)
Ethanethioamide | 62-55-5 | 4 | U218 | 10 (4.54)
Ethane, 1,1,1-trichloro- | 71-55-6 | 2,3,4 | U226 | 1000 (454)
Ethane, 1,1,2-trichloro- | 79-00-5 | 2,3,4 | U227 | 100 (45.4)
Ethanimidothioic acid, 2-(dimethylamino)-N-hydroxy-2-oxo-, methyl ester | 30558-43-1 | 4 | U394 | 5000 (2270)
Ethanimidothioic acid, 2-(dimethylamino)-N-[[(methylamino)carbonyl]oxy]-2-oxo-, methyl ester | 23135-22-0 | 4 | P194 | 100 (45.4)
Ethanimidothioic acid, N-[[(methylamino) carbonyl]oxy]-, methyl ester | 16752-77-5 | 4 | P066 | 100 (45.4)
Ethanimidothioic acid, N,N′- [thiobis[(methylimino) carbonyloxy]]bis-, dimethyl ester | 59669-26-0 | 4 | U410 | 100 (45.4)
Ethanol, 2-ethoxy- | 110-80-5 | 4 | U359 | 1000 (454)
Ethanol, 2,2′-(nitrosoimino)bis- | 1116-54-7 | 4 | U173 | 1 (0.454)
Ethanol, 2,2′-oxybis-, dicarbamate | 5952-26-1 | 4 | U395 | 5000 (2270)
Ethanone, 1-phenyl- | 98-86-2 | 3,4 | U004 | 5000 (2270)
Ethene, chloro- | 75-01-4 | 2,3,4 | U043 | 1 (0.454)
Ethene, (2-chloroethoxy)- | 110-75-8 | 2,4 | U042 | 1000 (454)
Ethene, 1,1-dichloro- | 75-35-4 | 1,2,3,4 | U078 | 100 (45.4)
Ethene, 1,2-dichloro-(E) | 156-60-5 | 2,4 | U079 | 1000 (454)
Ethene, tetrachloro- | 127-18-4 | 2,3,4 | U210 | 100 (45.4)
Ethene, trichloro- | 79-01-6 | 1,2,3,4 | U228 | 100 (45.4)
Ethion | 563-12-2 | 1 |  | 10 (4.54)
Ethyl acetate | 141-78-6 | 4 | U112 | 5000 (2270)
Ethyl acrylate | 140-88-5 | 3,4 | U113 | 1000 (454)
Ethylbenzene | 100-41-4 | 1,2,3 |  | 1000 (454)
Ethyl carbamate | 51-79-6 | 3,4 | U238 | 100 (45.4)
Ethyl chloride | 75-00-3 | 2,3 |  | 100 (45.4)
Ethyl cyanide | 107-12-0 | 4 | P101 | 10 (4.54)
Ethylenebisdithiocarbamic acid, salts & esters | 111-54-6 | 4 | U114 | 5000 (2270)
Ethylenediamine | 107-15-3 | 1 |  | 5000 (2270)
Ethylenediamine-tetraacetic acid (EDTA) | 60-00-4 | 1 |  | 5000 (2270)
Ethylene dibromide | 106-93-4 | 1,3,4 | U067 | 1 (0.454)
Ethylene dichloride | 107-06-2 | 1,2,3,4 | U077 | 100 (45.4)
Ethylene glycol | 107-21-1 | 3 |  | 5000 (2270)
Ethylene glycol monoethyl ether | 110-80-5 | 4 | U359 | 1000 (454)
Ethylene oxide | 75-21-8 | 3,4 | U115 | 10 (4.54)
Ethylenethiourea | 96-45-7 | 3,4 | U116 | 10 (4.54)
Ethylenimine | 151-56-4 | 3,4 | P054 | 1 (0.454)
Ethyl ether | 60-29-7 | 4 | U117 | 100 (45.4)
Ethylidene dichloride | 75-34-3 | 2,3,4 | U076 | 1000 (454)
Ethyl methacrylate | 97-63-2 | 4 | U118 | 1000 (454)
Ethyl methanesulfonate | 62-50-0 | 4 | U119 | 1 (0.454)
Famphur | 52-85-7 | 4 | P097 | 1000 (454)
Ferric ammonium citrate | 1185-57-5 | 1 |  | 1000 (454)
Ferric ammonium oxalate | 2944-67-4 55488-87-4 | 1 |  | 1000 (454)
Ferric chloride | 7705-08-0 | 1 |  | 1000 (454)
Ferric fluoride | 7783-50-8 | 1 |  | 100 (45.4)
Ferric nitrate | 10421-48-4 | 1 |  | 1000 (454)
Ferric sulfate | 10028-22-5 | 1 |  | 1000 (454)
Ferrous ammonium sulfate | 10045-89-3 | 1 |  | 1000 (454)
Ferrous chloride | 7758-94-3 | 1 |  | 100 (45.4)
Ferrous sulfate | 7720-78-7 7782-63-0 | 1 |  | 1000 (454)
Fine mineral fibers ᶜ | N.A. | 3 |  | **
Fluoranthene | 206-44-0 | 2,4 | U120 | 100 (45.4)
Fluorene | 86-73-7 | 2 |  | 5000 (2270)
Fluorine | 7782-41-4 | 4 | P056 | 10 (4.54)
Fluoroacetamide | 640-19-7 | 4 | P057 | 100 (45.4)
Fluoroacetic acid, sodium salt | 62-74-8 | 4 | P058 | 10 (4.54)
Formaldehyde | 50-00-0 | 1,3,4 | U122 | 100 (45.4)
Formetanate hydrochloride | 23422-53-9 | 4 | P198 | 100 (45.4)
Formic acid | 64-18-6 | 1,4 | U123 | 5000 (2270)
Formparanate | 17702-57-7 | 4 | P197 | 100 (45.4)
Fulminic acid, mercury(2 +)salt | 628-86-4 | 4 | P065 | 10 (4.54)
Fumaric acid | 110-17-8 | 1 |  | 5000 (2270)
Furan | 110-00-9 | 4 | U124 | 100 (45.4)
2-Furancarboxaldehyde | 98-01-1 | 1,4 | U125 | 5000 (2270)
2,5-Furandione | 108-31-6 | 1,3,4 | U147 | 5000 (2270)
Furan, tetrahydro- | 109-99-9 | 4 | U213 | 1000 (454)
Furfural | 98-01-1 | 1,4 | U125 | 5000 (2270)
Furfuran | 110-00-9 | 4 | U124 | 100 (45.4)
Glucopyranose, 2-deoxy-2-(3-methyl-3-nitrosoureido)-,D- | 18883-66-4 | 4 | U206 | 1 (0.454)
D-Glucose, 2-deoxy-2-[[(methylnitrosoamino)-carbonyl]amino]- | 18883-66-4 | 4 | U206 | 1 (0.454)
Glycidylaldehyde | 765-34-4 | 4 | U126 | 10 (4.54)
Glycol ethers ᵈ | N.A. | 3 |  | **
Guanidine, N-methyl-N′-nitro-N-nitroso- | 70-25-7 | 4 | U163 | 10 (4.54)
Guthion | 86-50-0 | 1 |  | 1 (0.454)
HALOETHERS | N.A. | 2 |  | **
HALOMETHANES | N.A. | 2 |  | **
HEPTACHLOR AND METABOLITES | N.A. | 2 |  | **
Heptachlor | 76-44-8 | 1,2,3,4 | P059 | 1 (0.454)
Heptachlor epoxide | 1024-57-3 | 2 |  | 1 (0.454)
Hexachlorobenzene | 118-74-1 | 2,3,4 | U127 | 10 (4.54)
Hexachlorobutadiene | 87-68-3 | 2,3,4 | U128 | 1 (0.454)
HEXACHLOROCYCLOHEXANE (all isomers) | 608-73-1 | 2 |  | **
Hexachlorocyclopentadiene | 77-47-4 | 1,2,3,4 | U130 | 10 (4.54)
Hexachloroethane | 67-72-1 | 2,3,4 | U131 | 100 (45.4)
Hexachlorophene | 70-30-4 | 4 | U132 | 100 (45.4)
Hexachloropropene | 1888-71-7 | 4 | U243 | 1000 (454)
Hexaethyl tetraphosphate | 757-58-4 | 4 | P062 | 100 (45.4)
Hexamethylene-1,6-diisocyanate | 822-06-0 | 3 |  | 100 (45.4)
Hexamethylphosphoramide | 680-31-9 | 3 |  | 1 (0.454)
Hexane | 110-54-3 | 3 |  | 5000 (2270)
Hexone | 108-10-1 | 3,4 | U161 | 5000 (2270)
Hydrazine | 302-01-2 | 3,4 | U133 | 1 (0.454)
Hydrazinecarbothioamide | 79-19-6 | 4 | P116 | 100 (45.4)
Hydrazine, 1,2-diethyl- | 1615-80-1 | 4 | U086 | 10 (4.54)
Hydrazine, 1,1-dimethyl- | 57-14-7 | 3,4 | U098 | 10 (4.54)
Hydrazine, 1,2-dimethyl- | 540-73-8 | 4 | U099 | 1 (0.454)
Hydrazine, 1,2-diphenyl- | 122-66-7 | 2,3,4 | U109 | 10 (4.54)
Hydrazine, methyl- | 60-34-4 | 3,4 | P068 | 10 (4.54)
Hydrochloric acid | 7647-01-0 | 1,3 |  | 5000 (2270)
Hydrocyanic acid | 74-90-8 | 1,4 | P063 | 10 (4.54)
Hydrofluoric acid | 7664-39-3 | 1,3,4 | U134 | 100 (45.4)
Hydrogen chloride | 7647-01-0 | 1,3 |  | 5000 (2270)
Hydrogen cyanide | 74-90-8 | 1,4 | P063 | 10 (4.54)
Hydrogen fluoride | 7664-39-3 | 1,3,4 | U134 | 100 (45.4)
Hydrogen phosphide | 7803-51-2 | 3,4 | P096 | 100 (45.4)
Hydrogen sulfide H2S | 7783-06-4 | 1,4 | U135 | 100 (45.4)
Hydroperoxide, 1-methyl-1-phenylethyl- | 80-15-9 | 4 | U096 | 10 (4.54)
Hydroquinone | 123-31-9 | 3 |  | 100 (45.4)
2-Imidazolidinethione | 96-45-7 | 3,4 | U116 | 10 (4.54)
Indeno(1,2,3-cd)pyrene | 193-39-5 | 2,4 | U137 | 100 (45.4)
Iodomethane | 74-88-4 | 3,4 | U138 | 100 (45.4)
1,3-Isobenzofurandione | 85-44-9 | 3,4 | U190 | 5000 (2270)
Isobutyl alcohol | 78-83-1 | 4 | U140 | 5000 (2270)
Isodrin | 465-73-6 | 4 | P060 | 1 (0.454)
Isolan | 119-38-0 | 4 | P192 | 100 (45.4)
Isophorone | 78-59-1 | 2,3 |  | 5000 (2270)
Isoprene | 78-79-5 | 1 |  | 100 (45.4)
Isopropanolamine dodecylbenzenesulfonate | 42504-46-1 | 1 |  | 1000 (454)
3-Isopropylphenyl N-methylcarbamate | 64-00-6 | 4 | P202 | 10 (4.54)
Isosafrole | 120-58-1 | 4 | U141 | 100 (45.4)
3(2H)-Isoxazolone, 5-(aminomethyl)- | 2763-96-4 | 4 | P007 | 1000 (454)
Kepone | 143-50-0 | 1,4 | U142 | 1 (0.454)
Lasiocarpine | 303-34-4 | 4 | U143 | 10 (4.54)
LEAD AND COMPOUNDS | N.A. | 2,3 |  | **
Lead III | 7439-92-1 | 2 |  | 10 (4.54)
Lead acetate | 301-04-2 | 1,4 | U144 | 10 (4.54)
Lead arsenate | 7784-40-9 7645-25-2 10102-48-4 | 1 |  | 1 (0.454)
Lead, bis(acetato-O)tetrahydroxytri- | 1335-32-6 | 4 | U146 | 10 (4.54)
Lead chloride | 7758-95-4 | 1 |  | 10 (4.54)
Lead compounds | N.A. | 2,3 |  | **
Lead fluoborate | 13814-96-5 | 1 |  | 10 (4.54)
Lead fluoride | 7783-46-2 | 1 |  | 10 (4.54)
Lead iodide | 10101-63-0 | 1 |  | 10 (4.54)
Lead nitrate | 10099-74-8 | 1 |  | 10 (4.54)
Lead phosphate | 7446-27-7 | 4 | U145 | 10 (4.54)
Lead stearate | 1072-35-1 7428-48-0 56189-09-4 | 1 |  | 10 (4.54)
Lead subacetate | 1335-32-6 | 4 | U146 | 10 (4.54)
Lead sulfate | 7446-14-2 15739-80-7 | 1 |  | 10 (4.54)
Lead sulfide | 1314-87-0 | 1 |  | 10 (4.54)
Lead thiocyanate | 592-87-0 | 1 |  | 10 (4.54)
Lindane | 58-89-9 | 1,2,3,4 | U129 | 1 (0.454)
Lindane (all isomers) | 58-89-9 | 1,2,3,4 | U129 | 1 (0.454)
Lithium chromate | 14307-35-8 | 1 |  | 10 (4.54)
Malathion | 121-75-5 | 1 |  | 100 (45.4)
Maleic acid | 110-16-7 | 1 |  | 5000 (2270)
Maleic anhydride | 108-31-6 | 1,3,4 | U147 | 5000 (2270)
Maleic hydrazide | 123-33-1 | 4 | U148 | 5000 (2270)
Malononitrile | 109-77-3 | 4 | U149 | 1000 (454)
Manganese, bis (dimethylcarbamodithioato-S,S′)- | 15339-36-3 | 4 | P196 | 10 (4.54)
Manganese Compounds | N.A. | 3 |  | **
Manganese dimethyldithiocarbamate | 15339-36-3 | 4 | P196 | 10 (4.54)
MDI | 101-68-8 | 3 |  | 5000 (2270)
MEK | 78-93-3 | 4 | U159 | 5000 (2270)
Melphalan | 148-82-3 | 4 | U150 | 1 (0.454)
Mercaptodimethur | 2032-65-7 | 1,4 | P199 | 10 (4.54)
MERCURY AND COMPOUNDS | N.A. | 2,3 |  | **
Mercury Compounds | N.A. | 2,3 |  | **
Mercuric cyanide | 592-04-1 | 1 |  | 1(0.454)
Mercuric nitrate | 10045-94-0 | 1 |  | 10 (4.54)
Mercuric sulfate | 7783-35-9 | 1 |  | 10 (4.54)
Mercuric thiocyanate | 592-85-8 | 1 |  | 10 (4.54)
Mercurous nitrate | 10415-75-5 | 1 |  | 10 (4.54)
Mercury | 7782-86-7 7439-97-6 | 2,3,4 | U151 | 1 (0.454)
Mercury, (acetato-O)phenyl- | 62-38-4 | 4 | P092 | 100 (45.4)
Mercury fulminate | 628-86-4 | 4 | P065 | 10 (4.54)
Methacrylonitrile | 126-98-7 | 4 | U152 | 1000 (454)
Methanamine, N-methyl- | 124-40-3 | 1,4 | U092 | 1000 (454)
Methanamine, N-methyl-N-nitroso- | 62-75-9 | 2,3,4 | P082 | 10 (4.54)
Methane, bromo- | 74-83-9 | 2,3,4 | U029 | 1000 (454)
Methane, chloro- | 74-87-3 | 2,3,4 | U045 | 100 (45.4)
Methane, chloromethoxy- | 107-30-2 | 3,4 | U046 | 10 (4.54)
Methane, dibromo- | 74-95-3 | 4 | U068 | 1000 (454)
Methane, dichloro- | 75-09-2 | 2,3,4 | U080 | 1000 (454)
Methane, dichlorodifluoro- | 75-71-8 | 4 | U075 | 5000 (2270)
Methane, iodo- | 74-88-4 | 3,4 | U138 | 100 (45.4)
Methane, isocyanato- | 624-83-9 | 3,4 | P064 | 10 (4.54)
Methane, oxybis(chloro- | 542-88-1 | 3,4 | P016 | 10 (4.54)
Methanesulfenyl chloride, trichloro- | 594-42-3 | 4 | P118 | 100 (45.4)
Methanesulfonic acid, ethyl ester | 62-50-0 | 4 | U119 | 1 (0.454)
Methane, tetrachloro- | 56-23-5 | 1,2,3,4 | U211 | 10 (4.54)
Methane, tetranitro- | 509-14-8 | 4 | P112 | 10 (4.54)
Methanethiol | 74-93-1 | 1,4 | U153 | 100 (45.4)
Methane, tribromo- | 75-25-2 | 2,3,4 | U225 | 100 (45.4)
Methane, trichloro- | 67-66-3 | 1,2,3,4 | U044 | 10 (4.54)
Methane, trichlorofluoro- | 75-69-4 | 4 | U121 | 5000 (2270)
Methanimidamide, N,N-dimethyl-N′-[3-[[(methylamino)-carbonyl]oxy]phenyl]-, monohydrochloride | 23422-53-9 | 4 | P198 | 100 (45.4)
Methanimidamide, N,N-dimethyl-N′-[2-methyl-4- [[(methylamino) carbonyl]oxy]phenyl]- | 17702-57-7 | 4 | P197 | 100 (45.4)
6,9-Methano-2,4,3-benzodioxathiepin, 6,7,8,9,10,10-hexachloro-1,5,5a,6,9,9a-hexahydro-, 3-oxide | 115-29-7 | 1,2,4 | P050 | 1 (0.454)
4,7-Methano-1H-indene, 1,4,5,6,7,8,8-heptachloro-3a,4,7,7a-tetrahydro- | 76-44-8 | 1,2,3,4 | P059 | 1 (0.454)
4,7-Methano-1H-indene, 1,2,4,5,6,7,8,8-octachloro-2,3,3a,4,7,7a-hexahydro- | 57-74-9 | 1,2,3,4 | U036 | 1 (0.454)
Methanol | 67-56-1 | 3,4 | U154 | 5000 (2270)
Methapyrilene | 91-80-5 | 4 | U155 | 5000 (2270)
1,3,4-Metheno-2H-cyclobuta[cd]pentalen-2-one, 1,1a,3,3a,4,5,5,5a,5b,6-decachlorooctahydro- | 143-50-0 | 1,4 | U142 | 1 (0.454)
Methiocarb | 2032-65-7 | 1,4 | P199 | 10 (4.54)
Methomyl | 16752-77-5 | 4 | P066 | 100 (45.4)
Methoxychlor | 72-43-5 | 1,3,4 | U247 | 1 (0.454)
Methyl alcohol | 67-56-1 | 3,4 | U154 | 5000 (2270)
2-Methyl aziridine | 75-55-8 | 3,4 | P067 | 1 (0.454)
Methyl bromide | 74-83-9 | 2,3,4 | U029 | 1000 (454)
1-Methylbutadiene | 504-60-9 | 4 | U186 | 100 (45.4)
Methyl chloride | 74-87-3 | 2,3,4 | U045 | 100 (45.4)
Methyl chlorocarbonate | 79-22-1 | 4 | U156 | 1000 (454)
Methyl chloroform | 71-55-6 | 2,3,4 | U226 | 1000 (454)
3-Methylcholanthrene | 56-49-5 | 4 | U157 | 10 (4.54)
4,4′-Methylenebis(2-chloroaniline) | 101-14-4 | 3,4 | U158 | 10 (4.54)
Methylene bromide | 74-95-3 | 4 | U068 | 1000 (454)
Methylene chloride | 75-09-2 | 2,3,4 | U080 | 1000 (454)
4,4′-Methylenedianiline | 101-77-9 | 3 |  | 10 (4.54)
Methylene diphenyl diisocyanate | 101-68-8 | 3 |  | 5000 (2270)
Methyl ethyl ketone | 78-93-3 | 4 | U159 | 5000 (2270)
Methyl ethyl ketone peroxide | 1338-23-4 | 4 | U160 | 10 (4.54)
Methyl hydrazine | 60-34-4 | 3,4 | P068 | 10 (4.54)
Methyl iodide | 74-88-4 | 3,4 | U138 | 100 (45.4)
Methyl isobutyl ketone | 108-10-1 | 3,4 | U161 | 5000 (2270)
Methyl isocyanate | 624-83-9 | 3,4 | P064 | 10 (4.54)
2-Methyllactonitrile | 75-86-5 | 1,4 | P069 | 10 (4.54)
Methyl mercaptan | 74-93-1 | 1,4 | U153 | 100 (45.4)
Methyl methacrylate | 80-62-6 | 1,3,4 | U162 | 1000 (454)
Methyl parathion | 298-00-0 | 1,4 | P071 | 100 (45.4)
4-Methyl-2-pentanone | 108-10-1 | 3,4 | U161 | 5000 (2270)
Methyl tert-butyl ether | 1634-04-4 | 3 |  | 1000 (454)
Methylthiouracil | 56-04-2 | 4 | U164 | 10 (4.54)
Metolcarb | 1129-41-5 | 4 | P190 | 1000 (454)
Mevinphos | 7786-34-7 | 1 |  | 10 (4.54)
Mexacarbate | 315-18-4 | 1,4 | P128 | 1000 (454)
Mitomycin C | 50-07-7 | 4 | U010 | 10 (4.54)
MNNG | 70-25-7 | 4 | U163 | 10 (4.54)
Monoethylamine | 75-04-7 | 1 |  | 100 (45.4)
Monomethylamine | 74-89-5 | 1 |  | 100 (45.4)
Naled | 300-76-5 | 1 |  | 10 (4.54)
5,12-Naphthacenedione, 8-acetyl-10-[(3-amino-2,3,6-trideoxy-alpha-L-lyxo-hexopyranosyl)oxy]-7,8,9,10-tetrahydro-6,8,11-trihydroxy-1-methoxy-, (8S-cis)- | 20830-81-3 | 4 | U059 | 10 (4.54)
1-Naphthalenamine | 134-32-7 | 4 | U167 | 100 (45.4)
2-Naphthalenamine | 91-59-8 | 4 | U168 | 10 (4.54)
Naphthalenamine, N,N′-bis(2-chloroethyl)- | 494-03-1 | 4 | U026 | 100 (45.4)
Naphthalene | 91-20-3 | 1,2,3,4 | U165 | 100 (45.4)
Naphthalene, 2-chloro- | 91-58-7 | 2,4 | U047 | 5000 (2270)
1,4-Naphthalenedione | 130-15-4 | 4 | U166 | 5000 (2270)
2,7-Naphthalenedisulfonic acid, 3,3′-[(3,3′-dimethyl-(1,1′-biphenyl)-4,4′-diyl)-bis(azo)]bis(5-amino-4-hydroxy)-tetrasodium salt | 72-57-1 | 4 | U236 | 10 (4.54)
1-Naphthalenol, methylcarbamate | 63-25-2 | 1,3,4 | U279 | 100 (45.4)
Naphthenic acid | 1338-24-5 | 1 |  | 100 (45.4)
1,4-Naphthoquinone | 130-15-4 | 4 | U166 | 5000 (2270)
alpha-Naphthylamine | 134-32-7 | 4 | U167 | 100 (45.4)
beta-Naphthylamine | 91-59-8 | 4 | U168 | 10 (4.54)
alpha-Naphthylthiourea | 86-88-4 | 4 | P072 | 100 (45.4)
NICKEL AND COMPOUNDS | N.A. | 2,3 |  | **
Nickel III | 7440-02-0 | 2 |  | 100 (45.4)
Nickel ammonium sulfate | 15699-18-0 | 1 |  | 100 (45.4)
Nickel carbonyl Ni(CO)4, (T-4)- | 13463-39-3 | 4 | P073 | 10 (4.54)
Nickel chloride | 7718-54-9 37211-05-5 | 1 |  | 100 (45.4)
Nickel compounds | N.A. | 2,3 |  | **
Nickel cyanide Ni(CN)2 | 557-19-7 | 4 | P074 | 10 (4.54)
Nickel hydroxide | 12054-48-7 | 1 |  | 10 (4.54)
Nickel nitrate | 14216-75-2 | 1 |  | 100 (45.4)
Nickel sulfate | 7786-81-4 | 1 |  | 100 (45.4)
Nicotine, & salts | 54-11-5 | 4 | P075 | 100 (45.4)
Nitric acid | 7697-37-2 | 1 |  | 1000 (454)
Nitric acid, thallium (1 +) salt | 10102-45-1 | 4 | U217 | 100 (45.4)
Nitric oxide | 10102-43-9 | 4 | P076 | 10 (4.54)
p-Nitroaniline | 100-01-6 | 4 | P077 | 5000 (2270)
Nitrobenzene | 98-95-3 | 1,2,3,4 | U169 | 1000 (454)
4-Nitrobiphenyl | 92-93-3 | 3 |  | 10 (4.54)
Nitrogen dioxide | 10102-44-0 10544-72-6 | 1,4 | P078 | 10 (4.54)
Nitrogen oxide NO | 10102-43-9 | 4 | P076 | 10 (4.54)
Nitrogen oxide NO2 | 10102-44-0 10544-72-6 | 1,4 | P078 | 10 (4.54)
Nitroglycerine | 55-63-0 | 4 | P081 | 10 (4.54)
NITROPHENOLS | 25154-55-6 | 2 |  | **
Nitrophenol (mixed) | 25154-55-6 | 1 |  | 100 (45.4)
m-Nitrophenol | 554-84-7 | 1 |  | 100 (45.4)
o-Nitrophenol | 88-75-5 | 1,2 |  | 100 (45.4)
p-Nitrophenol | 100-02-7 | 1,2,3,4 | U170 | 100 (45.4)
2-Nitrophenol | 88-75-5 | 1,2 |  | 100 (45.4)
4-Nitrophenol | 100-02-7 | 1,2,3,4 | U170 | 100 (45.4)
2-Nitropropane | 79-46-9 | 3,4 | U171 | 10 (4.54)
NITROSAMINES | N.A. | 2 |  | **
N-Nitrosodi-n-butylamine | 924-16-3 | 4 | U172 | 10 (4.54)
N-Nitrosodiethanolamine | 1116-54-7 | 4 | U173 | 1 (0.454)
N-Nitrosodiethylamine | 55-18-5 | 4 | U174 | 1 (0.454)
N-Nitrosodimethylamine | 62-75-9 | 2,3,4 | P082 | 10 (4.54)
N-Nitrosodiphenylamine | 86-30-6 | 2 |  | 100 (45.4)
N-Nitroso-N-ethylurea | 759-73-9 | 4 | U176 | 1 (0.454)
N-Nitroso-N-methylurea | 684-93-5 | 3,4 | U177 | 1 (0.454)
N-Nitroso-N-methylurethane | 615-53-2 | 4 | U178 | 1 (0.454)
N-Nitrosomethylvinylamine | 4549-40-0 | 4 | P084 | 10 (4.54)
N-Nitrosomorpholine | 59-89-2 | 3 |  | 1 (0.454)
N-Nitrosopiperidine | 100-75-4 | 4 | U179 | 10 (4.54)
N-Nitrosopyrrolidine | 930-55-2 | 4 | U180 | 1 (0.454)
Nitrotoluene | 1321-12-6 | 1 |  | 1000 (454)
m-Nitrotoluene | 99-08-1 | 1 |  | 1000 (454)
o-Nitrotoluene | 88-72-2 | 1 |  | 1000 (454)
p-Nitrotoluene | 99-99-0 | 1 |  | 1000 (454)
5-Nitro-o-toluidine | 99-55-8 | 4 | U181 | 100 (45.4)
Octamethylpyrophosphoramide | 152-16-9 | 4 | P085 | 100 (45.4)
Osmium oxide OsO4, (T-4)- | 20816-12-0 | 4 | P087 | 1000 (454)
Osmium tetroxide | 20816-12-0 | 4 | P087 | 1000 (454)
7-Oxabicyclo[221]heptane-2,3-dicarboxylic acid | 145-73-3 | 4 | P088 | 1000 (454)
Oxamyl | 23135-22-0 | 4 | P194 | 100 (45.4)
1,2-Oxathiolane, 2,2-dioxide | 1120-71-4 | 3,4 | U193 | 10 (4.54)
2H-1,3,2-Oxazaphosphorin-2-amine, N,N- bis(2-chloroethyl)tetrahydro-, 2-oxide | 50-18-0 | 4 | U058 | 10 (4.54)
Oxirane | 75-21-8 | 3,4 | U115 | 10 (4.54)
Oxiranecarboxyaldehyde | 765-34-4 | 4 | U126 | 10 (4.54)
Oxirane, (chloromethyl)- | 106-89-8 | 1,3,4 | U041 | 100 (45.4)
Paraformaldehyde | 30525-89-4 | 1 |  | 1000 (454)
Paraldehyde | 123-63-7 | 4 | U182 | 1000 (454)
Parathion | 56-38-2 | 1,3,4 | P089 | 10 (4.54)
PCBs | 1336-36-3 | 1,2,3 |  | 1 (0.454)
PCNB | 82-68-8 | 3,4 | U185 | 100 (45.4)
Pentachlorobenzene | 608-93-5 | 4 | U183 | 10 (4.54)
Pentachloroethane | 76-01-7 | 4 | U184 | 10 (4.54)
Pentachloronitrobenzene | 82-68-8 | 3,4 | U185 | 100 (45.4)
Pentachlorophenol | 87-86-5 | 1,2,3,4 | See F027 | 10 (4.54)
1,3-Pentadiene | 504-60-9 | 4 | U186 | 100 (45.4)
Perchloroethylene | 127-18-4 | 2,3,4 | U210 | 100 (45.4)
Phenacetin | 62-44-2 | 4 | U187 | 100 (45.4)
Phenanthrene | 85-01-8 | 2 |  | 5000 (2270)
Phenol | 108-95-2 | 1,2,3,4 | U188 | 1000 (454)
Phenol, 2-chloro- | 95-57-8 | 2,4 | U048 | 100 (45.4)
Phenol, 4-chloro-3-methyl- | 59-50-7 | 2,4 | U039 | 5000 (2270)
Phenol, 2-cyclohexyl-4,6-dinitro- | 131-89-5 | 4 | P034 | 100 (45.4)
Phenol, 2,4-dichloro- | 120-83-2 | 2,4 | U081 | 100 (45.4)
Phenol, 2,6-dichloro- | 87-65-0 | 4 | U082 | 100 (45.4)
Phenol, 4,4′-(1,2-diethyl-1,2-ethenediyl)bis-, (E) | 56-53-1 | 4 | U089 | 1 (0.454)
Phenol, 2,4-dimethyl- | 105-67-9 | 2,4 | U101 | 100 (45.4)
Phenol, 4-(dimethylamino)-3,5-dimethyl-, 4 methylcarbamate (ester) | 315-18-4 | 1,4 | P128 | 1000 (454)
Phenol, (3,5-dimethyl-4-(methylthio)-, methylcarbamate | 2032-65-7 | 1,4 | P199 | 10 (4.54)
Phenol, 2,4-dinitro- | 51-28-5 | 1,2,3,4 | P048 | 10 (4.54)
Phenol, methyl- | 1319-77-3 | 1,3,4 | U052 | 100 (45.4)
Phenol, 2-methyl-4,6-dinitro- | 534-52-1 | 2,3,4 | P047 | 10 (4.54)
Phenol, 2-methyl-4,6-dinitro-, & salts | 534-52-1 | 3,4 | P047 | 10 (4.54)
Phenol, 2,2′-methylenebis[3,4,6- trichloro- | 70-30-4 | 4 | U132 | 100 (45.4)
Phenol, 2-(1-methylethoxy)-, methylcarbamate | 114-26-1 | 3,4 | U411 | 100 (45.4)
Phenol, 3-(1-methylethyl)-, methyl carbamate | 64-00-6 | 4 | P202 | 10 (4.54)
Phenol, 3-methyl-5-(1-methylethyl)-, methyl carbamate | 2631-37-0 | 4 | P201 | 1000 (454)
Phenol, 2-(1-methylpropyl)-4,6-dinitro- | 88-85-7 | 4 | P020 | 1000 (454)
Phenol, 4-nitro- | 100-02-7 | 1,2,3,4 | U170 | 100 (45.4)
Phenol, pentachloro- | 87-86-5 | 1,2,3,4 | See F027 | 10 (4.54)
Phenol, 2,3,4,6-tetrachloro- | 58-90-2 | 4 | See F027 | 10 (4.54)
Phenol, 2,4,5-trichloro- | 95-95-4 | 1,3,4 | See F027 | 10 (4.54)
Phenol, 2,4,6-trichloro- | 88-06-2 | 1,2,3,4 | See F027 | 10 (4.54)
Phenol, 2,4,6-trinitro-, ammonium salt | 131-74-8 | 4 | P009 | 10 (4.54)
L-Phenylalanine, 4-[bis(2-chloroethyl)amino]- | 148-82-3 | 4 | U150 | 1 (0.454)
p-Phenylenediamine | 106-50-3 | 3 |  | 5000 (2270)
Phenylmercury acetate | 62-38-4 | 4 | P092 | 100 (45.4)
Phenylthiourea | 103-85-5 | 4 | P093 | 100 (45.4)
Phorate | 298-02-2 | 4 | P094 | 10 (4.54)
Phosgene | 75-44-5 | 1,3,4 | P095 | 10 (4.54)
Phosphine | 7803-51-2 | 3,4 | P096 | 100 (45.4)
Phosphoric acid | 7664-38-2 | 1 |  | 5000 (2270)
Phosphoric acid, diethyl 4-nitrophenyl ester | 311-45-5 | 4 | P041 | 100 (45.4)
Phosphoric acid, lead(2 +) salt (2:3) | 7446-27-7 | 4 | U145 | 10 (4.54)
Phosphorodithioic acid, O,O-diethyl S-[2-(ethylthio)ethyl] ester | 298-04-4 | 1,4 | P039 | 1 (0.454)
Phosphorodithioic acid, O,O-diethyl S-[(ethylthio)methyl] ester | 298-02-2 | 4 | P094 | 10 (4.54)
Phosphorodithioic acid, O,O-diethyl S-methyl ester | 3288-58-2 | 4 | U087 | 5000 (2270)
Phosphorodithioic acid, O,O-dimethyl S-[2(methylamino)-2-oxoethyl] ester | 60-51-5 | 4 | P044 | 10 (4.54)
Phosphorofluoridic acid, bis(1-methylethyl) ester | 55-91-4 | 4 | P043 | 100 (45.4)
Phosphorothioic acid, O,O-diethyl O-(4-nitrophenyl) ester | 56-38-2 | 1,3,4 | P089 | 10 (4.54)
Phosphorothioic acid, O,O-diethyl O-pyrazinyl ester | 297-97-2 | 4 | P040 | 100 (45.4)
Phosphorothioic acid, O-[4-[(dimethylamino) sulfonyl]phenyl] O,O-dimethyl ester | 52-85-7 | 4 | P097 | 1000 (454)
Phosphorothioic acid, O,O-dimethyl O-(4-nitrophenyl) ester | 298-00-0 | 1,4 | P071 | 100 (45.4)
Phosphorus | 7723-14-0 | 1,3 |  | 1 (0.454)
Phosphorus oxychloride | 10025-87-3 | 1 |  | 1000 (454)
Phosphorus pentasulfide | 1314-80-3 | 1,4 | U189 | 100 (45.4)
Phosphorus sulfide | 1314-80-3 | 1,4 | U189 | 100 (45.4)
Phosphorus trichloride | 7719-12-2 | 1 |  | 1000 (454)
Physostigmine | 57-47-6 | 4 | P204 | 100 (45.4)
Physostigmine salicylate | 57-64-7 | 4 | P188 | 100 (45.4)
PHTHALATE ESTERS | N.A. | 2 |  | **
Phthalic anhydride | 85-44-9 | 3,4 | U190 | 5000 (2270)
2-Picoline | 109-06-8 | 4 | U191 | 5000 (2270)
Piperidine, 1-nitroso- | 100-75-4 | 4 | U179 | 10 (4.54)
Plumbane, tetraethyl- | 78-00-2 | 1,4 | P110 | 10 (4.54)
POLYCHLORINATED BIPHENYLS | 1336-36-3 | 1,2,3 |  | 1 (0.454)
Polycyclic Organic Matter ᵉ | N.A. | 3 |  | **
POLYNUCLEAR AROMATIC HYDROCARBONS | N.A. | 2 |  | **
Potassium arsenate | 7784-41-0 | 1 |  | 1 (0.454)
Potassium arsenite | 10124-50-2 | 1 |  | 1 (0.454)
Potassium bichromate | 7778-50-9 | 1 |  | 10 (4.54)
Potassium chromate | 7789-00-6 | 1 |  | 10 (4.54)
Potassium cyanide K(CN) | 151-50-8 | 1,4 | P098 | 10 (4.54)
Potassium hydroxide | 1310-58-3 | 1 |  | 1000 (454)
Potassium permanganate | 7722-64-7 | 1 |  | 100 (45.4)
Potassium silver cyanide | 506-61-6 | 4 | P099 | 1 (0.454)
Promecarb | 2631-37-0 | 4 | P201 | 1000 (454)
Pronamide | 23950-58-5 | 4 | U192 | 5000 (2270)
Propanal, 2-methyl-2-(methyl- sulfonyl)-, O-[(methylamino)carbonyl] oxime | 1646-88-4 | 4 | P203 | 100 (45.4)
Propanal, 2-methyl-2-(methylthio)-, O-[(methylamino)carbonyl]oxime | 116-06-3 | 4 | P070 | 1 (0.454)
1-Propanamine | 107-10-8 | 4 | U194 | 5000 (2270)
1-Propanamine, N-propyl- | 142-84-7 | 4 | U110 | 5000 (2270)
1-Propanamine, N-nitroso-N-propyl- | 621-64-7 | 2,4 | U111 | 10 (4.54)
Propane, 1,2-dibromo-3-chloro- | 96-12-8 | 3,4 | U066 | 1 (0.454)
Propane, 1,2-dichloro- | 78-87-5 | 1,2,3,4 | U083 | 1000 (454)
Propanedinitrile | 109-77-3 | 4 | U149 | 1000 (454)
Propanenitrile | 107-12-0 | 4 | P101 | 10 (4.54)
Propanenitrile, 3-chloro- | 542-76-7 | 4 | P027 | 1000 (454)
Propanenitrile, 2-hydroxy-2-methyl- | 75-86-5 | 1,4 | P069 | 10 (4.54)
Propane, 2-nitro- | 79-46-9 | 3,4 | U171 | 10 (4.54)
Propane, 2,2′-oxybis[2-chloro- | 108-60-1 | 2,4 | U027 | 1000 (454)
1,3-Propane sultone | 1120-71-4 | 3,4 | U193 | 10 (4.54)
1,2,3-Propanetriol, trinitrate | 55-63-0 | 4 | P081 | 10 (4.54)
Propanoic acid, 2-(2,4,5-trichlorophenoxy)- | 93-72-1 | 1,4 | See F027 | 100 (45.4)
1-Propanol, 2,3-dibromo-, phosphate (3:1) | 126-72-7 | 4 | U235 | 10 (4.54)
1-Propanol, 2-methyl- | 78-83-1 | 4 | U140 | 5000 (2270)
2-Propanone | 67-64-1 | 4 | U002 | 5000 (2270)
2-Propanone, 1-bromo- | 598-31-2 | 4 | P017 | 1000 (454)
Propargite | 2312-35-8 | 1 |  | 10 (4.54)
Propargyl alcohol | 107-19-7 | 4 | P102 | 1000 (454)
2-Propenal | 107-02-8 | 1,2,3,4 | P003 | 1 (0.454)
2-Propenamide | 79-06-1 | 3,4 | U007 | 5000 (2270)
1-Propene, 1,3-dichloro- | 542-75-6 | 1,2,3,4 | U084 | 100 (45.4)
1-Propene, 1,1,2,3,3,3-hexachloro- | 1888-71-7 | 4 | U243 | 1000 (454)
2-Propenenitrile | 107-13-1 | 1,2,3,4 | U009 | 100 (45.4)
2-Propenenitrile, 2-methyl- | 126-98-7 | 4 | U152 | 1000 (454)
2-Propenoic acid | 79-10-7 | 3,4 | U008 | 5000 (2270)
2-Propenoic acid, ethyl ester | 140-88-5 | 3,4 | U113 | 1000 (454)
2-Propenoic acid, 2-methyl-, ethyl ester | 97-63-2 | 4 | U118 | 1000 (454)
2-Propenoic acid, 2-methyl-, methyl ester | 80-62-6 | 1,3,4 | U162 | 1000 (454)
2-Propen-1-ol | 107-18-6 | 1,4 | P005 | 100 (45.4)
Propham | 122-42-9 | 4 | U373 | 1000 (454)
beta-Propiolactone | 57-57-8 | 3 |  | 10 (4.54)
Propionaldehyde | 123-38-6 | 3 |  | 1000 (454)
Propionic acid | 79-09-4 | 1 |  | 5000 (2270)
Propionic anhydride | 123-62-6 | 1 |  | 5000 (2270)
Propoxur (Baygon) | 114-26-1 | 3,4 | U411 | 100 (45.4)
n-Propylamine | 107-10-8 | 4 | U194 | 5000 (2270)
n-Propyl bromide (nPB) | 106-94-5 | 3 |  | 1 (0.454)
Propylene dichloride | 78-87-5 | 1,2,3,4 | U083 | 1000 (454)
Propylene oxide | 75-56-9 | 1,3 |  | 100 (45.4)
1,2-Propylenimine | 75-55-8 | 3,4 | P067 | 1 (0.454)
2-Propyn-1-ol | 107-19-7 | 4 | P102 | 1000 (454)
Prosulfocarb | 52888-80-9 | 4 | U387 | 5000 (2270)
Pyrene | 129-00-0 | 2 |  | 5000 (2270)
Pyrethrins | 121-29-9 121-21-1 8003-34-7 | 1 |  | 1 (0.454)
3,6-Pyridazinedione, 1,2-dihydro- | 123-33-1 | 4 | U148 | 5000 (2270)
4-Pyridinamine | 504-24-5 | 4 | P008 | 1000 (454)
Pyridine | 110-86-1 | 4 | U196 | 1000 (454)
Pyridine, 2-methyl- | 109-06-8 | 4 | U191 | 5000 (2270)
Pyridine, 3-(1-methyl-2-pyrrolidinyl)-, (S)-, & salts | 54-11-5 | 4 | P075 | 100 (45.4)
2,4-(1H,3H)-Pyrimidinedione, 5-[bis(2- chloroethyl)amino]- | 66-75-1 | 4 | U237 | 10 (4.54)
4(1H)-Pyrimidinone, 2,3-dihydro-6-methyl-2-thioxo- | 56-04-2 | 4 | U164 | 10 (4.54)
Pyrrolidine, 1-nitroso- | 930-55-2 | 4 | U180 | 1 (0.454)
Pyrrolo[2,3-b]indol-5-ol, 1,2,3,3a,8,8a- hexahydro-1,3a,8-trimethyl-, methylcarbamate (ester), (3aS-cis)- | 57-47-6 | 4 | P204 | 100 (45.4)
Quinoline | 91-22-5 | 1,3 |  | 5000 (2270)
Quinone | 106-51-4 | 3,4 | U197 | 10 (4.54)
Quintobenzene | 82-68-8 | 3,4 | U185 | 100 (45.4)
Radionuclides (including radon) | N.A. | 3 |  | §
Reserpine | 50-55-5 | 4 | U200 | 5000 (2270)
Resorcinol | 108-46-3 | 1,4 | U201 | 5000 (2270)
Safrole | 94-59-7 | 4 | U203 | 100 (45.4)
SELENIUM AND COMPOUNDS | N.A. | 2,3 |  | **
Selenium Compounds | N.A. | 2,3 |  | **
Selenious acid | 7783-00-8 | 4 | U204 | 10 (4.54)
Selenious acid, dithallium (1 +) salt | 12039-52-0 | 4 | P114 | 1000 (454)
Selenium III | 7782-49-2 | 2 |  | 100 (45.4)
Selenium dioxide | 7746-08-4 | 1,4 | U204 | 10 (4.54)
Selenium oxide | 7746-08-4 | 1 |  | 10 (4.54)
Selenium sulfide SeS2 | 7488-56-4 | 4 | U205 | 10 (4.54)
Selenourea | 630-10-4 | 4 | P103 | 1000 (454)
L-Serine, diazoacetate (ester) | 115-02-6 | 4 | U015 | 1 (0.454)
SILVER AND COMPOUNDS | N.A. | 2 |  | **
Silver III | 7440-22-4 | 2 |  | 1000 (454)
Silver cyanide Ag(CN) | 506-64-9 | 4 | P104 | 1 (0.454)
Silver nitrate | 7761-88-8 | 1 |  | 1 (0.454)
Silvex (2,4,5-TP) | 93-72-1 | 1,4 | See F027 | 100 (45.4)
Sodium | 7440-23-5 | 1 |  | 10 (4.54)
Sodium arsenate | 7631-89-2 | 1 |  | 1 (0.454)
Sodium arsenite | 7784-46-5 | 1 |  | 1 (0.454)
Sodium azide | 26628-22-8 | 4 | P105 | 1000 (454)
Sodium bichromate | 10588-01-9 | 1 |  | 10 (4.54)
Sodium bifluoride | 1333-83-1 | 1 |  | 100 (45.4)
Sodium bisulfite | 7631-90-5 | 1 |  | 5000 (2270)
Sodium chromate | 7775-11-3 | 1 |  | 10 (4.54)
Sodium cyanide Na(CN) | 143-33-9 | 1,4 | P106 | 10 (4.54)
Sodium dodecylbenzenesulfonate | 25155-30-0 | 1 |  | 1000 (454)
Sodium fluoride | 7681-49-4 | 1 |  | 1000 (454)
Sodium hydrosulfide | 16721-80-5 | 1 |  | 5000 (2270)
Sodium hydroxide | 1310-73-2 | 1 |  | 1000 (454)
Sodium hypochlorite | 7681-52-9 10022-70-5 | 1 |  | 100 (45.4)
Sodium methylate | 124-41-4 | 1 |  | 1000 (454)
Sodium nitrite | 7632-00-0 | 1 |  | 100 (45.4)
Sodium phosphate, dibasic | 7558-79-4 10039-32-4 10140-65-5 | 1 |  | 5000 (2270)
Sodium phosphate, tribasic | 7601-54-9 10101-89-0 10361-89-4 | 1 |  | 5000 (2270)
Sodium selenite | 7782-82-3 10102-18-8 | 1 |  | 100 (45.4)
Streptozotocin | 18883-66-4 | 4 | U206 | 1 (0.454)
Strontium chromate | 7789-06-2 | 1 |  | 10 (4.54)
Strychnidin-10-one, & salts | 57-24-9 | 1,4 | P108 | 10 (4.54)
Strychnidin-10-one, 2,3-dimethoxy- | 357-57-3 | 4 | P018 | 100 (45.4)
Strychnine, & salts | 57-24-9 | 1,4 | P108 | 10 (4.54)
Styrene | 100-42-5 | 1,3 |  | 1000 (454)
Styrene oxide | 96-09-3 | 3 |  | 100 (45.4)
Sulfuric acid | 7664-93-9 8014-95-7 | 1 |  | 1000 (454)
Sulfuric acid, dimethyl ester | 77-78-1 | 3,4 | U103 | 100 (45.4)
Sulfuric acid, dithallium (1 +) salt | 7446-18-6 10031-59-1 | 1,4 | P115 | 100 (45.4)
Sulfur monochloride | 12771-08-3 | 1 |  | 1000 (454)
Sulfur phosphide | 1314-80-3 | 1,4 | U189 | 100 (45.4)
2,4,5-T | 93-76-5 | 1,4 | See F027 | 1000 (454)
2,4,5-T acid | 93-76-5 | 1,4 | See F027 | 1000 (454)
2,4,5-T amines | 2008-46-0 1319-72-8 3813-14-7 6369-96-6 6369-97-7 | 1 |  | 5000 (2270)
2,4,5-T esters | 93-79-8 1928-47-8 2545-59-7 25168-15-4 61792-07-2 | 1 |  | 1000 (454)
2,4,5-T salts | 13560-99-1 | 1 |  | 1000 (454)
TCDD | 1746-01-6 | 2,3 |  | 1 (0.454)
TDE | 72-54-8 | 1,2,4 | U060 | 1 (0.454)
1,2,4,5-Tetrachlorobenzene | 95-94-3 | 4 | U207 | 5000 (2270)
2,3,7,8-Tetrachlorodibenzo-p-dioxin | 1746-01-6 | 2,3 |  | 1 (0.454)
1,1,1,2-Tetrachloroethane | 630-20-6 | 4 | U208 | 100 (45.4)
1,1,2,2-Tetrachloroethane | 79-34-5 | 2,3,4 | U209 | 100 (45.4)
Tetrachloroethylene | 127-18-4 | 2,3,4 | U210 | 100 (45.4)
2,3,4,6-Tetrachlorophenol | 58-90-2 | 4 | See F027 | 10 (4.54)
Tetraethyl pyrophosphate | 107-49-3 | 1,4 | P111 | 10 (4.54)
Tetraethyl lead | 78-00-2 | 1,4 | P110 | 10 (4.54)
Tetraethyldithiopyrophosphate | 3689-24-5 | 4 | P109 | 100 (45.4)
Tetrahydrofuran | 109-99-9 | 4 | U213 | 1000 (454)
Tetranitromethane | 509-14-8 | 4 | P112 | 10 (4.54)
Tetraphosphoric acid, hexaethyl ester | 757-58-4 | 4 | P062 | 100 (45.4)
THALLIUM AND COMPOUNDS | N.A. | 2 |  | **
Thallic oxide | 1314-32-5 | 4 | P113 | 100 (45.4)
Thallium III | 7440-28-0 | 2 |  | 1000 (454)
Thallium (I) acetate | 563-68-8 | 4 | U214 | 100 (45.4)
Thallium (I) carbonate | 6533-73-9 | 4 | U215 | 100 (45.4)
Thallium chloride TlCl | 7791-12-0 | 4 | U216 | 100 (45.4)
Thallium (I) nitrate | 10102-45-1 | 4 | U217 | 100 (45.4)
Thallium oxide Tl2O3 | 1314-32-5 | 4 | P113 | 100 (45.4)
Thallium (l) selenite | 12039-52-0 | 4 | P114 | 1000 (454)
Thallium (I) sulfate | 7446-18-6 10031-59-1 | 1,4 | P115 | 100 (45.4)
Thioacetamide | 62-55-5 | 4 | U218 | 10 (4.54)
Thiodicarb | 59669-26-0 | 4 | U410 | 100 (45.4)
Thiodiphosphoric acid, tetraethyl ester | 3689-24-5 | 4 | P109 | 100 (45.4)
Thiofanox | 39196-18-4 | 4 | P045 | 100 (45.4)
Thioimidodicarbonic diamide [(H2N)C(S)] 2NH | 541-53-7 | 4 | P049 | 100 (45.4)
Thiomethanol | 74-93-1 | 1,4 | U153 | 100 (45.4)
Thioperoxydicarbonic diamide [(H2N)C(S)] 2S2, tetramethyl- | 137-26-8 | 4 | U244 | 10 (4.54)
Thiophanate-methyl | 23564-05-8 | 4 | U409 | 10 (4.54)
Thiophenol | 108-98-5 | 4 | P014 | 100 (45.4)
Thiosemicarbazide | 79-19-6 | 4 | P116 | 100 (45.4)
Thiourea | 62-56-6 | 4 | U219 | 10 (4.54)
Thiourea, (2-chlorophenyl)- | 5344-82-1 | 4 | P026 | 100 (45.4)
Thiourea, 1-naphthalenyl- | 86-88-4 | 4 | P072 | 100 (45.4)
Thiourea, phenyl- | 103-85-5 | 4 | P093 | 100 (45.4)
Thiram | 137-26-8 | 4 | U244 | 10 (4.54)
Tirpate | 26419-73-8 | 4 | P185 | 100 (45.4)
Titanium tetrachloride | 7550-45-0 | 3 |  | 1000 (454)
Toluene | 108-88-3 | 1,2,3,4 | U220 | 1000 (454)
Toluenediamine | 95-80-7 496-72-0 823-40-5 25376-45-8 | 3,4 | U221 | 10 (4.54)
2,4-Toluene diamine | 95-80-7 496-72-0 823-40-5 25376-45-8 | 3,4 | U221 | 10 (4.54)
Toluene diisocyanate | 91-08-7 584-84-9 26471-62-5 | 3,4 | U223 | 100 (45.4)
2,4-Toluene diisocyanate | 91-08-7 584-84-9 26471-62-5 | 3,4 | U223 | 100 (45.4)
o-Toluidine | 95-53-4 | 3,4 | U328 | 100 (45.4)
p-Toluidine | 106-49-0 | 4 | U353 | 100 (45.4)
o-Toluidine hydrochloride | 636-21-5 | 4 | U222 | 100 (45.4)
Toxaphene | 8001-35-2 | 1,2,3,4 | P123 | 1 (0.454)
2,4,5-TP acid | 93-72-1 | 1,4 | See F027 | 100 (45.4)
2,4,5-TP esters | 32534-95-5 | 1 |  | 100 (45.4)
Triallate | 2303-17-5 | 4 | U389 | 100 (45.4)
1H-1,2,4-Triazol-3-amine | 61-82-5 | 4 | U011 | 10 (4.54)
Trichlorfon | 52-68-6 | 1 |  | 100 (45.4)
1,2,4-Trichlorobenzene | 120-82-1 | 2,3 |  | 100 (45.4)
1,1,1-Trichloroethane | 71-55-6 | 2,3,4 | U226 | 1000 (454)
1,1,2-Trichloroethane | 79-00-5 | 2,3,4 | U227 | 100 (45.4)
Trichloroethylene | 79-01-6 | 1,2,3,4 | U228 | 100 (45.4)
Trichloromethanesulfenyl chloride | 594-42-3 | 4 | P118 | 100 (45.4)
Trichloromonofluoromethane | 75-69-4 | 4 | U121 | 5000 (2270)
Trichlorophenol | 25167-82-2 | 1,2 |  | 10 (4.54)
2,3,4-Trichlorophenol | 15950-66-0 | 1,2 |  | 10 (4.54)
2,3,5-Trichlorophenol | 933-78-8 | 1,2 |  | 10 (4.54)
2,3,6-Trichlorophenol | 933-75-5 | 1,2 |  | 10 (4.54)
2,4,5-Trichlorophenol | 95-95-4 | 1,2,3,4 | See F027 | 10 (4.54)
2,4,6-Trichlorophenol | 88-06-2 | 1,2,3,4 | See F027 | 10 (4.54)
3,4,5-Trichlorophenol | 609-19-8 | 1,2 |  | 10 (4.54)
Triethanolamine dodecylbenzenesulfonate | 27323-41-7 | 1 |  | 1000 (454)
Triethylamine | 121-44-8 | 1,3,4 | U404 | 5000 (2270)
Trifluralin | 1582-09-8 | 3 |  | 10 (4.54)
Trimethylamine | 75-50-3 | 1 |  | 100 (45.4)
2,2,4-Trimethylpentane | 540-84-1 | 3 |  | 1000 (454)
1,3,5-Trinitrobenzene | 99-35-4 | 4 | U234 | 10 (4.54)
1,3,5-Trioxane, 2,4,6-trimethyl- | 123-63-7 | 4 | U182 | 1000 (454)
Tris(2,3-dibromopropyl) phosphate | 126-72-7 | 4 | U235 | 10 (4.54)
Trypan blue | 72-57-1 | 4 | U236 | 10 (4.54)
Unlisted Hazardous Wastes Characteristic of Corrosivity | N.A. | 4 | D002 | 100 (45.4)
Unlisted Hazardous Wastes Characteristic of Ignitability | N.A. | 4 | D001 | 100 (45.4)
Unlisted Hazardous Wastes Characteristic of Reactivity | N.A. | 4 | D003 | 100 (45.4)
Unlisted Hazardous Wastes Characteristic of Toxicity |  |  |  |
Arsenic (D004) | N.A. | 4 | D004 | 1 (0.454)
Barium (D005) | N.A. | 4 | D005 | 1000 (454)
Benzene (D018) | N.A. | 1,2,3,4 | D018 | 10 (4.54)
Cadmium (D006) | N.A. | 4 | D006 | 10 (4.54)
Carbon tetrachloride (D019) | N.A. | 1,2,4 | D019 | 10 (4.54)
Chlordane (D020) | N.A. | 1,2,4 | D020 | 1 (0.454)
Chlorobenzene (D021) | N.A. | 1,2,4 | D021 | 100 (45.4)
Chloroform (D022) | N.A. | 1,2,4 | D022 | 10 (4.54)
Chromium (D007) | N.A. | 4 | D007 | 10 (4.54)
o-Cresol (D023) | N.A. | 4 | D023 | 100 (45.4)
m-Cresol (D024) | N.A. | 4 | D024 | 100 (45.4)
p-Cresol (D025) | N.A. | 4 | D025 | 100 (45.4)
Cresol (D026) | N.A. | 4 | D026 | 100 (45.4)
2,4-D (D016) | N.A. | 1,4 | D016 | 100 (45.4)
1,4-Dichlorobenzene (D027) | N.A. | 1,2,4 | D027 | 100 (45.4)
1,2-Dichloroethane (D028) | N.A. | 1,2,4 | D028 | 100 (45.4)
1,1-Dichloroethylene (D029) | N.A. | 1,2,4 | D029 | 100 (45.4)
2,4-Dinitrotoluene (D030) | N.A. | 1,2,4 | D030 | 10 (4.54)
Endrin (D012) | N.A. | 1,4 | D012 | 1 (0.454)
Heptachlor (and epoxide) (D031) | N.A. | 1,2,4 | D031 | 1 (0.454)
Hexachlorobenzene (D032) | N.A. | 2,4 | D032 | 10 (4.54)
Hexachlorobutadiene (D033) | N.A. | 2,4 | D033 | 1 (0.454)
Hexachloroethane (D034) | N.A. | 2,4 | D034 | 100 (45.4)
Lead (D008) | N.A. | 4 | D008 | 10 (4.54)
Lindane (D013) | N.A. | 1,4 | D013 | 1 (0.454)
Mercury (D009) | N.A. | 4 | D009 | 1 (0.454)
Methoxychlor (D014) | N.A. | 1,4 | D014 | 1 (0.454)
Methyl ethyl ketone (D035) | N.A. | 4 | D035 | 5000 (2270)
Nitrobenzene (D036) | N.A. | 1,2,4 | D036 | 1000 (454)
Pentachlorophenol (D037) | N.A. | 1,2,4 | D037 | 10 (4.54)
Pyridine (D038) | N.A. | 4 | D038 | 1000 (454)
Selenium (D010) | N.A. | 4 | D010 | 10 (4.54)
Silver (D011) | N.A. | 4 | D011 | 1 (0.454)
Tetrachloroethylene (D039) | N.A. | 2,4 | D039 | 100 (45.4)
Toxaphene (D015) | N.A. | 1,4 | D015 | 1 (0.454)
Trichloroethylene (D040) | N.A. | 1,2,4 | D040 | 100 (45.4)
2,4,5-Trichlorophenol (D041) | N.A. | 1,4 | D041 | 10 (4.54)
2,4,6-Trichlorophenol (D042) | N.A. | 1,2,4 | D042 | 10 (4.54)
2,4,5-TP (D017) | N.A. | 1,4 | D017 | 100 (45.4)
Vinyl chloride (D043) | N.A. | 2,3,4 | D043 | 1 (0.454)
Uracil mustard | 66-75-1 | 4 | U237 | 10 (4.54)
Uranyl acetate | 541-09-3 | 1 |  | 100 (45.4)
Uranyl nitrate | 10102-06-4 36478-76-9 | 1 |  | 100 (45.4)
Urea, N-ethyl-N-nitroso- | 759-73-9 | 4 | U176 | 1 (0.454)
Urea, N-methyl-N-nitroso- | 684-93-5 | 3,4 | U177 | 1 (0.454)
Urethane | 51-79-6 | 3,4 | U238 | 100 (45.4)
Vanadic acid, ammonium salt | 7803-55-6 | 4 | P119 | 1000 (454)
Vanadium oxide V2O5 | 1314-62-1 | 1,4 | P120 | 1000 (454)
Vanadium pentoxide | 1314-62-1 | 1,4 | P120 | 1000 (454)
Vanadyl sulfate | 27774-13-6 | 1 |  | 1000 (454)
Vinyl acetate | 108-05-4 | 1,3 |  | 5000 (2270)
Vinyl acetate monomer | 108-05-4 | 1,3 |  | 5000 (2270)
Vinylamine, N-methyl-N-nitroso- | 4549-40-0 | 4 | P084 | 10 (4.54)
Vinyl bromide | 593-60-2 | 3 |  | 100 (45.4)
Vinyl chloride | 75-01-4 | 2,3,4 | U043 | 1 (0.454)
Vinylidene chloride | 75-35-4 | 1,2,3,4 | U078 | 100 (45.4)
Warfarin, & salts | 81-81-2 | 4 | P001, U248 | 100 (45.4)
Xylene (mixed) | 1330-20-7 | 1,3,4 | U239 | 100 (45.4)
Xylenes (isomers and mixture) | 1330-20-7 | 1,3,4 | U239 | 100 (45.4)
Xylene | 1330-20-7 | 1,3,4 | U239 | 100 (45.4)
m-Xylene | 108-38-3 | 3 |  | 1000 (454)
o-Xylene | 95-47-6 | 3 |  | 1000 (454)
p-Xylene | 106-42-3 | 3 |  | 100 (45.4)
Xylenol | 1300-71-6 | 1 |  | 1000 (454)
Yohimban-16-carboxylic acid,11,17-dimethoxy-18-[(3,4,5-trimethoxybenzoyl)oxy]-, methyl ester (3beta,16beta,17alpha, 18beta,20alpha) | 50-55-54 | 4 | U200 | 5000 (2270)
ZINC AND COMPOUNDS | N.A. | 2 |  | **
Zinc III | 7440-66-6 | 2 |  | 1000 (454)
Zinc acetate | 557-34-6 | 1 |  | 1000 (454)
Zinc ammonium chloride | 52628-25-8 14639-97-5 14639-98-6 | 1 |  | 1000 (454)
Zinc, bis(dimethylcarbamodithioato-S,S′)- | 137-30-4 | 4 | P205 | 10 (4.54)
Zinc borate | 1332-07-6 | 1 |  | 1000 (454)
Zinc bromide | 7699-45-8 | 1 |  | 1000 (454)
Zinc carbonate | 3486-35-9 | 1 |  | 1000 (454)
Zinc chloride | 7646-85-7 | 1 |  | 1000 (454)
Zinc cyanide Zn(CN)2 | 557-21-1 | 1,4 | P121 | 10 (4.54)
Zinc fluoride | 7783-49-5 | 1 |  | 1000 (454)
Zinc formate | 557-41-5 | 1 |  | 1000 (454)
Zinc hydrosulfite | 7779-86-4 | 1 |  | 1000 (454)
Zinc nitrate | 7779-88-6 | 1 |  | 1000 (454)
Zinc phenolsulfonate | 127-82-2 | 1 |  | 5000 (2270)
Zinc phosphide Zn3P2 | 1314-84-7 | 1,4 | P122, U249 | 100 (45.4)
Zinc silicofluoride | 16871-71-9 | 1 |  | 5000 (2270)
Zinc sulfate | 7733-02-0 | 1 |  | 1000 (454)
Ziram | 137-30-4 | 4 | P205 | 10 (4.54)
Zirconium nitrate | 13746-89-9 | 1 |  | 5000 (2270)
Zirconium potassium fluoride | 16923-95-8 | 1 |  | 1000 (454)
Zirconium sulfate | 14644-61-2 | 1 |  | 5000 (2270)
Zirconium tetrachloride | 10026-11-6 | 1 |  | 5000 (2270)
F001—The following spent halogenated solvents used in degreasing; all spent solvent mixtures/blends used in degreasing containing, before use, a total of ten percent or more (by volume) of one or more of the halogenated solvents listed below or those solvents listed in F002, F004, and F005; and still bottoms from the recovery of these spent solvents and spent solvent mixtures |  | 4 | F001 | 10 (4.54)
(a) Tetrachloroethylene | 127-18-4 | 2,3,4 | U210 | 100 (45.4)
(b) Trichloroethylene | 79-01-6 | 1,2,3,4 | U228 | 100 (45.4)
(c) Methylene chloride | 75-09-2 | 2,3,4 | U080 | 1000 (454)
(d) 1,1,1-Trichloroethane | 71-55-6 | 2,3,4 | U226 | 1000 (454)
(e) Carbon tetrachloride | 56-23-5 | 1,2,3,4 | U211 | 10 (4.54)
(f) Chlorinated fluorocarbons | N.A. |  |  | 5000 (2270)
F002—The following spent halogenated solvents; all spent solvent mixtures/blends containing, before use, a total of ten percent or more (by volume) of one or more of the halogenated solvents listed below or those solvents listed in F001, F004, or F005; and still bottoms from the recovery of these spent solvents and spent solvent mixtures |  | 4 | F002 | 10 (4.54)
(a) Tetrachloroethylene | 127-18-4 | 2,3,4 | U210 | 100 (45.4)
(b) Methylene chloride | 75-09-2 | 2,3,4 | U080 | 1000 (454)
(c) Trichloroethylene | 79-01-6 | 1,2,3,4 | U228 | 100 (45.4)
(d) 1,1,1-Trichloroethane | 71-55-6 | 2,3,4 | U226 | 1000 (454)
(e) Chlorobenzene | 108-90-7 | 1,2,3,4 | U037 | 100 (45.4)
(f) 1,1,2-Trichloro-1,2,2-trifluoroethane | 76-13-1 |  |  | 5000 (2270)
(g) o-Dichlorobenzene | 95-50-1 | 1,2,4 | U070 | 100 (45.4)
(h) Trichlorofluoromethane | 75-69-4 | 4 | U121 | 5000 (2270)
(i) 1,1,2-Trichloroethane | 79-00-5 | 2,3,4 | U227 | 100 (45.4)
F003—The following spent non-halogenated solvents and the still bottoms from the recovery of these solvents |  | 4 | F003 | 100 (45.4)
(a) Xylene | 1330-20-7 |  |  | 1000 (454)
(b) Acetone | 67-64-1 |  |  | 5000 (2270)
(c) Ethyl acetate | 141-78-6 |  |  | 5000 (2270)
(d) Ethylbenzene | 100-41-4 |  |  | 1000 (454)
(e) Ethyl ether | 60-29-7 |  |  | 100 (45.4)
(f) Methyl isobutyl ketone | 108-10-1 |  |  | 5000 (2270)
(g) n-Butyl alcohol | 71-36-3 |  |  | 5000 (2270)
(h) Cyclohexanone | 108-94-1 |  |  | 5000 (2270)
(i) Methanol | 67-56-1 |  |  | 5000 (2270)
F004—The following spent non-halogenated solvents and the still bottoms from the recovery of these solvents |  | 4 | F004 | 100 (45.4)
(a) Cresols/Cresylic acid | 1319-77-3 | 1,3,4 | U052 | 100 (45.4)
(b) Nitrobenzene | 98-95-3 | 1,2,3,4 | U169 | 1000 (454)
F005—The following spent non-halogenated solvents and the still bottoms from the recovery of these solvents |  | 4 | F005 | 100 (45.4)
(a) Toluene | 108-88-3 | 1,2,3,4 | U220 | 1000 (454)
(b) Methyl ethyl ketone | 78-93-3 | 4 | U159 | 5000 (2270)
(c) Carbon disulfide | 75-15-0 | 1,3,4 | P022 | 100 (45.4)
(d) Isobutanol | 78-83-1 | 4 | U140 | 5000 (2270)
(e) Pyridine | 110-86-1 | 4 | U196 | 1000 (454)
F006—Wastewater treatment sludges from electroplating operations except from the following processes: (1) Sulfuric acid anodizing of aluminum, (2) tin plating on carbon steel, (3) zinc plating (segregated basis) on carbon steel, (4) aluminum or zinc-aluminum plating on carbon steel, (5) cleaning/stripping associated with tin, zinc and aluminum plating on carbon steel, and (6) chemical etching and milling of aluminum |  | 4 | F006 | 10 (4.54)
F007—Spent cyanide plating bath solutions from electroplating operations. |  | 4 | F007 | 10 (4.54)
F008—Plating bath residues from the bottom of plating baths from electroplating operations where cyanides are used in the process |  | 4 | F008 | 10 (4.54)
F009—Spent stripping and cleaning bath solutions from electroplating operations where cyanides are used in the process |  | 4 | F009 | 10 (4.54)
F010—Quenching bath residues from oil baths from metal heat treating operations where cyanides are used in the process |  | 4 | F010 | 10 (4.54)
F011—Spent cyanide solutions from salt bath pot cleaning from metal heat treating operations |  | 4 | F011 | 10 (4.54)
F012—Quenching wastewater treatment sludges from metal heat treating operations where cyanides are used in the process |  | 4 | F012 | 10 (4.54)
F019—Wastewater treatment sludges from the chemical conversion coating of aluminum except from zirconium phosphating in aluminum can washing when such phosphating is an exclusive conversion coating process . . . Wastewater treatment sludges from the manufacturing of motor vehicles using a zinc phosphating process will not be subject to this listing at the point of generation if the wastes are not placed outside on the land prior to shipment to a landfill for disposal and are either: Disposed in a Subtitle D municipal or industrial landfill unit that is equipped with a single clay liner and is permitted, licensed or otherwise authorized by the state; or disposed in a landfill unit subject to, or otherwise meeting, the landfill requirements in § 258.40, § 264.301 or § 265.301. For the purposes of this listing, motor vehicle manufacturing is defined in § 261.31(b)(4)(i) and § 261.31(b)(4)(ii) describes the recordkeeping requirements for motor vehicle manufacturing facilities |  | 4 | F019 | 10 (4.54)
F020—Wastes (except wastewater and spent carbon from hydrogen chloride purification) from the production or manufacturing use (as a reactant, chemical intermediate, or component in a formulating process) of tri- or tetrachlorophenol or of intermediates used to produce their pesticide derivatives. (This listing does not include wastes from the production of hexachlorophene from highly purified 2,4,5-trichlorophenol) |  | 4 | F020 | 1 (0.454)
F021—Wastes (except wastewater and spent carbon from hydrogen chloride purification) from the production or manufacturing use (as a reactant, chemical intermediate, or component in a formulating process) of pentachlorophenol or of intermediates used to produce its derivatives |  | 4 | F021 | 1 (0.454)
F022—Wastes (except wastewater and spent carbon from hydrogen chloride purification) from the manufacturing use (as a reactant, chemical intermediate, or component in a formulating process) of tetra-, penta-, or hexachlorobenzenes under alkaline conditions |  | 4 | F022 | 1 (0.454)
F023—Wastes (except wastewater and spent carbon from hydrogen chloride purification) from the production of materials on equipment previously used for the production or manufacturing use (as a reactant, chemical intermediate, or a component in a formulating process) of tri- and tetrachlorophenols. (This listing does not include wastes from equipment used only for the production or use of hexachlorophene from highly purified 2,4,5-trichlorophenol) |  | 4 | F023 | 1 (0.454)
F024—Process wastes, including but not limited to, distillation residues, heavy ends, tars, and reactor clean-out wastes, from the production of certain chlorinated aliphatic hydrocarbons by free radical catalyzed processes. These chlorinated aliphatic hydrocarbons are those having carbon chain lengths ranging from one to and including five, with varying amounts and positions of chlorine substitution. (This listing does not include wastewaters, wastewater treatment sludges, spent catalysts, and wastes listed in 40 CFR 261.31 or 261.32) |  | 4 | F024 | 1 (0.454)
F025—Condensed light ends, spent filters and filter aids, and spent desiccant wastes from the production of certain chlorinated aliphatic hydrocarbons, by free radical catalyzed processes. These chlorinated aliphatic hydrocarbons are those having carbon chain lengths ranging from one to and including five, with varying amounts and positions of chlorine substitution |  | 4 | F025 | 1 (0.454)
F026—Wastes (except wastewater and spent carbon from hydrogen chloride purification) from the production of materials on equipment previously used for the manufacturing use (as a reactant, chemical intermediate, or component in a formulating process) of tetra-, penta-, or hexachlorobenzene under alkaline conditions |  | 4 | F026 | 1 (0.454)
F027—Discarded unused formulations containing tri-, tetra-, or pentachlorophenol or discarded unused formulations containing compounds derived from these chlorophenols. (This listing does not include formulations containing hexachlorophene synthesized from prepurified 2,4,5- trichlorophenol as the sole component) |  | 4 | F027 | 1 (0.454)
F028—Residues resulting from the incineration or thermal treatment of soil contaminated with EPA Hazardous Waste Nos. F020, F021, F022, F023, F026, and F027 |  | 4 | F028 | 1 (0.454)
F032—Wastewaters (except those that have not come into contact with process contaminants), process residuals, preservative drippage, and spent formulations from wood preserving processes generated at plants that currently use or have previously used chlorophenolic formulations (except potentially cross-contaminated wastes that have had the F032 waste code deleted in accordance with § 261.35 of this chapter or potentially cross-contaminated wastes that are otherwise currently regulated as hazardous wastes (i.e., F034 or F035), and where the generator does not resume or initiate use of chlorophenolic formulations). This listing does not include K001 bottom sediment sludge from the treatment of wastewater from wood preserving processes that use creosote and/or pentachlorophenol |  | 4 | F032 | 1 (0.454)
F034—Wastewaters (except those that have not come into contact with process contaminants), process residuals, preservative drippage, and spent formulations from wood preserving processes generated at plants that use creosote formulations. This listing does not include K001 bottom sediment sludge from the treatment of wastewater from wood preserving processes that use creosote and/or pentachlorophenol |  | 4 | F034 | 1 (0.454)
F035—Wastewaters (except those that have not come into contact with process contaminants), process residuals, preservative drippage, and spent formulations from wood preserving processes generated at plants that use inorganic preservatives containing arsenic or chromium. This listing does not include K001 bottom sediment sludge from the treatment of wastewater from wood preserving processes that use creosote and/or pentachlorophenol |  | 4 | F035 | 1 (0.454)
F037—Petroleum refinery primary oil/water/solids separation sludge-Any sludge generated from the gravitational separation of oil/water/solids during the storage or treatment of process wastewaters and oily cooling wastewaters from petroleum refineries. Such sludges include, but are not limited to those generated in oil/water/solids separators; tanks and impoundments; ditches and other conveyances; sumps; and stormwater units receiving dry weather flow. Sludges generated in stormwater units that do not receive dry weather flow, sludges generated from non-contact once-through cooling waters segregated for treatment from other process or oily cooling waters, sludges generated in aggressive biological treatment units as defined in § 261.31(b)(2) (including sludges generated in one or more additional units after wastewaters have been treated in aggressive biological treatment units) and K051 wastes are not included in this listing. This listing does include residuals generated from processing or recycling oil-bearing hazardous secondary materials excluded under § 261.4(a)(12)(i), if those residuals are to be disposed of |  | 4 | F037 | 1 (0.454)
F038—Petroleum refinery secondary (emulsified) oil/water/solids separation sludge-Any sludge and/or float generated from the physical and/or chemical separation of oil/water/solids in process wastewaters and oily cooling wastewaters from petroleum refineries. Such wastes include, but are not limited to, all sludges and floats generated in: Induced air flotation (IAF) units, tanks and impoundments, and all sludges generated in DAF units. Sludges generated in stormwater units that do not receive dry weather flow, sludges generated from non-contact once-through cooling waters segregated for treatment from other process or oily cooling waters, sludges and floats generated in aggressive biological treatment units as defined in § 261.31(b)(2) (including sludges and floats generated in one or more additional units after wastewaters have been treated in aggressive biological treatment units) and F037, K048, and K051 wastes are not included in this listing |  | 4 | F038 | 1 (0.454)
F039—Leachate (liquids that have percolated through land disposed wastes) resulting from the disposal of more than one restricted waste classified as hazardous under subpart D of 40 CFR part 261. (Leachate resulting from the disposal of one or more of the following EPA Hazardous Wastes and no other hazardous wastes retains its EPA Hazardous Waste Number(s): F020, F021, F022, F026, F027, and/or F028) |  | 4 | F039 | 1 (0.454)
K001—Bottom sediment sludge from the treatment of wastewaters from wood preserving processes that use creosote and/or pentachlorophenol |  | 4 | K001 | 1 (0.454)
K002—Wastewater treatment sludge from the production of chrome yellow and orange pigments |  | 4 | K002 | 10 (4.54)
K003—Wastewater treatment sludge from the production of molybdate orange pigments |  | 4 | K003 | 10 (4.54)
K004—Wastewater treatment sludge from the production of zinc yellow pigments |  | 4 | K004 | 10 (4.54)
K005—Wastewater treatment sludge from the production of chrome green pigments |  | 4 | K005 | 10 (4.54)
K006—Wastewater treatment sludge from the production of chrome oxide green pigments (anhydrous and hydrated) |  | 4 | K006 | 10 (4.54)
K007—Wastewater treatment sludge from the production of iron blue pigments |  | 4 | K007 | 10 (4.54)
K008—Oven residue from the production of chrome oxide green pigments |  | 4 | K008 | 10 (4.54)
K009—Distillation bottoms from the production of acetaldehyde from ethylene |  | 4 | K009 | 10 (4.54)
K010—Distillation side cuts from the production of acetaldehyde from ethylene |  | 4 | K010 | 10 (4.54)
K011—Bottom stream from the wastewater stripper in the production of acrylonitrile |  | 4 | K011 | 10 (4.54)
K013—Bottom stream from the acetonitrile column in the production of acrylonitrile |  | 4 | K013 | 10 (4.54)
K014—Bottoms from the acetonitrile purification column in the production of acrylonitrile |  | 4 | K014 | 5000 (2270)
K015—Still bottoms from the distillation of benzyl chloride |  | 4 | K015 | 10 (4.54)
K016—Heavy ends or distillation residues from the production of carbon tetrachloride |  | 4 | K016 | 1 (0.454)
K017—Heavy ends (still bottoms) from the purification column in the production of epichlorohydrin |  | 4 | K017 | 10 (4.54)
K018—Heavy ends from the fractionation column in ethyl chloride production |  | 4 | K018 | 1 (0.454)
K019—Heavy ends from the distillation of ethylene dichloride in ethylene dichloride production |  | 4 | K019 | 1 (0.454)
K020—Heavy ends from the distillation of vinyl chloride in vinyl chloride monomer production |  | 4 | K020 | 1 (0.454)
K021—Aqueous spent antimony catalyst waste from fluoromethanes production |  | 4 | K021 | 10 (4.54)
K022—Distillation bottom tars from the production of phenol/acetone from cumene |  | 4 | K022 | 1 (0.454)
K023—Distillation light ends from the production of phthalic anhydride from naphthalene |  | 4 | K023 | 5000 (2270)
K024—Distillation bottoms from the production of phthalic anhydride from naphthalene |  | 4 | K024 | 5000 (2270)
K025—Distillation bottoms from the production of nitrobenzene by the nitration of benzene |  | 4 | K025 | 10 (4.54)
K026—Stripping still tails from the production of methyl ethyl pyridines |  | 4 | K026 | 1000 (454)
K027—Centrifuge and distillation residues from toluene diisocyanate production |  | 4 | K027 | 10 (4.54)
K028—Spent catalyst from the hydrochlorinator reactor in the production of 1,1,1-trichloroethane |  | 4 | K028 | 1 (0.454)
K029—Waste from the product steam stripper in the production of 1,1,1- trichloroethane |  | 4 | K029 | 1 (0.454)
K030—Column bottoms or heavy ends from the combined production of trichloroethylene and perchloroethylene |  | 4 | K030 | 1 (0.454)
K031—By-product salts generated in the production of MSMA and cacodylic acid |  | 4 | K031 | 1 (0.454)
K032—Wastewater treatment sludge from the production of chlordane |  | 4 | K032 | 10 (4.54)
K033—Wastewater and scrub water from the chlorination of cyclopentadiene in the production of chlordane |  | 4 | K033 | 10 (4.54)
K034—Filter solids from the filtration of hexachlorocyclopentadiene in the production of chlordane |  | 4 | K034 | 10 (4.54)
K035—Wastewater treatment sludges generated in the production of creosote |  | 4 | K035 | 1 (0.454)
K036—Still bottoms from toluene reclamation distillation in the production of disulfoton |  | 4 | K036 | 1 (0.454)
K037—Wastewater treatment sludges from the production of disulfoton |  | 4 | K037 | 1 (0.454)
K038—Wastewater from the washing and stripping of phorate production |  | 4 | K038 | 10 (4.54)
K039—Filter cake from the filtration of diethylphosphorodithioic acid in the production of phorate |  | 4 | K039 | 10 (4.54)
K040—Wastewater treatment sludge from the production of phorate |  | 4 | K040 | 10 (4.54)
K041—Wastewater treatment sludge from the production of toxaphene |  | 4 | K041 | 1 (0.454)
K042—Heavy ends or distillation residues from the distillation of tetrachlorobenzene in the production of 2,4,5-T |  | 4 | K042 | 10 (4.54)
K043—2,6-Dichlorophenol waste from the production of 2,4-D |  | 4 | K043 | 10 (4.54)
K044—Wastewater treatment sludges from the manufacturing and processing of explosives |  | 4 | K044 | 10 (4.54)
K045—Spent carbon from the treatment of wastewater containing explosives |  | 4 | K045 | 10 (4.54)
K046—Wastewater treatment sludges from the manufacturing, formulation and loading of lead-based initiating compounds |  | 4 | K046 | 10 (4.54)
K047—Pink/red water from TNT operations |  | 4 | K047 | 10 (4.54)
K048—Dissolved air flotation (DAF) float from the petroleum refining industry |  | 4 | K048 | 10 (4.54)
K049—Slop oil emulsion solids from the petroleum refining industry |  | 4 | K049 | 10 (4.54)
K050—Heat exchanger bundle cleaning sludge from the petroleum refining industry |  | 4 | K050 | 10 (4.54)
K051—API separator sludge from the petroleum refining industry |  | 4 | K051 | 10 (4.54)
K052—Tank bottoms (leaded) from the petroleum refining industry |  | 4 | K052 | 10 (4.54)
K060—Ammonia still lime sludge from coking operations |  | 4 | K060 | 1 (0.454)
K061—Emission control dust/sludge from the primary production of steel in electric furnaces |  | 4 | K061 | 10 (4.54)
K062—Spent pickle liquor generated by steel finishing operations of facilities within the iron and steel industry (SIC Codes 331 and 332) |  | 4 | K062 | 10 (4.54)
K069—Emission control dust/sludge from secondary lead smelting. (Note: This listing is stayed administratively for sludge generated from secondary acid scrubber systems. The stay will remain in effect until further administrative action is taken. If EPA takes further action effecting the stay, EPA will publish a notice of the action in the Federal Register) |  | 4 | K069 | 10 (4.54)
K071—Brine purification muds from the mercury cell process in chlorine production, where separately prepurified brine is not used |  | 4 | K071 | 1 (0.454)
K073—Chlorinated hydrocarbon waste from the purification step of the diaphragm cellprocess using graphite anodes in chlorine production |  | 4 | K073 | 10 (4.54)
K083—Distillation bottoms from aniline production |  | 4 | K083 | 100 (45.4)
K084—Wastewater treatment sludges generated during the production of veterinary pharmaceuticals from arsenic or organo-arsenic compounds |  | 4 | K084 | 1 (0.454)
K085—Distillation or fractionation column bottoms from the production of chlorobenzenes |  | 4 | K085 | 10 (4.54)
K086—Solvent washes and sludges, caustic washes and sludges, or water washes and sludges from cleaning tubs and equipment used in the formulation of ink from pigments, driers, soaps, and stabilizers containing chromium and lead |  | 4 | K086 | 10 (4.54)
K087—Decanter tank tar sludge from coking operations |  | 4 | K087 | 100 (45.4)
K088—Spent potliners from primary aluminum reduction |  | 4 | K088 | 10 (4.54)
K093—Distillation light ends from the production of phthalic anhydride from ortho-xylene |  | 4 | K093 | 5000 (2270)
K094—Distillation bottoms from the production of phthalic anhydride from ortho-xylene |  | 4 | K094 | 5000 (2270)
K095—Distillation bottoms from the production of 1,1,1-trichloroethane |  | 4 | K095 | 100 (45.4)
K096—Heavy ends from the heavy ends column from the production of 1,1,1-trichloroethane |  | 4 | K096 | 100 (45.4)
K097—Vacuum stripper discharge from the chlordane chlorinator in the production of chlordane |  | 4 | K097 | 1 (0.454)
K098—Untreated process wastewater from the production of toxaphene |  | 4 | K098 | 1 (0.454)
K099—Untreated wastewater from the production of 2,4-D |  | 4 | K099 | 10 (4.54)
K100—Waste leaching solution from acid leaching of emission control dust/sludge from secondary lead smelting |  | 4 | K100 | 10 (4.54)
K101—Distillation tar residues from the distillation of aniline-based compounds in the production of veterinary pharmaceuticals from arsenic or organo-arsenic compounds |  | 4 | K101 | 1 (0.454)
K102—Residue from the use of activated carbon for decolorization in the production of veterinary pharmaceuticals from arsenic or organo-arsenic compounds |  | 4 | K102 | 1 (0.454)
K103—Process residues from aniline extraction from the production of aniline |  | 4 | K103 | 100 (45.4)
K104—Combined wastewater streams generated from nitrobenzene/aniline production |  | 4 | K104 | 10 (4.54)
K105—Separated aqueous stream from the reactor product washing step in the production of chlorobenzenes |  | 4 | K105 | 10 (4.54)
K106—Wastewater treatment sludge from the mercury cell process in chlorine production |  | 4 | K106 | 1 (0.454)
K107—Column bottoms from product separation from the production of 1,1- dimethylhydrazine (UDMH) from carboxylic acid hydrazines |  | 4 | K107 | 10 (4.54)
K108—Condensed column overheads from product separation and condensed reactor vent gases from the production of 1,1- dimethylhydrazine (UDMH) from carboxylic acid hydrazides |  | 4 | K108 | 10 (4.54)
K109—Spent filter cartridges from product purification from the production of 1,1-dimethylhydrazine (UDMH) from carboxylic acid hydrazides |  | 4 | K109 | 10 (4.54)
K110—Condensed column overheads from intermediate separation from the production of 1,1-dimethylhydrazine (UDMH) from carboxylic acid hydrazides |  | 4 | K110 | 10 (4.54)
K111—Product washwaters from the production of dinitrotoluene via nitration of toluene |  | 4 | K111 | 10 (4.54)
K112—Reaction by-product water from the drying column in the production of toluenediamine via hydrogenation of dinitrotoluene |  | 4 | K112 | 10 (4.54)
K113—Condensed liquid light ends from the purification of toluenediamine in the production of toluenediamine via hydrogenation of dinitrotoluene |  | 4 | K113 | 10 (4.54)
K114—Vicinals from the purification of toluenediamine in the production of toluenediamine via hydrogenation of dinitrotoluene |  | 4 | K114 | 10 (4.54)
K115—Heavy ends from the purification of toluenediamine in the production of toluenediamine via hydrogenation of dinitrotoluene |  | 4 | K115 | 10 (4.54)
K116—Organic condensate from the solvent recovery column in the production of toluene diisocyanate via phosgenation of toluenediamine |  | 4 | K116 | 10 (4.54)
K117—Wastewater from the reactor vent gas scrubber in the production of ethylene dibromide via bromination of ethene |  | 4 | K117 | 1 (0.454)
K118—Spent adsorbent solids from purification of ethylene dibromide in the production of ethylene dibromide via bromination of ethene |  | 4 | K118 | 1 (0.454)
K123—Process wastewater (including supernates, filtrates, and washwaters) from the production of ethylenebisdithiocarbamic acid and its salts |  | 4 | K123 | 10 (4.54)
K124—Reactor vent scrubber water from the production of ethylenebisdithiocarbamic acid and its salts |  | 4 | K124 | 10 (4.54)
K125—Filtration, evaporation, and centrifugation solids from the production of ethylenebisdithiocarbamic acid and its salts |  | 4 | K125 | 10 (4.54)
K126—Baghouse dust and floor sweepings in milling and packaging operations from the production or formulation of ethylenebisdithiocarbamic acid and its salts |  | 4 | K126 | 10 (4.54)
K131—Wastewater from the reactor and spent sulfuric acid from the acid dryer from the production of methyl bromide |  | 4 | K131 | 100 (45.4)
K132—Spent absorbent and wastewater separator solids from the production of methyl bromide |  | 4 | K132 | 1000 (454)
K136—Still bottoms from the purification of ethylene dibromide in the production of ethylene dibromide via bromination of ethene |  | 4 | K136 | 1 (0.454)
K141—Process residues from the recovery of coal tar, including, but not limited to, collecting sump residues from the production of coke from coal or the recovery of coke by-products produced from coal This listing does not include K087 (decanter tank tar sludges from coking operations) |  | 4 | K141 | 1 (0.454)
K142—Tar storage tank residues from the production of coke from coal or from the recovery of coke by-products produced from coal |  | 4 | K142 | 1 (0.454)
K143—Process residues from the recovery of light oil, including, but not limited to, those generated in stills, decanters, and wash oil recovery units from the recovery of coke by- products produced from coal |  | 4 | K143 | 1 (0.454)
K144—Wastewater sump residues from light oil refining, including, but not limited to, intercepting or contamination sump sludges from the recovery of coke by-products produced from coal |  | 4 | K144 | 1 (0.454)
K145—Residues from naphthalene collection and recovery operations from the recovery of coke by-products produced from coal |  | 4 | K145 | 1 (0.454)
K147—Tar storage tank residues from coal tar refining |  | 4 | K147 | 1 (0.454)
K148—Residues from coal tar distillation, including, but not limited to, still bottoms |  | 4 | K148 | 1 (0.454)
K149—Distillation bottoms from the production of alpha-(or methyl-) chlorinated toluenes, ring-chlorinated toluenes, benzoyl chlorides, and compounds with mixtures of these functional groups. [This waste does not include still bottoms from the distillation of benzyl chloride] |  | 4 | K149 | 10 (4.54)
K150—Organic residuals, excluding spent carbon adsorbent, from the spent chlorine gas and hydrochloric acid recovery processes associated with the production of alpha- (or methyl-) chlorinated toluenes, ring-chlorinated toluenes, benzoyl chlorides, and compounds with mixtures of these functional groups |  | 4 | K150 | 10 (4.54)
K151—Wastewater treatment sludges, excluding neutralization and biological sludges, generated during the treatment of waste-waters from the production of alpha- (or methyl-) chlorinated toluenes, ring-chlorinated toluenes, benzoyl chlorides, and compounds with mixtures of these functional groups |  | 4 | K151 | 10 (4.54)
K156—Organic waste (including heavy ends, still bottoms, light ends, spent solvents, filtrates, and decantates) from the production of carbamates and carbamoyl oximes. (This listing does not apply to wastes generated from the manufacture of 3-iodo-2-propynyl n-butylcarbamate) |  | 4 | K156 | 10 (4.54)
K157—Wastewaters (including scrubber waters, condenser waters, washwaters, and separation waters) from the production of carbamates and carbamoyl oximes. (This listing does not apply to wastes generated from the manufacture of 3-iodo-2-propynyl n-butylcarbamate) |  | 4 | K157 | 10 (4.54)
K158—Bag house dusts and filter/separation solids from the production of carbamates and carbamoyl oximes. (This listing does not apply to wastes generated from the manufacture of 3-iodo-2-propynyl n-butylcarbamate) |  | 4 | K158 | 10 (4.54)
K159—Organics from the treatment of thiocarbamate wastes |  | 4 | K159 | 10 (4.54)
K161—Purification solids (including filtration, evaporation, and centrifugation solids), bag-house dust and floor sweepings from the production of dithiocarbamate acids and their salts. (This listing does not include K125 or K126) |  | 4 | K161 | 1 (0.454)
K169 ᶠ—Crude oil storage tank sediment from petroleum refining operations |  | 4 | K169 | 10 (4.54)
K170 ᶠ—Clarified slurry oil tank sediment and/or in-line filter/separation solids from petroleum refining operations |  | 4 | K170 | 1 (0.454)
K171 ᶠ—Spent hydrotreating catalyst from petroleum refining operations. (This listing does not include inert support media) |  | 4 | K171 | 1 (0.454)
K172 ᶠ—Spent hydrorefining catalyst from petroleum refining operations. (This listing does not include inert support media) |  | 4 | K172 | 1 (0.454)
K174 ᶠ |  | 4 | K174 | 1 (0.454)
K175 ᶠ |  | 4 | K175 | 1 (0.454)
K176—Baghouse filters from the production of antimony oxide, including filters from the production of intermediates (e.g., antimony metal or crude antimony oxide) |  | 4 | K176 | 1 (0.454)
K177—Slag from the production of antimony oxide that is speculatively accumulated or disposed, including slag from the production of intermediates (e.g., antimony metal or crude antimony oxide) |  | 4 | K177 | 5000 (2270)
K178—Residues from manufacturing and manufacturing-site storage of ferric chloride from acids formed during the production of titanium dioxide using the chloride-ilmenite process |  | 4 | K178 | 1000 (454)
K181—Nonwastewaters from the production of dyes and/or pigments (including nonwastewaters commingled at the point of generation with nonwastewaters from other processes) that, at the point of generation, contain mass loadings of any of the constituents identified in paragraph (c) of section 261.32 that are equal to or greater than the corresponding paragraph (c) levels, as determined on a calendar year basis |  | 4 | K181 | (##)
I Provides reference to Note I to Table 302.4 to discuss the applicability of CASRNs.
II Indicates the statutory source defined by 1, 2, 3, and 4, as described in the Note II to Table 302.4.
III No reporting of releases of this hazardous substance is required if the diameter of the pieces of the solid metal released is larger than 100 micrometers (0.004 inches).
IV The RQ for asbestos is limited to friable forms only.
## The Agency may adjust the statutory RQ for this hazardous substance in a future rulemaking; until then the statutory one-pound RQ applies.
§ The adjusted RQs for radionuclides may be found in appendix B to this table.
** Indicates that no RQ is being assigned to the generic or broad class.
ᵃ Benzene was already a CERCLA hazardous substance prior to the CAA Amendments of 1990 and received an adjusted 10-pound RQ based on potential carcinogenicity in an August 14, 1989, final rule (54 FR 33418). The CAA Amendments specify that “benzene (including benzene from gasoline)” is a hazardous air pollutant and, thus, a CERCLA hazardous substance.
ᵇ The CAA Amendments of 1990 list DDE (3547-04-4) as a CAA hazardous air pollutant. The CAS number, 3547-04-4, is for the chemical, p,p′dichlorodiphenylethane. DDE or p,p′-dichlorodiphenyldichloroethylene, CAS number 72-55-9, is already listed in Table 302.4 with a final RQ of 1 pound. The substance identified by the CAS number 3547-04-4 has been evaluated and listed as DDE to be consistent with the CAA section 112 listing, as amended.
ᶜ Includes mineral fiber emissions from facilities manufacturing or processing glass, rock, or slag fibers (or other mineral derived fibers) of average diameter 1 micrometer or less.
ᵈ Includes mono- and di-ethers of ethylene glycol, diethylene glycol, and triethylene glycol R-(OCH2CH2)n-OR′ where:
n = 1, 2, or 3;
R = alkyl C7 or less; or
R = phenyl or alkyl substituted phenyl;
R′= H or alkyl C7 or less; or
OR′ consisting of carboxylic acid ester, sulfate, phosphate, nitrate, or sulfonate.
ᵉ Includes organic compounds with more than one benzene ring, and which have a boiling point greater than or equal to 100 °C.
ᶠ See 40 CFR 302.6(b)(1) for application of the mixture rule to this hazardous waste.

Appendix A to § 302.4—Sequential CAS Registry Number List of CERCLA Hazardous Substances

Appendix A to § 302.4 lists CERCLA hazardous substances in sequential order by CASRN and provides a per-substance grouping of regulatory synonyms (i.e., names by which each hazardous substance is identified in other statutes and their implementing regulations).

CASRN | Hazardous substance
50-00-0 | Formaldehyde.
50-07-7 | Azirino[2′,3′:3,4]pyrrolo[1,2-a]indole-4,7-dione,6-amino-8-[[(aminocarbonyl)oxy]methyl]-1,1a,2,8,8a, 8b-hexahydro-8a-methoxy-5-methyl-, [1aS-(1aalpha, 8beta,8aalpha,8balpha)]-.
| Mitomycin C.
50-18-0 | Cyclophosphamide.
| 2H-1,3,2-Oxazaphosphorin-2-amine, N,N-bis(2-chloroethyl)tetrahydro-, 2-oxide.
50-29-3 | Benzene, 1,1′-(2,2,2- trichloroethylidene)bis[4-chloro-.
| DDT.
| 4,4′-DDT.
50-32-8 | Benzo[a]pyrene.
| 3,4-Benzopyrene.
50-55-5 | Reserpine.
| Yohimban-16-carboxylic acid,11,17-dimethoxy-18-[(3 ,4,5-trimethoxybenzoyl)oxy]-, methyl ester (3beta, 16beta,17alpha,18beta,20alpha)-.
51-28-5 | Phenol, 2,4-dinitro-.
| 2,4-Dinitrophenol.
51-43-4 | Epinephrine.
| 1,2-Benzenediol,4-[1-hydroxy-2-(methylamino) ethyl]-.
51-79-6 | Carbamic acid, ethyl ester.
| Ethyl carbamate.
| Urethane.
52-68-6 | Trichlorfon.
52-85-7 | Famphur.
| Phosphorothioic acid, O-[4-[(dimethylamino) sulfonyl]phenyl] O,O-dimethyl ester.
53-70-3 | Dibenz[a,h]anthracene.
| Dibenzo[a,h]anthracene.
| 1,2:5,6-Dibenzanthracene.
53-96-3 | Acetamide, N-9H-fluoren-2-yl-.
| 2-Acetylaminofluorene.
54-11-5 | Nicotine, & salts.
| Pyridine, 3-(1-methyl-2-pyrrolidinyl)-, (S)-, & salts.
55-18-5 | Ethanamine, N-ethyl-N-nitroso-.
| N-Nitrosodiethylamine.
55-63-0 | Nitroglycerine.
| 1,2,3-Propanetriol, trinitrate.
55-91-4 | Diisopropylfluorophosphate (DFP).
| Phosphorofluororidic acid, bis(1-methylethyl) ester.
56-04-2 | Methylthiouracil.
| 4(1H)-Pyrimidinone, 2,3-dihydro-6-methyl-2-thioxo-.
56-23-5 | Carbon tetrachloride.
| Methane, tetrachloro-.
56-38-2 | Parathion.
| Phosphorothioic acid, O,O-diethyl O-(4-nitrophenyl) ester.
56-49-5 | Benz[j]aceanthrylene, 1,2-dihydro-3-methyl-.
| 3-Methylcholanthrene.
56-53-1 | Diethylstilbestrol.
| Phenol, 4,4′-(1,2-diethyl-1,2-ethenediyl)bis-, (E).
56-55-3 | Benz[a]anthracene.
| Benzo[a]anthracene.
| 1,2-Benzanthracene.
56-72-4 | Coumaphos.
57-14-7 | Hydrazine, 1,1-dimethyl-.
| 1,1-Dimethylhydrazine.
57-24-9 | Strychnidin-10-one, & salts.
| Strychnine, & salts.
57-47-6 | Physostigmine.
| Pyrrolo[2,3-b]indol-5-ol, 1,2,3,3a,8,8a-hexahydro-1,3a,8-trimethyl-, methylcarbamate (ester), (3aS-cis)-.
57-57-8 | beta-Propiolactone.
57-64-7 | Benzoic acid, 2-hydroxy-, compd. with (3aS-cis)-1,2,3,3a,8,8a-hexahydro-1,3a,8-trimethylpyrrolo[2,3-b]indol-5-yl methylcarbamate ester (1:1).
| Physostigmine salicylate.
57-74-9 | Chlordane.
| Chlordane, alpha & gamma isomers.
| CHLORDANE (TECHNICAL MIXTURE AND METABOLITES).
| 4,7-Methano-1H-indene, 1,2,4,5,6,7,8,8- octachloro-2,3,3a,4,7,7a-hexahydro-.
57-97-6 | Benz[a]anthracene, 7,12-dimethyl-.
| 7,12-Dimethylbenz[a]anthracene.
58-89-9 | γ-BHC.
| Cyclohexane, 1,2,3,4,5,6-hexachloro-(1α,2α,3β,4α,5α,6β)-.
| Lindane.
| Lindane (all isomers).
58-90-2 | Phenol, 2,3,4,6-tetrachloro-.
| 2,3,4,6-Tetrachlorophenol.
59-50-7 | p-Chloro-m-cresol.
| Phenol, 4-chloro-3-methyl-.
59-89-2 | N-Nitrosomorpholine.
60-00-4 | Ethylenediamine-tetraacetic acid (EDTA).
60-11-7 | Benzenamine, N,N-dimethyl-4-(phenylazo)-.
| Dimethyl aminoazobenzene.
| p-Dimethylaminoazobenzene.
60-29-7 | Ethane, 1,1′-oxybis-.
| Ethyl ether.
60-34-4 | Hydrazine, methyl-.
| Methyl hydrazine.
60-35-5 | Acetamide.
60-51-5 | Dimethoate.
| Phosphorodithioic acid, O,O-dimethyl S-[2(methylamino)-2-oxoethyl] ester.
60-57-1 | Dieldrin.
| 2,7:3,6-Dimethanonaphth[2,3-b]oxirene, 3,4,5,6,9,9-hexachloro-1a,2, 2a,3,6,6a,7,7a-octahydro-, (1aalpha,2beta,2aalpha,3beta,6beta, 6aalpha,7beta, 7aalpha)-.
61-82-5 | Amitrole.
| 1H-1,2,4-Triazol-3-amine.
62-38-4 | Mercury, (acetato-O)phenyl-.
| Phenylmercury acetate.
62-44-2 | Acetamide, N-(4-ethoxyphenyl)-.
| Phenacetin.
62-50-0 | Ethyl methanesulfonate.
| Methanesulfonic acid, ethyl ester.
62-53-3 | Aniline.
| Benzenamine.
62-55-5 | Ethanethioamide.
| Thioacetamide.
62-56-6 | Thiourea.
62-73-7 | Dichlorvos.
62-74-8 | Acetic acid, fluoro-, sodium salt.
| Fluoroacetic acid, sodium salt.
62-75-9 | Methanamine, N-methyl-N-nitroso-.
| N-Nitrosodimethylamine.
63-25-2 | Carbaryl.
| 1-Naphthalenol, methylcarbamate.
64-00-6 | m-Cumenyl methylcarbamate.
| 3-Isopropylphenyl N-methylcarbamate.
| Phenol, 3-(1-methylethyl)-, methyl carbamate.
64-18-6 | Formic acid.
64-19-7 | Acetic acid.
64-67-5 | Diethyl sulfate.
65-85-0 | Benzoic acid.
66-75-1 | Uracil mustard.
| 2,4-(1H,3H)-Pyrimidinedione, 5-[bis(2-chloroethyl) amino]-.
67-56-1 | Methanol.
| Methyl alcohol.
67-64-1 | Acetone.
| 2-Propanone.
67-66-3 | Chloroform.
| Methane, trichloro-.
67-72-1 | Ethane, hexachloro-.
| Hexachloroethane.
68-12-2 | Dimethylformamide.
70-25-7 | Guanidine, N-methyl-N′-nitro-N-nitroso-.
| MNNG.
70-30-4 | Hexachlorophene.
| Phenol, 2,2′-methylenebis[3,4,6-tri- chloro-.
71-36-3 | n-Butyl alcohol.
| 1-Butanol.
71-43-2 | Benzene.
71-55-6 | Ethane, 1,1,1-trichloro-.
| Methyl chloroform.
| 1,1,1-Trichloroethane.
72-20-8 | Endrin.
| Endrin, & metabolites.
| 2,7:3.6-Dimethanonaphth[2,3-b]oxirene,3,4,5,6,9,9-hexachloro-1a,2,2a,3,6,6a,7,7a-octahydro-, (1aalpha,2beta,2abeta,3alpha, 6alpha,6abeta,7beta,7aalpha)-, & metabolites.
72-43-5 | Benzene, 1,1′-(2,2,2-trichloroethylidene)bis[4- methoxy-.
| Methoxychlor.
72-54-8 | Benzene, 1,1′-(2,2-dichloroethylidene)bis[4-chloro-.
| DDD.
| TDE.
| 4,4′-DDD.
72-55-9 | DDE.
| 4,4′-DDE.
72-57-1 | Trypan blue.
| 2,7-Naphthalenedisulfonic acid, 3,3′-[(3,3′-dimethyl-(l,1′-biphenyl)-4,4′-diyl)-bis(azo)]bis(5-amino-4-hydroxy)-tetrasodium salt.
74-83-9 | Bromomethane.
| Methane, bromo-.
| Methyl bromide.
74-87-3 | Chloromethane.
| Methane, chloro-.
| Methyl chloride.
74-88-4 | Iodomethane.
| Methane, iodo-.
| Methyl iodide.
74-89-5 | Monomethylamine.
74-90-8 | Hydrocyanic acid.
| Hydrogen cyanide.
74-93-1 | Methanethiol.
| Methyl mercaptan.
| Thiomethanol.
74-95-3 | Methane, dibromo-.
| Methylene bromide.
75-00-3 | Chloroethane.
| Ethyl chloride.
75-01-4 | Ethene, chloro-.
| Vinyl chloride.
75-04-7 | Monoethylamine.
75-05-8 | Acetonitrile.
75-07-0 | Acetaldehyde.
| Ethanal.
75-09-2 | Dichloromethane.
| Methane, dichloro-.
| Methylene chloride.
75-15-0 | Carbon disulfide.
75-20-7 | Calcium carbide.
75-21-8 | Ethylene oxide.
| Oxirane.
75-25-2 | Bromoform.
| Methane, tribromo-.
75-27-4 | Dichlorobromomethane.
75-34-3 | Ethane, 1,1-dichloro-.
| Ethylidene dichloride.
| 1,1-Dichloroethane.
75-35-4 | Ethene, 1,1-dichloro-.
| Vinylidene chloride.
| 1,1-Dichloroethylene.
75-36-5 | Acetyl chloride.
75-44-5 | Carbonic dichloride.
| Phosgene.
75-50-3 | Trimethylamine.
75-55-8 | Aziridine, 2-methyl-.
| 2-Methyl aziridine.
| 1,2-Propylenimine.
75-56-9 | Propylene oxide.
75-60-5 | Arsinic acid, dimethyl-.
| Cacodylic acid.
75-64-9 | tert-Butylamine.
75-69-4 | Methane, trichlorofluoro-.
| Trichloromonofluoromethane.
75-71-8 | Dichlorodifluoromethane.
| Methane, dichlorodifluoro-.
75-86-5 | Acetone cyanohydrin.
| Propanenitrile, 2-hydroxy-2-methyl-.
| 2-Methyllactonitrile.
75-87-6 | Acetaldehyde, trichloro-.
| Chloral.
75-99-0 | 2,2-Dichloropropionic acid.
76-01-7 | Ethane, pentachloro-.
| Pentachloroethane.
76-44-8 | Heptachlor.
| 4,7-Methano-1H-indene, 1,4,5,6,7,8,8-heptachloro-3a,4,7,7a-tetrahydro-.
77-47-4 | Hexachlorocyclopentadiene.
| 1,3-Cyclopentadiene, 1,2,3,4,5,5-hexa- chloro-.
77-78-1 | Dimethyl sulfate.
| Sulfuric acid, dimethyl ester.
78-00-2 | Plumbane, tetraethyl-.
| Tetraethyl lead.
78-59-1 | Isophorone.
78-79-5 | Isoprene.
78-81-9 | iso-Butylamine.
78-83-1 | Isobutyl alcohol.
| 1-Propanol, 2-methyl-.
78-87-5 | Propane, 1,2-dichloro-.
| Propylene dichloride.
| 1,2-Dichloropropane.
78-88-6 | 2,3-Dichloropropene.
78-93-3 | 2-Butanone.
| MEK.
| Methyl ethyl ketone.
78-99-9 | 1,1-Dichloropropane.
79-00-5 | Ethane, 1,1,2-trichloro-.
| 1,1,2-Trichloroethane.
79-01-6 | Ethene, trichloro-.
| Trichloroethylene.
79-06-1 | Acrylamide.
| 2-Propenamide.
79-09-4 | Propionic acid.
79-10-7 | Acrylic acid.
| 2-Propenoic acid.
79-11-8 | Chloroacetic acid.
79-19-6 | Hydrazinecarbothioamide.
| Thiosemicarbazide.
79-22-1 | Carbonochloridic acid, methyl ester.
| Methyl chlorocarbonate.
79-31-2 | iso-Butyric acid.
79-34-5 | Ethane, 1,1,2,2-tetrachloro-.
| 1,1,2,2-Tetrachloroethane.
79-44-7 | Carbamic chloride, dimethyl-.
| Dimethylcarbamoyl chloride.
79-46-9 | Propane, 2-nitro-.
| 2-Nitropropane.
80-15-9 | alpha,alpha-Dimethylbenzylhydroperoxide.
| Hydroperoxide, 1-methyl-1-phenylethyl-.
80-62-6 | Methyl methacrylate.
| 2-Propenoic acid, 2-methyl-, methyl ester.
81-81-2 | Warfarin, & salts.
| 2H-1-Benzopyran-2-one, 4-hydroxy-3-(3-oxo-1-phenylbutyl)-, & salts.
82-68-8 | Benzene, pentachloronitro-.
| PCNB.
| Pentachloronitrobenzene.
| Quintobenzene.
83-32-9 | Acenaphthene.
84-66-2 | Diethyl phthalate.
| 1,2-Benzenedicarboxylic acid, diethyl ester.
84-74-2 | Di-n-butyl phthalate.
| Dibutyl phthalate.
| n-Butyl phthalate.
| 1,2-Benzenedicarboxylic acid, dibutyl ester.
85-00-7 | Diquat.
85-01-8 | Phenanthrene.
85-44-9 | Phthalic anhydride.
| 1,3-Isobenzofurandione.
85-68-7 | Butyl benzyl phthalate.
86-30-6 | N-Nitrosodiphenylamine.
86-50-0 | Guthion.
86-73-7 | Fluorene.
86-88-4 | alpha-Naphthylthiourea.
| Thiourea, 1-naphthalenyl-.
87-65-0 | Phenol, 2,6-dichloro-.
| 2,6-Dichlorophenol.
87-68-3 | Hexachlorobutadiene.
| 1,3-Butadiene, 1,1,2,3,4,4-hexachloro-.
87-86-5 | Pentachlorophenol.
| Phenol, pentachloro-.
88-06-2 | Phenol, 2,4,6-trichloro-.
| 2,4,6-Trichlorophenol.
88-72-2 | o-Nitrotoluene.
88-75-5 | o-Nitrophenol.
| 2-Nitrophenol.
88-85-7 | Dinoseb.
| Phenol, 2-(1-methylpropyl)-4,6-dinitro-.
90-04-0 | o-Anisidine.
91-08-7 | Benzene, 1,3-diisocyanatomethyl-.
| Toluene diisocyanate.
| 2,4-Toluene diisocyanate.
91-20-3 | Naphthalene.
91-22-5 | Quinoline.
91-58-7 | beta-Chloronaphthalene.
| Naphthalene, 2-chloro-.
| 2-Chloronaphthalene.
91-59-8 | beta-Naphthylamine.
| 2-Naphthalenamine.
91-66-7 | N,N-Diethylaniline.
91-80-5 | Methapyrilene.
| 1,2-Ethanediamine, N,N-dimethyl-N′-2-pyridinyl-N′- (2-thienylmethyl)-.
91-94-1 | [1,1′-Biphenyl]-4,4′-diamine,3,3′-dichloro-.
| 3,3′-Dichlorobenzidine.
92-52-4 | Biphenyl.
92-67-1 | 4-Aminobiphenyl.
92-87-5 | Benzidine.
| [1,1′-Biphenyl]-4,4′-diamine.
92-93-3 | 4-Nitrobiphenyl.
| Propanoic acid, 2-(2,4,5-trichlorophenoxy)-.
| Silvex (2,4,5-TP).
| 2,4,5-TP acid.
93-76-5 | Acetic acid, (2,4,5-trichlorophenoxy)-.
93-72-1 | 2,4,5-T.
| 2,4,5-T acid.
93-79-8 | 2,4,5-T esters.
94-11-1 | 2,4-D Ester.
94-58-6 | Dihydrosafrole.
| 1,3-Benzodioxole, 5-propyl-.
94-59-7 | Safrole.
| 1,3-Benzodioxole, 5-(2-propenyl)-.
94-79-1 | 2,4-D Ester.
94-80-4 | 2,4-D Ester.
95-47-6 | o-Xylene.
95-48-7 | o-Cresol.
95-50-1 | Benzene, 1,2-dichloro-.
| o-Dichlorobenzene.
| 1,2-Dichlorobenzene.
95-53-4 | Benzenamine, 2-methyl-.
| o-Toluidine.
95-57-8 | o-Chlorophenol.
| Phenol, 2-chloro-.
| 2-Chlorophenol.
95-80-7 | Benzenediamine, ar-methyl-.
| Toluenediamine.
| 2,4-Toluene diamine.
95-94-3 | Benzene, 1,2,4,5-tetrachloro-.
| 1,2,4,5-Tetrachlorobenzene.
95-95-4 | Phenol, 2,4,5-trichloro-.
| 2,4,5-Trichlorophenol.
96-09-3 | Styrene oxide.
96-12-8 | Propane, 1,2-dibromo-3-chloro-.
| 1,2-Dibromo-3-chloropropane.
96-45-7 | Ethylenethiourea.
| 2-Imidazolidinethione.
97-63-2 | Ethyl methacrylate.
| 2-Propenoic acid, 2-methyl-, ethyl ester.
98-01-1 | Furfural.
| 2-Furancarboxaldehyde.
98-07-7 | Benzene, (trichloromethyl)-.
| Benzotrichloride.
98-09-9 | Benzenesulfonic acid chloride.
| Benzenesulfonyl chloride.
98-82-8 | Benzene, (1-methylethyl)-.
| Cumene.
98-86-2 | Acetophenone.
| Ethanone, 1-phenyl-.
98-87-3 | Benzal chloride.
| Benzene, (dichloromethyl)-.
98-88-4 | Benzoyl chloride.
98-95-3 | Benzene, nitro-.
| Nitrobenzene.
99-08-1 | m-Nitrotoluene.
99-35-4 | Benzene, 1,3,5-trinitro-.
| 1,3,5-Trinitrobenzene.
99-55-8 | Benzenamine, 2-methyl-5-nitro-.
| 5-Nitro-o-toluidine.
99-65-0 | m-Dinitrobenzene.
99-99-0 | p-Nitrotoluene.
100-01-6 | Benzenamine, 4-nitro-.
| p-Nitroaniline.
100-02-7 | p-Nitrophenol.
| Phenol, 4-nitro-.
| 4-Nitrophenol.
100-25-4 | p-Dinitrobenzene.
100-41-4 | Ethylbenzene.
100-42-5 | Styrene.
100-44-7 | Benzene, (chloromethyl)-.
| Benzyl chloride.
100-47-0 | Benzonitrile.
100-75-4 | N-Nitrosopiperidine.
| Piperidine, 1-nitroso-.
101-14-4 | Benzenamine, 4,4′-methylenebis[2-chloro-. 4,4′-Methylenebis(2-chloroaniline).
101-27-9 | Barban.
| Carbamic acid, (3-chlorophenyl)-, 4-chloro-2-butynyl ester.
101-55-3 | Benzene, 1-bromo-4-phenoxy-.
| 4-Bromophenyl phenyl ether.
101-68-8 | MDI.
| Methylene diphenyl diisocyanate.
101-77-9 | 4,4′-Methylenedianiline.
103-85-5 | Phenylthiourea.
| Thiourea, phenyl-.
105-46-4 | sec-Butyl acetate.
105-67-9 | Phenol, 2,4-dimethyl-.
| 2,4-Dimethylphenol.
106-42-3 | p-Xylene.
106-44-5 | p-Cresol.
106-46-7 | Benzene, 1,4-dichloro-.
| p-Dichlorobenzene.
| 1,4-Dichlorobenzene.
106-47-8 | Benzenamine, 4-chloro-.
| p-Chloroaniline.
106-49-0 | Benzenamine, 4-methyl-.
| p-Toluidine.
106-50-3 | p-Phenylenediamine.
106-51-4 | p-Benzoquinone.
| 2,5-Cyclohexadiene-1,4-dione.
| Quinone.
106-88-7 | 1,2-Epoxybutane.
106-89-8 | 1-Chloro-2,3-epoxypropane.
| Epichlorohydrin.
| Oxirane, (chloromethyl)-.
106-93-4 | Dibromoethane.
| Ethane, 1,2-dibromo-.
| Ethylene dibromide.
106-94-5 | 1-Bromopropane (BP).
| n-Propyl bromide (nPB).
106-99-0 | 1,3-Butadiene.
107-02-8 | Acrolein.
| 2-Propenal.
107-05-1 | Allyl chloride.
107-06-2 | Ethane, 1,2-dichloro-.
| Ethylene dichloride.
| 1,2-Dichloroethane.
107-10-8 | n-Propylamine.
| 1-Propanamine.
107-12-0 | Ethyl cyanide.
| Propanenitrile.
107-13-1 | Acrylonitrile.
| 2-Propenenitrile.
107-15-3 | Ethylenediamine.
107-18-6 | Allyl alcohol.
| 2-Propen-1-ol.
107-19-7 | Propargyl alcohol.
| 2-Propyn-1-ol.
107-20-0 | Acetaldehyde, chloro-.
| Chloroacetaldehyde.
107-21-1 | Ethylene glycol.
107-30-2 | Chloromethyl methyl ether.
| Methane, chloromethoxy-.
107-49-3 | Diphosphoric acid, tetraethyl ester.
| Tetraethyl pyrophosphate.
107-92-6 | Butyric acid.
108-05-4 | Vinyl acetate.
| Vinyl acetate monomer.
108-10-1 | Hexone.
| Methyl isobutyl ketone.
| 4-Methyl-2-pentanone.
108-24-7 | Acetic anhydride.
108-31-6 | Maleic anhydride.
| 2,5-Furandione.
108-38-3 | m-Xylene.
108-39-4 | m-Cresol.
108-46-3 | Resorcinol.
| 1,3-Benzenediol.
108-60-1 | Dichloroisopropyl ether. Propane, 2,2″-oxybis[2-chloro-.
108-88-3 | Benzene, methyl-.
| Toluene.
108-90-7 | Benzene, chloro-.
| Chlorobenzene.
108-94-1 | Cyclohexanone.
108-95-2 | Phenol.
108-98-5 | Benzenethiol.
| Thiophenol.
109-06-8 | Pyridine, 2-methyl-.
| 2-Picoline.
109-73-9 | Butylamine.
109-77-3 | Malononitrile.
| Propanedinitrile.
109-89-7 | Diethylamine.
109-99-9 | Furan, tetrahydro-.
| Tetrahydrofuran.
110-00-9 | Furan.
| Furfuran.
110-16-7 | Maleic acid.
110-17-8 | Fumaric acid.
110-19-0 | iso-Butyl acetate.
110-54-3 | Hexane.
110-75-8 | Ethene, (2-chloroethoxy)-. 2-Chloroethyl vinyl ether.
110-80-5 | Ethanol, 2-ethoxy-. Ethylene glycol monoethyl ether.
110-82-7 | Benzene, hexahydro-.
| Cyclohexane.
110-86-1 | Pyridine.
111-42-2 | Diethanolamine.
111-44-4 | Bis(2-chloroethyl) ether.
| Dichloroethyl ether.
| Ethane, 1,1′-oxybis[2-chloro-.
111-54-6 | Carbamodithioic acid, 1,2-ethanediylbis-, salts & esters.
| Ethylenebisdithiocarbamic acid, salts & esters.
111-91-1 | Bis(2-chloroethoxy) methane.
| Dichloromethoxy ethane.
| Ethane, 1,1′-[methylenebis(oxy)]bis(2-chloro-.
114-26-1 | Phenol, 2-(1-methylethoxy)-, methylcarbamate.
| Propoxur (Baygon).
115-02-6 | Azaserine.
| L-Serine, diazoacetate (ester).
115-29-7 | Endosulfan.
| 6,9-Methano-2,4,3-benzodioxathiepin, 6,7,8,9,10,10-hexachloro-1,5,5a,6,9,9a- hexahydro-, 3-oxide.
115-32-2 | Dicofol.
116-06-3 | Aldicarb.
| Propanal, 2-methyl-2-(methylthio)-, O-[(methylamino)carbonyl]oxime.
117-80-6 | Dichlone.
117-81-7 | 1,2-Benzenedicarboxylic acid, bis(2-ethylhexyl) ester.
| Bis(2-ethylhexyl)phthalate.
| DEHP.
| Diethylhexyl phthalate.
117-84-0 | Di-n-octyl phthalate.
| 1,2-Benzenedicarboxylic acid, dioctyl ester.
118-74-1 | Benzene, hexachloro-.
| Hexachlorobenzene.
119-38-0 | Carbamic acid, dimethyl-, 3-methyl-1-(1-methylethyl)-1H-pyrazol-5-yl ester.
| Isolan.
119-90-4 | [1,1′-Biphenyl]-4,4′-diamine,3,3′-dimethoxy-.
| 3,3′-Dimethoxybenzidine.
119-93-7 | [1,1′-Biphenyl]-4,4′-diamine,3,3′- dimethyl-.
| 3,3′-Dimethylbenzidine.
120-12-7 | Anthracene.
120-58-1 | Isosafrole.
| 1,3-Benzodioxole, 5-(1-propenyl)-.
120-80-9 | Catechol.
120-82-1 | 1,2,4-Trichlorobenzene.
120-83-2 | Phenol, 2,4-dichloro-.
| 2,4-Dichlorophenol.
121-14-2 | Benzene, 1-methyl-2,4-dinitro-.
| 2,4-Dinitrotoluene.
121-21-1 | Pyrethrins.
121-29-9 | Pyrethrins.
121-44-8 | Ethanamine, N,N-diethyl-.
| Triethylamine.
121-69-7 | N,N-Dimethylaniline.
121-75-5 | Malathion.
122-09-8 | alpha,alpha-Dimethylphenethylamine.
| Benzeneethanamine, alpha,alpha-dimethyl-.
122-42-9 | Carbamic acid, phenyl-, 1-methylethyl ester.
| Propham.
122-66-7 | Hydrazine, 1,2-diphenyl-. 1,2-Diphenylhydrazine.
123-31-9 | Hydroquinone.
123-33-1 | Maleic hydrazide.
| 3,6-Pyridazinedione, 1,2-dihydro-.
123-38-6 | Propionaldehyde.
123-62-6 | Propionic anhydride.
123-63-7 | Paraldehyde.
| 1,3,5-Trioxane, 2,4,6-trimethyl-.
123-73-9 | Crotonaldehyde.
| 2-Butenal.
123-86-4 | Butyl acetate.
123-91-1 | 1,4-Diethyleneoxide.
| 1,4-Dioxane.
123-92-2 | iso-Amyl acetate.
124-04-9 | Adipic acid.
124-40-3 | Dimethylamine.
| Methanamine, N-methyl-.
124-41-4 | Sodium methylate.
124-48-1 | Chlorodibromomethane.
126-72-7 | Tris(2,3-dibromopropyl) phosphate.
| 1-Propanol, 2,3-dibromo-, phosphate (3:1).
126-98-7 | Methacrylonitrile.
| 2-Propenenitrile, 2-methyl-.
126-99-8 | Chloroprene.
127-18-4 | Ethene, tetrachloro-.
| Perchloroethylene.
| Tetrachloroethylene.
127-82-2 | Zinc phenolsulfonate.
129-00-0 | Pyrene.
130-15-4 | 1,4-Naphthalenedione. 1,4-Naphthoquinone.
131-11-3 | Dimethyl phthalate.
| 1,2-Benzenedicarboxylic acid, dimethyl ester.
131-74-8 | Ammonium picrate.
| Phenol, 2,4,6-trinitro-, ammonium salt.
131-89-5 | Phenol, 2-cyclohexyl-4,6-dinitro-.
| 2-Cyclohexyl-4,6-dinitrophenol.
132-64-9 | Dibenzofuran.
133-06-2 | Captan.
133-90-4 | Chloramben.
134-32-7 | alpha-Naphthylamine.
| 1-Naphthalenamine.
137-26-8 | Thioperoxydicarbonic diamide ([H2N)C(S)]2S2, tetramethyl-.
| Thiram.
137-30-4 | Zinc, bis(dimethylcarbamodithioato-S,S')-.
| Ziram.
140-88-5 | Ethyl acrylate.
| 2-Propenoic acid, ethyl ester.
141-78-6 | Acetic acid, ethyl ester.
| Ethyl acetate.
142-28-9 | 1,3-Dichloropropane.
142-71-2 | Cupric acetate.
142-84-7 | Dipropylamine.
| 1-Propanamine, N-propyl-.
143-33-9 | Sodium cyanide Na(CN).
143-50-0 | Kepone.
| 1,3,4-Metheno-2H-cyclobuta[cd]pentalen-2-one,1,1a,3,3a,4,5,5,5a,5b,6-decachlorooctahydro-.
145-73-3 | Endothall.
| 7-Oxabicyclo[221]heptane-2,3-dicarboxylic acid.
148-82-3 | L-Phenylalanine, 4-[bis(2-chloroethyl)amino]-.
| Melphalan.
151-50-8 | Potassium cyanide K(CN).
151-56-4 | Aziridine.
| Ethylenimine.
152-16-9 | Diphosphoramide, octamethyl-.
| Octamethylpyrophosphoramide.
156-60-5 | Ethene, 1,2-dichloro- (E).
| 1,2-Dichloroethylene.
156-62-7 | Calcium cyanamide.
189-55-9 | Benzo[rst]pentaphene.
| Dibenzo[a,i]pyrene.
191-24-2 | Benzo[ghi]perylene.
193-39-5 | Indeno(1,2,3-cd)pyrene.
205-99-2 | Benzo[b]fluoranthene.
206-44-0 | Fluoranthene.
207-08-9 | Benzo(k)fluoranthene.
208-96-8 | Acenaphthylene.
218-01-9 | Chrysene.
225-51-4 | Benz[c]acridine.
297-97-2 | O,O-Diethyl O-pyrazinyl phosphorothioate. Phosphorothioic acid, O,O-diethyl O-pyrazinyl ester.
298-00-0 | Methyl parathion.
| Phosphorothioic acid, O,O-dimethyl O-(4-nitrophenyl) ester.
298-02-2 | Phorate.
| Phosphorodithioic acid, O,O-diethyl S-[(ethylthio) methyl] ester.
298-04-4 | Disulfoton.
| Phosphorodithioic acid, O,O-diethyl S-[2-(ethylthio)ethyl] ester.
300-76-5 | Naled.
301-04-2 | Acetic acid, lead(2 +) salt.
| Lead acetate.
302-01-2 | Hydrazine.
303-34-4 | Lasiocarpine.
| 2-Butenoic acid, 2-methyl-, 7-[[2,3-dihydroxy-2-(1-methoxyethyl)-3-methyl-1-oxobutoxy]methyl]-2,3,5,7a-tetrahydro-1H-pyrrolizin-1-yl ester, [1S-[1alpha(Z),7(2S*,3R*), 7aalpha]]-.
305-03-3 | Benzenebutanoic acid, 4-[bis(2-chloroethyl)amino]-.
| Chlorambucil.
309-00-2 | Aldrin.
| 1,4:5,8-Dimethanonaphthalene, 1,2,3,4,10,10-hexachloro-1,4,4a,5,8,8a-hexahydro-, (1alpha,4alpha,4abeta,5alpha,8alpha, 8abeta)-.
311-45-5 | Diethyl-p-nitrophenyl phosphate.
| Phosphoric acid, diethyl 4-nitrophenyl ester.
315-18-4 | Mexacarbate.
| Phenol, 4-(dimethylamino)-3,5-dimethyl-, methylcarbamate (ester).
319-84-6 | alpha—BHC.
319-85-7 | beta—BHC.
319-86-8 | delta—BHC.
329-71-5 | 2,5-Dinitrophenol.
330-54-1 | Diuron.
333-41-5 | Diazinon.
334-88-3 | Diazomethane.
353-50-4 | Carbon oxyfluoride.
| Carbonic difluoride.
357-57-3 | Brucine.
| Strychnidin-10-one, 2,3-dimethoxy-.
460-19-5 | Cyanogen.
| Ethanedinitrile.
463-58-1 | Carbonyl sulfide.
465-73-6 | Isodrin.
| 1,4:5,8-Dimethanonaphthalene,1,2,3,4,10,10-hexachloro-1,4,4a,5,8,8a-hexahydro-, (1alpha,4alpha,4abeta,5beta,8beta, 8abeta)-.
492-80-8 | Auramine.
| Benzenamine, 4,4′-carbonimidoylbis[N,N-dimethyl-.
494-03-1 | Chlornaphazine.
| Naphthalenamine, N,N′-bis(2-chloroethyl)-.
496-72-0 | Benzenediamine, ar-methyl-.
| Toluenediamine.
| 2,4-Toluene diamine.
504-24-5 | 4-Aminopyridine.
| 4-Pyridinamine.
504-60-9 | 1-Methylbutadiene.
| 1,3-Pentadiene.
506-61-6 | Argentate(1-), bis(cyano-C)-, potassium.
| Potassium silver cyanide.
506-64-9 | Silver cyanide Ag(CN).
506-68-3 | Cyanogen bromide (CN)Br.
506-77-4 | Cyanogen chloride (CN)Cl.
506-87-6 | Ammonium carbonate.
506-96-7 | Acetyl bromide.
509-14-8 | Methane, tetranitro-.
| Tetranitromethane.
510-15-6 | Benzeneacetic acid, 4-chloro-α- (4-chlorophenyl)-α-hydroxy-, ethyl ester.
| Chlorobenzilate.
513-49-5 | sec-Butylamine.
528-29-0 | o-Dinitrobenzene.
532-27-4 | 2-Chloroacetophenone.
534-52-1 | 4,6-Dinitro-o-cresol.
| 4,6-Dinitro-o-cresol, and salts.
| Phenol, 2-methyl-4,6-dinitro-.
| Phenol, 2-methyl-4,6-dinitro-, & salts.
540-73-8 | Hydrazine, 1,2-dimethyl-.
| 1,2-Dimethylhydrazine.
540-84-1 | 2,2,4-Trimethylpentane.
540-88-5 | tert-Butyl acetate.
541-09-3 | Uranyl acetate.
541-53-7 | Dithiobiuret.
| Thioimidodicarbonic diamide [(H2 N)C(S)]2 NH.
541-73-1 | Benzene, 1,3-dichloro-.
| m-Dichlorobenzene.
| 1,3-Dichlorobenzene.
542-62-1 | Barium cyanide.
542-75-6 | 1-Propene, 1,3-dichloro-.
| 1,3-Dichloropropene.
542-76-7 | Propanenitrile, 3-chloro-.
| 3-Chloropropionitrile.
542-88-1 | Bis(chloromethyl)ether.
| Dichloromethyl ether.
| Methane, oxybis(chloro-.
543-90-8 | Cadmium acetate.
544-18-3 | Cobaltous formate.
544-92-3 | Copper cyanide Cu(CN).
554-84-7 | m-Nitrophenol.
557-19-7 | Nickel cyanide Ni(CN)2.
557-21-1 | Zinc cyanide Zn(CN)2.
557-34-6 | Zinc acetate.
557-41-5 | Zinc formate.
563-12-2 | Ethion.
563-68-8 | Acetic acid, thallium(1 +) salt.
| Thallium(I) acetate.
573-56-8 | 2,6-Dinitrophenol.
584-84-9 | Benzene, 1,3-diisocyanatomethyl-.
| Toluene diisocyanate.
| 2,4-Toluene diisocyanate.
591-08-2 | Acetamide, N-(aminothioxomethyl)-.
| 1-Acetyl-2-thiourea.
592-01-8 | Calcium cyanide Ca(CN)2.
592-04-1 | Mercuric cyanide.
592-85-8 | Mercuric thiocyanate.
592-87-0 | Lead thiocyanate.
593-60-2 | Vinyl bromide.
594-42-3 | Methanesulfenyl chloride, trichloro-.
| Trichloromethanesulfenyl chloride.
598-31-2 | Bromoacetone.
| 2-Propanone, 1-bromo-.
606-20-2 | Benzene, 2-methyl-1,3-dinitro-.
| 2,6-Dinitrotoluene.
608-73-1 | HEXACHLOROCYCLOHEXANE (all isomers).
608-93-5 | Benzene, pentachloro-.
| Pentachlorobenzene.
609-19-8 | 3,4,5-Trichlorophenol.
610-39-9 | 3,4-Dinitrotoluene.
615-53-2 | Carbamic acid, methylnitroso-, ethyl ester.
| N-Nitroso-N-methylurethane.
621-64-7 | Di-n-propylnitrosamine.
| 1-Propanamine, N-nitroso-N-propyl-.
624-83-9 | Methane, isocyanato-.
| Methyl isocyanate.
625-16-1 | tert-Amyl acetate.
626-38-0 | sec-Amyl acetate.
628-63-7 | Amyl acetate.
628-86-4 | Fulminic acid, mercury(2 +) salt.
| Mercury fulminate.
630-10-4 | Selenourea.
630-20-6 | Ethane, 1,1,1,2-tetrachloro-.
| 1,1,1,2-Tetrachloroethane.
631-61-8 | Ammonium acetate.
636-21-5 | Benzenamine, 2-methyl-, hydrochloride.
| o-Toluidine hydrochloride.
640-19-7 | Acetamide, 2-fluoro-.
| Fluoroacetamide.
644-64-4 | Carbamic acid, dimethyl-,1-[(dimethyl-amino)carbonyl]-5-methyl-1H-pyrazol-3-yl ester.
| Dimetilan.
680-31-9 | Hexamethylphosphoramide.
684-93-5 | N-Nitroso-N-methylurea.
| Urea, N-methyl-N-nitroso-.
692-42-2 | Arsine, diethyl-.
| Diethylarsine.
696-28-6 | Arsonous dichloride, phenyl-.
| Dichlorophenylarsine.
757-58-4 | Hexaethyl tetraphosphate.
| Tetraphosphoric acid, hexaethyl ester.
759-73-9 | N-Nitroso-N-ethylurea.
| Urea, N-ethyl-N-nitroso-.
764-41-0 | 1,4-Dichloro-2-butene.
| 2-Butene, 1,4-dichloro-.
765-34-4 | Glycidylaldehyde.
| Oxiranecarboxyaldehyde.
815-82-7 | Cupric tartrate.
822-06-0 | Hexamethylene-1,6-diisocyanate.
823-40-5 | Benzenediamine, ar-methyl-.
| Toluenediamine.
| 2,4-Toluene diamine.
924-16-3 | N-Nitrosodi-n-butylamine.
| 1-Butanamine, N-butyl-N-nitroso-.
930-55-2 | N-Nitrosopyrrolidine.
| Pyrrolidine, 1-nitroso-.
933-75-5 | 2,3,6-Trichlorophenol.
933-78-8 | 2,3,5-Trichlorophenol.
959-98-8 | alpha-Endosulfan.
1024-57-3 | Heptachlor epoxide.
1031-07-8 | Endosulfan sulfate.
1066-30-4 | Chromic acetate.
1066-33-7 | Ammonium bicarbonate.
1072-35-1 | Lead stearate.
1111-78-0 | Ammonium carbamate.
1116-54-7 | Ethanol, 2,2′-(nitrosoimino)bis-.
| N-Nitrosodiethanolamine.
1120-71-4 | 1,2-Oxathiolane, 2,2-dioxide.
| 1,3-Propane sultone.
1129-41-5 | Carbamic acid, methyl-, 3-methylphenyl ester.
| Metolcarb.
1185-57-5 | Ferric ammonium citrate.
1194-65-6 | Dichlobenil.
1300-71-6 | Xylenol.
1303-28-2 | Arsenic oxide As2 O5.
| Arsenic pentoxide.
1303-33-9 | Arsenic trisulfide.
1309-64-4 | Antimony trioxide.
1310-58-3 | Potassium hydroxide.
1310-73-2 | Sodium hydroxide.
1314-32-5 | Thallic oxide.
| Thallium oxide Tl2 O3.
1314-62-1 | Vanadium oxide V2 O5.
| Vanadium pentoxide.
1314-80-3 | Phosphorus pentasulfide.
| Phosphorus sulfide.
| Sulfur phosphide.
1314-84-7 | Zinc phosphide Zn3 P2.
1314-87-0 | Lead sulfide.
1319-72-8 | 2,4,5-T amines.
1319-77-3 | Cresol (cresylic acid).
| Cresols (isomers and mixture).
| Cresylic acid (isomers and mixture).
| Phenol, methyl-.
1320-18-9 | 2,4-D Ester.
1321-12-6 | Nitrotoluene.
1327-53-3 | Arsenic oxide As2 O3.
| Arsenic trioxide.
1330-20-7 | Benzene, dimethyl-.
| Xylene.
| Xylene (mixed).
| Xylenes (isomers and mixture).
1331-47-1 | Dichlorobenzidine.
1332-07-6 | Zinc borate.
1332-21-4 | Asbestos.
1333-83-1 | Sodium bifluoride.
1335-32-6 | Lead subacetate.
| Lead, bis(acetato-O)tetrahydroxytri.
1336-21-6 | Ammonium hydroxide.
1336-36-3 | Aroclors.
| PCBs.
| POLYCHLORINATED BIPHENYLS.
1338-23-4 | Methyl ethyl ketone peroxide.
| 2-Butanone peroxide.
1338-24-5 | Naphthenic acid.
1341-49-7 | Ammonium bifluoride.
1464-53-5 | 1,2:3,4-Diepoxybutane.
| 2,2′-Bioxirane.
1563-38-8 | 7-Benzofuranol, 2,3-dihydro-2,2-dimethyl-.
| Carbofuran phenol.
1563-66-2 | 7-Benzofuranol, 2,3-dihydro-2,2-dimethyl-, methylcarbamate.
| Carbofuran.
1582-09-8 | Trifluralin.
1615-80-1 | Hydrazine, 1,2-diethyl-.
| N,N′-Diethylhydrazine.
1634-04-4 | Methyl tert-butyl ether.
1646-88-4 | Aldicarb sulfone.
| Propanal, 2-methyl-2-(methyl-sulfonyl)-, O-[(methylamino)carbonyl] oxime.
1746-01-6 | TCDD.
| 2,3,7,8-Tetrachlorodibenzo-p-dioxin.
1762-95-4 | Ammonium thiocyanate.
1863-63-4 | Ammonium benzoate.
1888-71-7 | Hexachloropropene.
| 1-Propene, 1,1,2,3,3,3-hexachloro-.
1918-00-9 | Dicamba.
1928-38-7 | 2,4-D Ester.
1928-47-8 | 2,4,5-T Esters.
1928-61-6 | 2,4-D Ester.
1929-73-3 | 2,4-D Ester.
2008-46-0 | 2,4,5-T amines.
2032-65-7 | Mercaptodimethur.
| Methiocarb.
| Phenol, (3,5-dimethyl-4-(methylthio)-, methylcarbamate.
2303-16-4 | Carbamothioic acid, bis(1-methylethyl)-, S-(2,3-dichloro-2-propenyl) ester.
| Diallate.
2303-17-5 | Carbamothioic acid, bis(1-methylethyl)-, S-(2,3,3-trichloro-2-propenyl) ester.
| Triallate.
2312-35-8 | Propargite.
2545-59-7 | 2,4,5-T esters.
2631-37-0 | Phenol, 3-methyl-5-(1-methylethyl)-, methyl carbamate.
| Promecarb.
2763-96-4 | 3(2H)-Isoxazolone, 5-(aminomethyl)-.
| 5-(Aminomethyl)-3-isoxazolol.
2764-72-9 | Diquat.
2921-88-2 | Chlorpyrifos.
2944-67-4 | Ferric ammonium oxalate.
2971-38-2 | 2,4-D Ester.
3012-65-5 | Ammonium citrate, dibasic.
3164-29-2 | Ammonium tartrate.
3165-93-3 | Benzenamine, 4-chloro-2-methyl-, hydrochloride.
| 4-Chloro-o-toluidine, hydrochloride.
3251-23-8 | Cupric nitrate.
3288-58-2 | O,O-Diethyl S-methyl dithiophosphate.
| Phosphorodithioic acid, O,O-diethyl S-methyl ester.
3486-35-9 | Zinc carbonate.
3547-04-4 | DDE.
3689-24-5 | Tetraethyldithiopyrophosphate.
| Thiodiphosphoric acid, tetraethyl ester.
3813-14-7 | 2,4,5-T amines.
4170-30-3 | Crotonaldehyde.
| 2-Butenal.
4549-40-0 | N-Nitrosomethylvinylamine.
| Vinylamine, N-methyl-N-nitroso-.
5103-71-9 | Chlordane, alpha isomer.
5103-74-2 | Chlordane, gamma isomer.
5344-82-1 | Thiourea, (2-chlorophenyl)-.
| 1-(o-Chlorophenyl)thiourea.
5952-26-1 | Ethanol, 2,2'-oxybis-, dicarbamate.
| Diethylene glycol, dicarbamate.
5972-73-6 | Ammonium oxalate.
6009-70-7 | Ammonium oxalate.
6369-96-6 | 2,4,5-T amines.
6369-97-7 | 2,4,5-T amines.
6533-73-9 | Carbonic acid, dithallium(1 +) salt.
| Thallium(I) carbonate.
7005-72-3 | 4-Chlorophenyl phenyl ether.
7421-93-4 | Endrin aldehyde.
7428-48-0 | Lead stearate.
7439-92-1 | Lead.
7439-97-6 | Mercury.
7440-02-0 | Nickel.
7440-22-4 | Silver.
7440-23-5 | Sodium.
7440-28-0 | Thallium.
7440-36-0 | Antimony.
7440-38-2 | Arsenic.
7440-41-7 | Beryllium.
| Beryllium powder.
7440-43-9 | Cadmium.
7440-47-3 | Chromium.
7440-50-8 | Copper.
7440-66-6 | Zinc.
7446-08-4 | Selenium dioxide.
| Selenium oxide.
7446-14-2 | Lead sulfate.
7446-18-6 | Sulfuric acid, dithallium(1 +) salt.
| Thallium(I) sulfate.
7446-27-7 | Lead phosphate.
| Phosphoric acid, lead(2 +) salt (2:3).
7447-39-4 | Cupric chloride.
7488-56-4 | Selenium sulfide SeS2.
7550-45-0 | Titanium tetrachloride.
7558-79-4 | Sodium phosphate, dibasic.
7601-54-9 | Sodium phosphate, tribasic.
7631-89-2 | Sodium arsenate.
7631-90-5 | Sodium bisulfite.
7632-00-0 | Sodium nitrite.
7645-25-2 | Lead arsenate.
7646-85-7 | Zinc chloride.
7647-01-0 | Hydrochloric acid.
| Hydrogen chloride.
7647-18-9 | Antimony pentachloride.
7664-38-2 | Phosphoric acid.
7664-39-3 | Hydrofluoric acid.
| Hydrogen fluoride.
7664-41-7 | Ammonia.
7664-93-9 | Sulfuric acid.
7681-49-4 | Sodium fluoride.
7681-52-9 | Sodium hypochlorite.
7697-37-2 | Nitric acid.
7699-45-8 | Zinc bromide.
7705-08-0 | Ferric chloride.
7718-54-9 | Nickel chloride.
7719-12-2 | Phosphorus trichloride.
7720-78-7 | Ferrous sulfate.
7722-64-7 | Potassium permanganate.
7723-14-0 | Phosphorus.
7733-02-0 | Zinc sulfate.
7738-94-5 | Chromic acid.
7758-94-3 | Ferrous chloride.
7758-95-4 | Lead chloride.
7758-98-7 | Cupric sulfate.
7761-88-8 | Silver nitrate.
7773-06-0 | Ammonium sulfamate.
7775-11-3 | Sodium chromate.
7778-39-4 | Arsenic acid H3 AsO4.
7778-44-1 | Calcium arsenate.
7778-50-9 | Potassium bichromate.
7778-54-3 | Calcium hypochlorite.
7779-86-4 | Zinc hydrosulfite.
7779-88-6 | Zinc nitrate.
7782-41-4 | Fluorine.
7782-49-2 | Selenium.
7782-50-5 | Chlorine.
7782-63-0 | Ferrous sulfate.
7782-82-3 | Sodium selenite.
7782-86-7 | Mercurous nitrate.
7783-00-8 | Selenious acid.
7783-06-4 | Hydrogen sulfide H2S.
7783-35-9 | Mercuric sulfate.
7783-46-2 | Lead fluoride.
7783-49-5 | Zinc fluoride.
7783-50-8 | Ferric fluoride.
7783-56-4 | Antimony trifluoride.
7784-34-1 | Arsenic trichloride.
7784-40-9 | Lead arsenate.
7784-41-0 | Potassium arsenate.
7784-46-5 | Sodium arsenite.
7786-34-7 | Mevinphos.
7786-81-4 | Nickel sulfate.
7787-47-5 | Beryllium chloride.
7787-49-7 | Beryllium fluoride.
7787-55-5 | Beryllium nitrate.
7788-98-9 | Ammonium chromate.
7789-00-6 | Potassium chromate.
7789-06-2 | Strontium chromate.
7789-09-5 | Ammonium bichromate.
7789-42-6 | Cadmium bromide.
7789-43-7 | Cobaltous bromide.
7789-61-9 | Antimony tribromide.
7790-94-5 | Chlorosulfonic acid.
7791-12-0 | Thallium chloride TlCl.
7803-51-2 | Hydrogen phosphide.
| Phosphine.
7803-55-6 | Ammonium vanadate.
| Vanadic acid, ammonium salt.
8001-35-2 | Chlorinated camphene.
| Toxaphene.
8003-19-8 | Dichloropropane—Dichloropropene (mixture).
8003-34-7 | Pyrethrins.
8014-95-7 | Sulfuric acid.
10022-70-5 | Sodium hypochlorite.
10025-87-3 | Phosphorus oxychloride.
10025-91-9 | Antimony trichloride.
10026-11-6 | Zirconium tetrachloride.
10028-22-5 | Ferric sulfate.
10031-59-1 | Sulfuric acid, dithallium(1 +) salt.
| Thallium(I) sulfate.
10039-32-4 | Sodium phosphate, dibasic.
10043-01-3 | Aluminum sulfate.
10045-89-3 | Ferrous ammonium sulfate.
10045-94-0 | Mercuric nitrate.
10049-05-5 | Chromous chloride.
10099-74-8 | Lead nitrate.
10101-53-8 | Chromic sulfate.
10101-63-0 | Lead iodide.
10101-89-0 | Sodium phosphate, tribasic.
10102-06-4 | Uranyl nitrate.
10102-18-8 | Sodium selenite.
10102-43-9 | Nitric oxide.
| Nitrogen oxide NO.
10102-44-0 | Nitrogen dioxide.
| Nitrogen oxide NO2.
10102-45-1 | Nitric acid, thallium(1 +) salt.
| Thallium(I) nitrate.
10102-48-4 | Lead arsenate.
10108-64-2 | Cadmium chloride.
10124-50-2 | Potassium arsenite.
10140-65-5 | Sodium phosphate, dibasic.
10192-30-0 | Ammonium bisulfite.
10196-04-0 | Ammonium sulfite.
10361-89-4 | Sodium phosphate, tribasic.
10380-29-7 | Cupric sulfate, ammoniated.
10415-75-5 | Mercurous nitrate.
10421-48-4 | Ferric nitrate.
10544-72-6 | Nitrogen dioxide.
| Nitrogen oxide NO2.
10588-01-9 | Sodium bichromate.
10605-21-7 | Carbamic acid, 1H-benzimidazol-2-yl, methyl ester.
| Carbendazim.
11096-82-5 | Aroclor 1260.
11097-69-1 | Aroclor 1254.
11104-28-2 | Aroclor 1221.
11141-16-5 | Aroclor 1232.
12002-03-8 | Cupric acetoarsenite.
12039-52-0 | Selenious acid, dithallium(1 +) salt.
| Thallium (I) selenite.
12044-79-0 | Arsenic disulfide.
12054-48-7 | Nickel hydroxide.
12125-01-8 | Ammonium fluoride.
12125-02-9 | Ammonium chloride.
12135-76-1 | Ammonium sulfide.
12672-29-6 | Aroclor 1248.
12674-11-2 | Aroclor 1016.
12771-08-3 | Sulfur monochloride.
13463-39-3 | Nickel carbonyl Ni(CO)4, (T-4)-.
13560-99-1 | 2,4,5-T salts.
13597-99-4 | Beryllium nitrate.
13746-89-9 | Zirconium nitrate.
13765-19-0 | Calcium chromate.
| Chromic acid H2CrO4, calcium salt.
13814-96-5 | Lead fluoborate.
13826-83-0 | Ammonium fluoborate.
13952-84-6 | sec-Butylamine.
14017-41-5 | Cobaltous sulfamate.
14216-75-2 | Nickel nitrate.
14258-49-2 | Ammonium oxalate.
14307-35-8 | Lithium chromate.
14307-43-8 | Ammonium tartrate.
14639-97-5 | Zinc ammonium chloride.
14639-98-6 | Zinc ammonium chloride.
14644-61-2 | Zirconium sulfate.
15339-36-3 | Manganese, bis(dimethylcarbamodithioato-S,S')-.
| Manganese dimethyldithiocarbamate.
15699-18-0 | Nickel ammonium sulfate.
15739-80-7 | Lead sulfate.
15950-66-0 | 2,3,4-Trichlorophenol.
16721-80-5 | Sodium hydrosulfide.
16752-77-5 | Ethanimidothioic acid, N-[[(methylamino)carbonyl] oxy]-, methyl ester.
| Methomyl.
16871-71-9 | Zinc silicofluoride.
16919-19-0 | Ammonium silicofluoride.
16923-95-8 | Zirconium potassium fluoride.
17702-57-7 | Formparanate.
| Methanimidamide, N,N-dimethyl-N'-[2-methyl-4-[[(methylamino)carbonyl]oxy]phenyl]-.
17804-35-2 | Benomyl.
| Carbamic acid, [1-[(butylamino)carbonyl]-1H-benzimidazol-2-yl]-, methyl ester.
18883-66-4 | D-Glucose, 2-deoxy-2[[(methylnitrosoamino)-carbonyl]amino]-.
| Glucopyranose, 2-deoxy-2-(3-methyl-3-nitrosoureido)-, D-.
| Streptozotocin.
20816-12-0 | Osmium oxide OsO4, (T-4)-.
| Osmium tetroxide.
20830-81-3 | Daunomycin.
| 5,12-Naphthacenedione, 8-acetyl-10-[(3-amino-2,3,6-trideoxy-alpha-L-lyxo-hexopyranosyl)oxy]-7,8,9,10-tetrahydro-6,8,11-trihydroxy-1-methoxy-, (8S-cis)-.
20859-73-8 | Aluminum phosphide.
22781-23-3 | Bendiocarb.
| 1,3-Benzodioxol-4-ol, 2,2-dimethyl-, methyl carbamate.
22961-82-6 | Bendiocarb phenol.
| 1,3-Benzodioxol-4-ol, 2,2-dimethyl-.
23135-22-0 | Ethanimidothioic acid, 2-(dimethylamino)-N-[[(methylamino)carbonyl]oxy]-2-oxo-, methyl ester.
| Oxamyl.
23422-53-9 | Methanimidamide, N,N-dimethyl-N'-[3-[[(methylamino)-carbonyl]oxy]phenyl]-, monohydrochloride.
| Formetanate hydrochloride.
23564-05-8 | Carbamic acid, [1,2-phenylenebis(iminocarbonothioyl)]bis-, dimethyl ester.
| Thiophanate-methyl.
23950-58-5 | Benzamide, 3,5-dichloro-N-(1,1- dimethyl-2-propynyl)-.
| Pronamide.
25154-54-5 | Dinitrobenzene (mixed).
25154-55-6 | Nitrophenol (mixed).
| Nitrophenols.
25155-30-0 | Sodium dodecylbenzenesulfonate.
25167-82-2 | Trichlorophenol.
25168-15-4 | 2,4,5-T esters.
25168-26-7 | 2,4-D Ester.
25321-14-6 | Dinitrotoluene.
25321-22-6 | Dichlorobenzene.
25376-45-8 | Benzenediamine, ar-methyl-.
| Toluenediamine.
| 2,4-Toluene diamine.
25550-58-7 | Dinitrophenol.
26264-06-2 | Calcium dodecylbenzenesulfonate.
26419-73-8 | 1,3-Dithiolane-2-carboxaldehyde, 2,4-dimethyl-, O-[(methylamino)-carbonyl]oxime.
| Tirpate.
26471-62-5 | Benzene, 1,3-diisocyanatomethyl-.
| Toluene diisocyanate.
| 2,4-Toluene diisocyanate.
26628-22-8 | Sodium azide.
26638-19-7 | Dichloropropane.
26952-23-8 | Dichloropropene.
27176-87-0 | Dodecylbenzenesulfonic acid.
27323-41-7 | Triethanolamine dodecylbenzene sulfonate.
27774-13-6 | Vanadyl sulfate.
28300-74-5 | Antimony potassium tartrate.
30525-89-4 | Paraformaldehyde.
30558-43-1 | Ethanimidothioic acid, 2-(dimethylamino)-N-hydroxy-2-oxo-, methyl ester.
| A2213.
32534-95-5 | 2,4,5-TP esters.
33213-65-9 | beta—Endosulfan.
36478-76-9 | Uranyl nitrate.
37211-05-5 | Nickel chloride.
38622-18-3 | Diphenylhydrazine.
39196-18-4 | Thiofanox.
| 2-Butanone, 3,3-dimethyl-1-(methylthio)-,O-[(methylamino)carbonyl] oxime.
42504-46-1 | Isopropanolamine dodecylbenzenesulfonate.
52628-25-8 | Zinc ammonium chloride.
52740-16-6 | Calcium arsenite.
52888-80-9 | Carbamothioic acid, dipropyl-, S-(phenylmethyl) ester.
| Prosulfocarb.
53467-11-1 | 2,4-D Ester.
53469-21-9 | Aroclor 1242.
55285-14-8 | Carbamic acid, [(dibutylamino)-thio]methyl-, 2,3-dihydro-2,2-dimethyl-7-benzofuranyl ester.
| Carbosulfan.
55488-87-4 | Ferric ammonium oxalate.
55671-32-4 | Cupric oxalate.
56189-09-4 | Lead stearate.
59669-26-0 | Ethanimidothioic acid, N,N'-[thiobis[(methylimino)carbonyloxy]]bis-, dimethyl ester.
| Thiodicarb.
61792-07-2 | 2,4,5-T esters.

[FR Doc. 2022-07541 Filed 4-7-22; 8:45 am]

BILLING CODE 6560-50-P